DEPARTMENT OF DEFENSE

Office of the Secretary

Base Closures and Realignments (BRAC)

AGENCY: Department of Defense.

ACTION: Notice of Recommended Base Closures and Realignments.

SUMMARY: The Secretary of Defense is authorized to recommend military installations inside the United States for closure and realignment in accordance with Section 2914(a) of the Defense Base Closure and Realignment Act of 1990, as amended (Pub. L. 101-510; 10 U.S.C. 2687 note). The Secretary is required to publish his list of recommendations in the Federal Register by May 16, 2005. The list of recommendations is included in the Supplementary Information section.

EFFECTIVE DATE: May 16, 2005.

FOR FURTHER INFORMATION CONTACT: Mr. Mike McAndrew, Base Realignment and Closure Office, ODUSD(I&E), (703) 614-5356.

SUPPLEMENTARY INFORMATION:

A. List of Recommendations

Department of the Army Recommendations

Fort Wainwright, AK

Recommendation: Realign Fort Wainwright, AK, by relocating the Cold Regions Test Center (CRTC) headquarters from Fort Wainwright, AK, to Fort Greely, AK.

Fort Gillem, GA

Recommendation: Close Fort Gillem, GA. Relocate the Headquarters, 1st U.S. Army to Rock Island Arsenal, IL. Relocate the 2nd Recruiting Brigade to Redstone Arsenal, AL. Relocate the 52nd Explosive Ordnance Disposal (EOD) Group to Fort Campbell, KY. Relocate the 81st RRC Equipment Concentration Site to Fort Benning, GA. Relocate the 3rd U.S. Army Headquarters support office to Shaw Air Force Base, SC. Relocate the Headquarters U.S. Forces Command (FORSCOM) VIP Explosive Ordnance Support to Pope Air Force Base, NC. Close the Army-Air Force Exchange System (AAFES) Atlanta Distribution Center and establish an enclave for the Georgia Army National Guard, the remainder of the 81st RRC units and the Criminal Investigation Division (CID) Forensics Laboratory.

Fort McPherson, GA

Recommendation: Close Fort McPherson, GA. Relocate the Headquarters U.S. Army Forces Command (FORSCOM), and the Headquarters U.S. Army Reserve Command (USARC) to Pope Air Force Base, NC. Relocate the Headquarters 3rd U.S. Army to Shaw Air Force Base, SC. Relocate the Installation Management Agency Southeastern Region Headquarters and the U.S. Army Network Enterprise Technology Command (NETCOM) Southeastern Region Headquarters to Fort Eustis, VA. Relocate the Army Contracting Agency Southern Region Headquarters to Fort Sam Houston.

Operational Army (IGPBS)

Recommendation: Realign Fort Bliss, TX by relocating air defense artillery units to Fort Sill and relocating 1st Armored Division and various echelon above division units from Germany and Korea to Fort Bliss, TX. Realign Fort Sill by relocating an artillery (Fires) brigade to Fort Bliss. Realign Fort Hood, TX by relocating maneuver battalions, a support battalion, and aviation units to Fort Bliss, TX. Realign Fort Riley, KS by inactivating various units, activating a Brigade Combat Team (BCT) and relocating 1st Infantry Division units and various echelons above division units from Germany and Korea to Fort Riley, KS. Realign Fort Campbell, KY, by relocating an attack aviation battalion to Fort Riley, KS.

Maneuver Training

Recommendation: Realign Fort Knox, KY, by relocating the Armor Center and School to Fort Benning, GA, to accommodate the activation of an Infantry Brigade Combat Team (BCT) at Fort Knox, KY, and the relocation of engineer, military police, and combat service support units from Europe and Korea. Realign Fort McCoy, WI, by relocating the 84th Army Reserve Regional Training Center to Fort Knox, KY.

U.S. Army Garrison Michigan (Selfridge)

Recommendation: Close United States Army Garrison Michigan at Selfridge, which is located on Selfridge Air National Guard Base. Retain an enclave to support the Dynamic Structural Load Simulator (Bridging) Laboratory and the Water Purification Laboratory on Selfridge.

Fort Monmouth, NJ

Recommendation: Close Fort Monmouth, NJ. Relocate the U.S. Army Military Academy Preparatory School to West Point, NY. Relocate the Joint Network Management System Program Office to Fort Meade, MD. Relocate the Budget/Funding, Contracting, Cataloging, Requisition Processing, Customer Services, Item Management, Stock Control, Weapon System Secondary Item Support, Requirements Determination, Integrated Materiel Management Technical Support Inventory Control Point functions for Consumable Items to Defense Supply Center Columbus, OH, and reestablish them as Defense Logistics Agency Inventory Control Point functions; relocate the procurement management and related support functions for Depot Level Reparables to Aberdeen Proving Ground, MD, and designate them as Inventory Control Point functions, detachment of Defense Supply Center Columbus, OH, and relocate the remaining integrated materiel management, user, and related support functions to Aberdeen Proving Ground, MD. Relocate Information Systems, Sensors, Electronic Warfare, and Electronics Research and Development & Acquisition (RDA) to Aberdeen Proving Ground, MD. Relocate the elements of the Program Executive Office for Enterprise Information Systems and consolidate into the Program Executive Office, Enterprise Information Systems at Fort Belvoir, VA.

Realign Fort Belvoir, VA by relocating and consolidating Sensors, Electronics, and Electronic Warfare Research, Development and Acquisition activities to Aberdeen Proving Ground, MD, and by relocating and consolidating Information Systems Research and Development and Acquisition (except for the Program Executive Office, Enterprise Information Systems) to Aberdeen Proving Ground, MD.

Realign Army Research Institute, Fort Knox, KY, by relocating Human Systems Research to Aberdeen Proving Ground, MD.

Realign Redstone Arsenal, AL, by relocating and consolidating Information Systems Development and Acquisition to Aberdeen Proving Ground, MD.

Realign the PM Acquisition, Logistics and Technology Enterprise Systems and Services (ALTESS) facility at 2511 Jefferson Davis Hwy, Arlington, VA, a leased installation, by relocating and consolidating into the Program Executive Office, Enterprise Information Systems at Fort Belvoir, VA.

Fort Bragg, NC

Recommendation: Realign Fort Bragg, NC, by relocating the 7th Special Forces Group (SFG) to Eglin AFB, FL, and by activating the 4th Brigade Combat Team (BCT), 82d Airborne Division and relocating European-based forces to Fort Bragg, NC.

Single Drill Sergeant School

Recommendation: Realign Fort Benning, GA, and Fort Leonard Wood, MO, by relocating the Drill Sergeant School at each location to Fort Jackson, SC.

Fort Hood, TX

Recommendation: Realign Fort Hood, TX, by relocating a Brigade Combat Team (BCT) and Unit of Employment (UEx) Headquarters to Fort Carson, CO.

Red River Army Depot, TX

Recommendation: Close Red River Army Depot, TX. Relocate the storage and demilitarization functions of the Munitions Center to McAlester Army Ammunition Plant, OK. Relocate the munitions maintenance functions of the Munitions Center to McAlester Army Ammunition Plant, OK, and Blue Grass Army Depot, KY. Relocate the depot maintenance of Armament and Structural Components, Combat Vehicles, Depot Fleet/Field Support, Engines and Transmissions, Fabrication and Manufacturing, Fire Control Systems and Components, and Other to Anniston Army Depot, AL. Relocate the depot maintenance of Powertrain Components, and Starters/Generators to Marine Corps Logistics Base Albany, GA. Relocate the depot maintenance of Construction Equipment to Anniston Army Depot, AL, and Marine Corps Logistics Base Albany, GA. Relocate the depot maintenance of Tactical Vehicles to Tobyhanna Army Depot, PA and Letterkenny Depot, PA. Relocate the depot maintenance of Tactical Missiles to Letterkenny Army Depot, PA. Disestablish the supply, storage, and distribution functions for tires, packaged Petroleum, Oil, and Lubricants, and compressed gases. Relocate the storage and distribution functions and associated inventories of the Defense Distribution Depot to the Defense Distribution Depot, Oklahoma City, OK.

Fort Monroe, VA

Recommendation: Close Fort Monroe, VA. Relocate the U.S. Army Training & Doctrine Command (TRADOC) Headquarters, the Installation Management Agency (IMA) Northeast Region Headquarters, the U.S. Army Network Enterprise Technology Command (NETCOM) Northeast Region Headquarters and the Army Contracting Agency Northern Region Office to Fort Eustis, VA. Relocate the U.S. Army Accessions Command and U.S. Army Cadet Command to Fort Knox, KY.

USAR Command and Control—Southwest

Recommendation: Realign the Joint Force Training Base Los Alamitos, CA by disestablishing the 63rd Regional Readiness Command (RRC) Headquarters, Robinson Hall, USARC and activating a Southwest Regional Readiness Command headquarters at Moffett Field, CA in a new AFRC. Realign Camp Pike Reserve Complex, Little Rock, AR by disestablishing the 90th RRC and activating a Sustainment Brigade. Close the Major General Harry Twaddle United States Armed Forces Reserve Center, Oklahoma City, OK, and relocate the 95th DIV (IT) to Fort Sill, OK. Realign Camp Parks Reserve Forces Training Area, CA, by relocating the 91st Div (TSD) to Fort Hunter Liggett, CA.

USAR Command and Control—Southeast

Recommendation: Realign Birmingham Armed Forces Reserve Center Alabama by disestablishing the 81st Regional Readiness Command, and establishing the Army Reserve Southeast Regional Readiness Command in a new Armed Forces Reserve Center on Fort Jackson, SC. Close Louisville United States Army Reserve Center and relocate the 100th DIV(IT) headquarters to Fort Knox, KY.

USAR Command and Control New England

Recommendation: Close the Westover Armed Forces Reserve Center, Chicopee, Massachusetts, the MacArthur United States Army Reserve Center, Springfield, Massachusetts, the United States Army Reserve Area Maintenance Support Activity, Windsor Locks, Connecticut, and realign the Malony United States Army Reserve Center on Devens Reserve Forces Training Area by disestablishing the 94th Regional Readiness Command, and relocate all units from the closed facilities to a new Armed Forces Reserve Center on Westover Air Reserve Base. Establish an Army Reserve Sustainment Brigade headquarters in the new Armed Forces Reserve Center on Westover Air Reserve Base. Realign Devens Reserve Forces Training Area by relocating the 5th JTF, 654th ASG and the 382nd MP Battalion to the new Armed Forces Reserve Center on Westover Air Reserve Base. The new Armed Forces Reserve Center shall have the capability to accommodate Massachusetts Army National Guard units from the Massachusetts Army National Guard Armory in Agawam Massachusetts, if the state decides to relocate those National Guard units.

USAR Command and Control—Northeast

Recommendation: Realign Pitt USARC, Coraopolis, PA by disestablishing the HQ 99th Regional Readiness Command and establishing a Northeast Regional Readiness Command Headquarters at Fort Dix, NJ. Close Camp Kilmer, NJ and relocate the HQ 78th Division at Fort Dix, NJ. Realign Fort Totten, NY by disestablishing the HQ 77th Regional Readiness Command and establishing a Maneuver Enhancement Brigade at Fort Dix, NJ. Realign Fort Sheridan IL by relocating the 244th Aviation Brigade to Fort Dix, NJ. Realign Fort Dix, NJ by relocating Equipment Concentration Site 27 to the New Jersey Army National Guard Mobilization and Training Equipment Site joint facility at Lakehurst, NJ. Close Charles Kelly Support Center and relocate units to Pitt U.S. Army Reserve Center, PA. Close Carpenter USARC, Poughkeepsie, NY, close McDonald USARC, Jamaica, NY, close Fort Tilden USARC, Far Rockaway, NY, close Muller USARC, Bronx, NY, and relocate units to a new Armed Forces Reserve Center at Fort Totten, NY. Close the United States Army Reserve Center on Fort Hamilton, NY and relocate the New York Recruiting Battalion Headquarters and Army Reserve units into a new Armed Forces Reserve Center on Fort Hamilton, NY. The new AFRC shall have the capacity to accommodate units from the NYARNG 47th Regiment Marcy Armory, Brooklyn and the Brooklyn Bedford Armory/OMS, Brooklyn NY if the state decides to relocate those National Guard units.

USAR Command and Control—Northwest

Recommendation: Close Vancouver Barracks and relocate the 104th Division (IT) to Fort Lewis, WA. Relocate all other units to a new Armed Forces Reserve Center in Vancouver, WA. Close Fort Lawton by disestablishing the 70th Regional Readiness Command, relocate all other units to a new Armed Forces Reserve Center on Fort Lewis, WA and establish a Maneuver Enhancement Brigade. Realign Fort Snelling, MN by disestablishing the 88th Regional Readiness Command and establish the Northwest Regional Readiness Command Headquarters at Fort McCoy, WI. Realign the Wichita U.S. Army Reserve Center by disestablishing the 89th Regional Readiness Command and establishing a Sustainment Unit of Action at the Wichita Army Reserve Center in support of the Northwest Regional Readiness Command at Fort McCoy, WI. Realign Fort Douglas, UT by disestablishing the 96th Regional Readiness Command and establishing a Sustainment Unit of Action in support of the Northwest Regional Readiness Command at Fort McCoy, WI.

RC Transformation in Alabama

Recommendation: Realign Birmingham Armed Forces Reserve Center, Birmingham, Alabama, by relocating Detachment 1, 450th Military Police Company into a new Armed Forces Reserve Center(AFRC) on or near Birmingham Air National Guard Base, Birmingham, Alabama, if the Army is able to acquire land suitable for the construction of the facility. The new AFRC shall have the capability to accommodate the Alabama National Guard units from the following Alabama ARNG Readiness Centers: Fort Graham, Fort Hanna and Fort Terhune, Birmingham, Alabama, if the state decides to relocate those National Guard units.

Close the Wright United States Army Reserve Center, Mobile, Alabama and relocate units into a new Armed Forces Reserve Center in Mobile, Alabama, if the Army is able to acquire land suitable for the construction of the facility. The new AFRC shall have the capability to accommodate Alabama National Guard units from the following Alabama ARNG Readiness Centers: Fort Ganey, and Fort Hardeman, Mobile, Alabama, if the state decides to relocate those National Guard units.

Close the Faith Wing United States Army Reserve Center on Fort McClellan, Alabama and relocate units into a new Armed Forces Reserve Center on Pelham Range in Anniston, Alabama.

Close the Finnell United States Army Reserve Center and the Area Maintenance Support Activity, Tuscaloosa, Alabama, and the Vicksburg United States Army Reserve Center, Vicksburg, Mississippi, and relocate units into a new Armed Forces Reserve Center and Area Maintenance Support Activity (AMSA) in Tuscaloosa, Alabama, if the Army is able to acquire land suitable for the construction of the facilities. The new AFRC and AMSA shall have the capability to accommodate the 31st Chemical Brigade from the Northport Alabama Army National Guard Readiness Center, and units from the Fort Powell-Shamblin Alabama Army National Guard Readiness Center, Tuscaloosa, Alabama, if the state decides to relocate those National Guard units.

Close the Screws Army Reserve Center in Montgomery, Alabama; close the Cleveland Abbot Army Reserve Center, Tuskegee, Alabama; close the Harry Gary, Jr. Army Reserve Center, in Enterprise, Alabama; close the Quarles-Flowers Army Reserve Center in Decatur, Alabama; close the Grady Anderson Army Reserve Center, Troy, Alabama; and relocate all units to a new Armed Forces Reserve Center (AFRC) at the Alabama Army National Guard Joint Forces Headquarters Complex in Montgomery, AL, if the Army is able to acquire suitable property for the construction of the facilities. The new AFRC shall have the capability to accommodate ARNG units currently located on the Alabama Army National Guard Joint Forces Headquarters Complex in Montgomery, Alabama, if the state decides to relocate those National Guard units.

RC Transformation in Arizona

Recommendation: Close the United States Army Reserve Center, Allen Hall near Tucson Arizona and the Area Maintenance Support Activity 18 on Fort Huachuca, Arizona by relocating all units from the closed facilities to an Armed Forces Reserve Center and maintenance facility on the Arizona Army National Guard Silverbell Army Heliport/Pinal Air Park in Marana, Arizona, if the Army is able to acquire suitable land for the construction of the facilities. The new AFRC shall have the capability to accommodate the Arizona National Guard 860th MP Company and the 98th Troop Command from Papago Park Readiness Center, if the State of Arizona decides to relocate those units.

Close the Deer Valley United States Army Reserve Center (#2) in Phoenix and re-locate units to a new Armed Forces Reserve Center on the Arizona Army National Guard Buckeye Training Site. The new AFRC shall have the capability to accommodate units from the Army National Guard Phoenix Readiness Center, if the State of Arizona decides to relocate those units.

RC Transformation in Arkansas

Recommendation: Close the United States Army Reserve Center, Arkadelphia, Arkansas and re-locate units into a new Armed Forces Reserve Center in Arkadelphia, if the Army is able to acquire suitable land for the construction of the facilities. The new AFRC shall have the capability to accommodate Arkansas National Guard units from the Arkansas Army National Guard Readiness Center, Arkadelphia if the State of Arkansas decides to relocate those units.

Close the United States Army Reserve Center, Camden, Arkansas and relocate units into an Armed Forces Reserve Center by converting the Arkansas Army National Guard Readiness Center, Camden if the state decides to alter their facility.

Close the United States Army Reserve Center, El Dorado, Arkansas and re-locate units into a new Armed Forces Reserve Center in El Dorado, if the Army is able to acquire suitable land for the construction of the facilities. The new AFRC shall have the capability to accommodate Arkansas National Guard units from the Arkansas Army National Guard Readiness Center, El Dorado if the state decides to relocate those National Guard units.

Realign the Army Reserve Center, Darby, Arkansas, by relocating the 341st Engineer Company and elements of the 75th Division (Exercise) from buildings #2552-2560, 2516, and 2519, Fort Chaffee, AR into a new Armed Forces Reserve Center, on Fort Chaffee, AR. The new AFRC shall have the capability to accommodate Arkansas National Guard units from the following Arkansas National Guard Readiness Centers: the Arkansas Army National Guard Readiness Center, Charleston, AR, the Arkansas Army National Guard Readiness Center, Van Buren, AR, and the Arkansas Army National Guard Readiness Center, Fort Smith, AR, if the state decides to relocate those National Guard units.

Close the Army Reserve Equipment Concentration Site (ECS), Barling, Arkansas and relocate units to a new Joint Maintenance Facility on Fort Chaffee, Arkansas. The new Joint Maintenance Facility shall have the capability to accommodate Arkansas National Guard units from the Arkansas Army National Guard Combined Support Maintenance Shop (CSMS) on Fort Chaffee if the State of Arkansas decides to relocate those units.

Close the United States Army Reserve Center, Hot Springs, Arkansas and the United States Army Reserve Organizational Maintenance Activity (OMS), Malvern, AR and relocate units to a new Armed Forces Reserve Center on property located in Hot Springs, AR, if the Army is able to acquire suitable land for the construction of the facilities. The new AFRC shall have the capability to accommodate Arkansas Army National Guard units from the Arkansas Army National Guard Readiness Center in Hot Springs, AR if the State of Arkansas decides to relocate those units.

Close the United States Army Reserve Center, Jonesboro, Arkansas and relocate units into a new Armed Forces Reserve Center and Field Maintenance Site in Jonesboro, AR if the Army is able to acquire suitable land for the construction of the facilities. The new AFRC shall have the capability to accommodate Arkansas National Guard units from the Arkansas Army National Guard Readiness Center, Jonesboro, AR, the Arkansas Army National Guard Readiness Center, Paragould, AR and the Field Maintenance Site (FMS), Jonesboro, if the state decides to relocate those National Guard units. Close the Pond United States Army Reserve Center, Fayetteville, Arkansas and re-locate units into a new Armed Forces Reserve Center in Northwest Arkansas, if the Army is able to acquire suitable land for the construction of the facilities. The new AFRC shall have the capability to accommodate Arkansas National Guard units from the Arkansas Army National Guard Readiness Centers in Fayetteville, Springdale, Rogers and Bentonville, Arkansas if the State of Arkansas decides to relocate those units.

Close the Stone United States Army Reserve Center, Pine Bluff, Arkansas and re-locate units into a new Armed Forces Reserve Center on Pine Bluff Arsenal, Arkansas. The new AFRC shall have the capability to accommodate Arkansas National Guard units from the Arkansas Army National Guard Readiness Center, Pine Bluff if the state decides to relocate those National Guard units.

RC Transformation in California

Recommendation: Close the United States Army Reserve Center, Moffett Field, California, the George Richey United States Army Reserve Center, San Jose, California, and the Jones Hall United States Army Reserve Center, Mountain View, California and relocate units to a new Armed Forces Reserve Center with an Organizational Maintenance Shop on existing Army Reserve property on Moffett Field, California. The new AFRC shall have the capability to accommodate California National Guard Units from the following California ARNG Readiness Centers: Sunnyvale, California, San Lorenzo, California, Redwood City, California, and the Organizational Maintenance Shop, San Jose, California, if the state decides to relocate those National Guard units.

Close the Desiderio United States Army Reserve Center, Pasadena, California, the Schroeder Hall United States Army Reserve Center, Long Beach, California, the Hazard Park United States Army Reserve Center, Los Angeles, California, and relocate units to a new Armed Forces Reserve Center on property being transferred to the Army Reserve from the General Services Administration at Bell, California. The new AFRC shall have the capability to accommodate California National Guard Units from the following California ARNG Readiness Centers: Bell, California, and Montebello, California, if the state decides to relocate those National Guard units.

RC Transformation in Connecticut

Recommendation: Close Turner U.S. Army Reserve Center, Fairfield, CT, close Sutcovey U.S. Army Reserve Center, Waterbury, CT; close Danbury U.S. Army Reserve Center Danbury, CT, and relocate units to a new Armed Forces Reserve Center and Maintenance Facility in Newtown, CT, if the Army is able to acquire land suitable for the construction of the facilities adjacent to the existing CT Army National Guard Armory in Newtown, CT. The new AFRC and OMS shall have the capability to accommodate units from the following facilities: Connecticut Army National Guard Armories in Naugatuck, Norwalk and New Haven, CT, if the state decides to relocate those National Guard units.

Close the U.S. Army Reserve Center, Middletown, CT, the Organizational Maintenance Shop, Middletown, CT; the SGT Libby U.S. Army Reserve Center, New Haven, CT; the Organizational Maintenance Shop, New Haven, CT; the Army Reserve Area Maintenance Support Activity #69, Milford, CT and relocate units to a new Armed Forces Reserve Center, Organizational Maintenance Shop and Army Maintenance Support Activity in Middletown, Connecticut, if the Army is able to acquire land suitable for the construction of the facilities. The new AFRC, OMS and AMSA shall have the capability to accommodate units from the following facilities: Connecticut Army National Guard Armories in Putnam, Manchester, New Britain and the CTARNG facility in Newington, CT if the state decides to relocate those National Guard units.

RC Transformation in Delaware

Recommendation: Close the Major Robert Kirkwood United States Army Reserve Center and its organizational maintenance shop in Newark, DE and relocate units to a new Armed Forces Reserve Center and organizational maintenance support facility in Newark, DE, if the Army is able to acquire suitable land for the construction of the facilities. The new AFRC shall have the capability to accommodate Delaware Army National Guard units from the William Nelson Armory in Middletown, DE, if the state decided to relocate those units.

RC Transformation in Georgia

Recommendation: Close the United States Army Reserve Center, Columbus, GA and relocate and consolidate those units together with Army Reserve Units currently on Fort Benning into a new United States Army Reserve Center on Fort Benning, GA.

RC Transformation in Hawaii

Recommendation: Close the United States Army Reserve Center, Hilo (SFC Minoru Kunieda), HI and relocate units to a new Armed Forces Reserve Center on Keaukaha Military Reservation if the Army can acquire suitable land for the construction of the new facilities. The New AFRC shall have the capability to accommodate Hawaii National Guard units from the following Hawaii ARNG Armories: Keaau and Honokaa if the state decides to relocate those units.

RC Transformation in Illinois

Recommendation: Close the United States Army Reserve Center in Marion, IL, and relocate units to a new Armed Forces Reserve Center in Carbondale, IL, if the Army is able to acquire suitable land for the construction of the facilities. The new AFRC shall have the capability to accommodate Illinois National Guard Units from the following Army National Guard Readiness Centers: Cairo, IL and Carbondale, IL, if the State of Illinois decides to relocate those units.

Close the United States Army Reserve Center in Centralia, IL and the United States Army Reserve Center in Fairfield, IL, and relocate units to a new Armed Forces Reserve Center in Mt. Vernon, IL. The new AFRC shall have the capability to accommodate Illinois National Guard Units from the following Army National Guard Readiness Centers: Mt. Vernon (17B75), IL, Mt. Vernon (17B73), IL, and Salem (17C65), IL, if the State of Illinois decides to relocate those units.

Close the Armed Forces Reserve Center in Waukegan, IL and relocate units into a new Armed Forces Reserve Center in Lake County, IL, if the Army is able to acquire suitable land for the construction of the facilities. The new AFRC shall have the capability to accommodate Illinois National Guard Units from the Army National Guard Readiness Center in Waukegan, IL, if the State of Illinois decides to relocate those units.

RC Transformation in Indiana

Recommendation: Close Lafayette United States Army Reserve Center in Lafayette, IN and relocate units into a new Armed Forces Reserve Center (AFRC) on the site of the existing Indiana Army Guard Armory (18B75) Lafayette, IN, if the Army is able to acquire land suitable for the construction of the facility. The new AFRC shall have the capability to accommodate the Indiana National Guard units from the following Indiana ARNG Readiness Centers: Boswell, IN, Attica, IN, Delphi, IN, Remington, IN, Monticello, IN, and Darlington, IN, if the state decides to relocate those National Guard units.

Realign Charles H. Seston United States Army Reserve Center by relocating the 402nd Engineer Company and Detachment 1 of the 417th Petroleum Company into a new Armed Forces Reserve Center in the vicinity of Greenwood and Franklin, IN, if the Army is able to acquire land suitable for the construction of the facility. The new AFRC shall have the capability to accommodate the Indiana National Guard units from the Camp Atterbury Army National Guard Readiness Center (building #500), and the 219th Area Support Group Readiness Center (Building #4), Camp Atterbury, IN, if the state decides to relocate those National Guard units.

RC Transformation in Iowa

Recommendation: Close the Recruiting Battalion Headquarters and Military Entrance Processing Station (MEPS) leased facilities in Des Moines and relocate units into a new Armed Forces Reserve Center and MEPS at Camp Dodge, IA. The new AFRC shall have the capability to accommodate units from the Army National Guard Readiness Center located at Camp Dodge, IA, if the state decides to relocate those National Guard units.

Close the United States Army Reserve Center and the Area Maintenance Support Activity in Middletown, IA and relocate units into a new Armed Forces Reserve Center (AFRC) with an Organizational Maintenance and Vehicle Storage Facility on Iowa Army Ammunition Plant, IA. The new AFRC shall have the capability to accommodate units from the Burlington Army National Guard Readiness Center located in Burlington, IA, if the state decides to relocate those National Guard units.

Close the United States Army Reserve Center in Muscatine, IA and relocate units into a new Armed Forces Reserve Center (AFRC) in Muscatine, IA, if the Army is able to acquire land suitable for the construction of the facility. The new AFRC shall have the capability to accommodate units from the Muscatine Army National Guard Readiness Center located in Muscatine, IA, if the state decides to relocate those National Guard units.

Close the Armed Forces Reserve Center in Cedar Rapids, IA and relocate units into a new Armed Forces Reserve Center (AFRC) with an Organizational Maintenance Facility (OMF) in Cedar Rapids, IA, if the Army is able to acquire land suitable for the construction of the facility. The new AFRC shall have the capability to accommodate units from the Cedar Rapids Army National Guard Readiness Center and its Organizational Maintenance Facility located in Cedar Rapids, IA, if the state decides to relocate those National Guard units.

RC Transformation in Kentucky

Recommendation: Close the Richmond U.S. Army Reserve Center, Maysville U.S. Army Reserve Center and relocate and consolidate those units with Army Reserve units currently on Bluegrass Army Depot into a new Armed Forces Reserve Center (AFRC) and Field Maintenance Facility (FMS) on Blue Grass Army Depot, KY. The new AFRC shall have the capability to accommodate Kentucky National Guard units located on Bluegrass Army Depot, KY, if the state decides to relocate those National Guard units.

Close the Paducah Memorial United States Army Reserve Center and the Paducah #2 United States Army Reserve Center and relocate units into a new Armed Forces Reserve Center (AFRC) and Field Maintenance Shop (FMS) adjacent to the Paducah Airport, Paducah, KY, if the Army is able to acquire land suitable for the construction of the facilities. The new AFRC and FMS shall have the capability to accommodate units from the Paducah Army National Guard Readiness Center and the Kentucky Army National Guard Organizational Maintenance Shop (OMS) #2, Paducah, KY, if the state decides to relocate those National Guard units.

RC Transformation in Louisiana

Recommendation: Close the Roberts United States Army Reserve Center Baton Rouge, LA and the Navy-Marine Corps Reserve Center, Baton Rouge, LA, and relocate units to a new Armed Forces Reserve Center and Field Maintenance Shop on suitable state property adjacent to the Baton Rouge Airport (State Property). The new AFRC shall have the capability to accommodate Louisiana National Guard Units from the Army National Guard Readiness Center located in Baton Rouge, LA and the Army National Guard Organizational Maintenance Shop #8 located in Baton Rouge, LA if the State of Louisiana decides to relocate those National Guard units.

Close United States Army Reserve Center, Shreveport, LA, and the United States Army Reserve Center, Bossier City, LA and relocate all Reserve Component units to a new Armed Forces Reserve Center that will be constructed on or adjacent to the Naval-Marine Corps Reserve Center, Shreveport in Bossier City, LA if the Army is able to acquire suitable property for construction of the facilities.

RC Transformation in Maryland (AFRC Frederick, MD)

Recommendation: Close the Flair Memorial Armed Forces Reserve Center and its organizational maintenance shop in Frederick, MD and relocate U.S. Army Reserve and U.S. Marine Corps Reserve units to new consolidated Armed Forces Reserve Center and organizational maintenance support facility on Fort Detrick, MD.

RC Transformation in Massachusetts

Recommendation: Close the Army Reserve Equipment Concentration Site 65 Annex, Ayer, MA and relocate units to a new Armed Forces Reserve Center in Ayer, MA; realign the Devens Reserve Forces Training Area, MA, by relocating the 323d Maintenance Facility, and the Regional Training Site Maintenance to a new Armed Forces Reserve Center complex in Ayer, MA; realign Ayer Area 3713 by relocating storage functions to a new Armed Forces Reserve Center complex in Ayer, MA. Realign the Marine Corps Reserve Center Ayer, MA, by relocating the 1/25th Marines Maintenance Facility, Marine Corps Reserve Electronic Maintenance Section, and Maintenance Company/4th Marine Battalion to a new Armed Forces Reserve Center complex in Ayer, MA. The new Armed Forces Reserve Center complex shall have the capability to accommodate all Reserve units affected by this recommendation including Army National Guard units from the Ayer Armory and Consolidated Support Maintenance Shop, Ayer, MA, if the state decides to relocate the National Guard units.

RC Transformation in Michigan

Recommendation: Close the U.S. Army Reserve Center Stanford C. Parisian in Lansing, MI, close the Army Reserve Area Maintenance Support Activity #135 in Battle Creek, MI, and relocate units to a new Armed Forces Reserve Center on Fort Custer Reserve Training Center, MI.

RC Transformation in Minnesota

Recommendation: Close U.S. Army Reserve Center Faribault, MN and relocate units to a new Armed Forces Reserve Center at Faribault Industrial Park if the Army is able to acquire suitable land for the construction of the facilities. The new AFRC shall have the capability to accommodate units from the Faribault Minnesota Army National Guard Armory, if the state decides to relocate those units.

Close U.S. Army Reserve Center Cambridge, MN and relocate units to a new Armed Forces Reserve Center in Cambridge, MN if the Army is able to acquire suitable land for the construction of the facilities. The new AFRC shall have the capability to accommodate Minnesota ARNG units from the Cambridge Minnesota Army National Guard Armory, if the state decides to relocate those units.

RC Transformation in Missouri

Recommendation: Close the United States Army Reserve Center in Greentop, MO, and relocate units to a new United States Army Reserve Center in Kirksville, MO, if the Army is able to acquire suitable land for the construction of the facilities.

Close the Jefferson Barracks United States Army Reserve Center, and relocate units into a new consolidated Armed Forces Reserve Center on Jefferson Barracks, MO, if the Army is able to acquire suitable land for the construction of the facilities. The new AFRC shall have the capability to accommodate Missouri Army National Guard Units from the Readiness Center in Jefferson Barracks if the State of Missouri decides to relocate those units.

RC Transformation in Montana

Recommendation: Close Galt Hall Army Reserve Center in Great Falls, MT and relocate units to a new Armed Forces Reserve Center on Malmstrom Air Force Base, Great Falls, MT.

Close Army Reserve Center Veuve Hall (building #26) and Area Maintenance Support Activity #75 on Fort Missoula, MT, and relocate units to a new Armed Forces Reserve Center in Missoula, MT if the Army is able to acquire suitable land for the construction of the facilities. The new AFRC shall have the capability to accommodate Montana National Guard units from the Montana Army National Guard Armory in Missoula, MT, if the state decides to relocate those National Guard units.

RC Transformation in Nebraska

Recommendation: Close the United States Army Reserve Center in Wymore, NE, and relocate units to a new Armed Forces Reserve Center with an organizational maintenance facility in the vicinity of Beatrice, NE, if the Army is able to acquire land suitable for the construction of the facilities. The new AFRC shall have the capability to accommodate Nebraska National Guard Units from the following Nebraska ARNG Readiness Centers: Fairbury, NE, Falls City, NE and Troop C, 1-167th Cavalry in Beatrice, NE, if the state decides to relocate those National Guard units.

Close the United States Army Reserve Center in Columbus, NE, and relocate units to a new Armed Forces Reserve Center in Columbus, NE. The new AFRC shall have the capability to accommodate Nebraska National Guard Units from the Nebraska ARNG Readiness Center, Columbus, NE, if the state decides to relocate those National Guard units.

Close the United States Army Reserve Center in Hastings, NE, and relocate units to a new Armed Forces Reserve Center on Greenlief Training Site in Nebraska. The new AFRC shall have the capability to accommodate Nebraska National Guard Units from the following Nebraska ARNG Readiness Centers: Grand Island, NE, Crete, NE, and Hastings, NE, if the state decides to relocate those National Guard units.

Close the United States Army Reserve Center in Kearney, NE, and relocate units to a new Armed Forces Reserve Center in Kearney, NE if the Army is able to acquire suitable land for the construction of the facilities. The new AFRC shall have the capability to accommodate Nebraska National Guard Units from the Nebraska ARNG Readiness Center, Kearney, NE, if the state decides to relocate those National Guard units.

Close the United States Army Reserve Center in McCook, NE, and relocate units to a new Armed Forces Reserve Center in McCook, NE, if the Army is able to acquire suitable land for the construction of the facilities. The new AFRC shall have the capability to accommodate Nebraska National Guard Units from the Nebraska ARNG Readiness Center, McCook, NE, if the state decides to relocate those National Guard units.

RC Transformation in New Hampshire

Recommendation: Close Paul Doble Army Reserve Center in Portsmouth, NH; and relocate units to a new Armed Forces Reserve Center and associated training and maintenance facilities adjacent to Pease Air National Guard Base, NH, if the Army is able to acquire suitable land for the construction of the facilities. The new AFRC and complex will have the capability to accommodate New Hampshire National Guard units from the following New Hampshire ARNG Armories: Rochester, Portsmouth, Somersworth and Dover, NH, if the state decides to relocate those National Guard units.

RC Transformation in New Jersey

Recommendation: Close the Nelson Brittin Army Reserve Center in Camden, NJ and relocate units to a new consolidated Armed Forces Reserve Center in Camden, NJ, if the Army can acquire suitable land for the construction of the new facilities. The New AFRC shall have the capability to accommodate units from the New Jersey ARNG Armory, Burlington, if the state decides to relocate those units.

RC Transformation in New Mexico

Recommendation: Close the Jenkins Armed Forces Reserve Center located in Albuquerque, New Mexico and relocate the units into a new Armed Forces Reserve Center on Kirtland Air Force Base.

RC Transformation in New York

Recommendation: Close the United States Army Reserve Center, Stewart-Newburg, NY and relocate units to a new Armed Forces Reserve Center on Stewart Army Sub Post adjacent to Stewart Air National Guard Base, NY. The new AFRC shall have the capability to accommodate New York National Guard units from the Readiness Center at Newburg, NY, if the State of New York decides to relocate those National Guard units.

Close the United States Army Reserve Center and Army Maintenance Support Activity, Niagara Falls, NY and construct a new Armed Forces Reserve Center on the existing site in Niagara Falls, NY. The New AFRC shall have the capability to accommodate the NY National Guard units from the Niagara Falls Readiness Center, if the state of New York decides to relocate those National Guard units.

Close the BG Theodore Roosevelt United States Army Reserve Center, Uniondale, NY, the Amityville Armed Forces Reserve Center (Army Reserve and Marine Corps Reserve), Amityville, NY, and relocate units into a new Armed Forces Reserve Center with an Organizational Maintenance Shop on federal property licensed to the New York Army National Guard in Farmingdale, NY. The new AFRC shall have the capability to accommodate New York National Guard units from the following New York Army National Guard Readiness Centers: Bayshore, Freeport, Huntington Station, Patchogue and Riverhead, and Organizational Maintenance Shop 21, Bayshore, NY, if the State of New York decides to relocate those National Guard units.

RC Transformation in North Carolina

Recommendation: Close the Army Reserve Adrian B. Rhodes Armed Forces Reserve Center in Wilmington, NC, close the Rock Hill Armed Forces Reserve Center in Rock Hill, South Carolina, close the Niven Armed Forces Reserve Center in Albermarle, NC and relocate all Army and Navy units to a new Armed Forces Reserve Center (AFRC) and Organizational Maintenance Shop (OMS) in Wilmington, NC, if the Army is able to acquire suitable land for the construction of the facilities.

RC Transformation in North Dakota

Recommendation: Close 96th RRC David Johnson USARC in Fargo, ND and relocate into a new Reserve Center on Hector Field Air National Guard Base.

RC Transformation in Ohio

Recommendation: Close the Scouten Army Reserve Center, Mansfield, OH and the Parrott Army Reserve Center, Kenton, OH, and relocate all units to a new AFRC at Mansfield Air National Guard Base located at Mansfield-Lahm Airport. The new AFRC shall have the capability to accommodate units from the following facilities: Ohio ARNG Armories in Mansfield and Ashland, OH, if the state decides to relocate those National Guard units.

Close U.S. Army Reserve Center, Springfield OH, and relocate all units to a new Armed Forces Reserve Center on the Springfield Air National Guard Base, Springfield, OH. The new AFRC shall have the capability to accommodate units from the following facility: Ohio ARNG Readiness Center, Springfield, OH; if the state decides to relocate those National Guard units.

Close Fort Hayes U.S. Army Reserve Center, Columbus, OH and Whitehall U.S. Army Reserve Center, Whitehall, OH and relocate units to a new Armed Forces Reserve Center on Defense Supply Center Columbus, OH. The new AFRC shall have the capability to accommodate units from the following facilities: Ohio ARNG Armories Howey (Columbus), Sullivant (Columbus), Newark, Westerville and Oxford, OH, Rickenbacker Air National Guard Base, Building #943 if the state decides to relocate those National Guard units.

RC Transformation in Oklahoma

Recommendation: Close the Armed Forces Reserve Center (AFRC) Broken Arrow located in Broken Arrow, OK and relocate the Army Reserve, Marine Corps Reserve and Naval Reserve units into a new Armed Forces Reserve Center and consolidated maintenance facility in Broken Arrow, OK if the Army is able to acquire suitable land for the construction of the facility. The new AFRC shall have the capability to accommodate Oklahoma Army National Guard units from the following Oklahoma Army National Guard Readiness Centers: Broken Arrow, Eufaula, Okmulgee, Tahlequah, Haskell, Cushing, Wagoner and the Field Maintenance Shop (FMS 14) located in Okmulgee, if the State of Oklahoma decides to relocate those National Guard units.

Close the Keathley and Burris United States Army Reserve Centers located in Lawton and Chickasha, OK; close the Wichita Falls United States Army Reserve Center in Wichita Falls, TX; close the 1st, 3rd, 5th, and 6th United States Army Reserve Centers and Equipment Concentration Site (ECS) located on Fort Sill and relocate units into a new Armed Forces Reserve Center on Fort Sill, OK and a new United States Army Reserve Equipment Concentration Site to be collocated with the Oklahoma Army National Guard Maneuver Area Training Equipment Site on Fort Sill. The new AFRC shall have the capability to accommodate Oklahoma Army National Guard units from the following Oklahoma Army National Guard Readiness Centers: Lawton, Frederick, Anadarko, Chickasha, Marlow, Walters, and Healdton; realign B/1-158 Field Artillery (MLRS) from the Oklahoma Army National Guard Readiness Center located in Duncan if the State of Oklahoma decides to relocate those National Guard units.

Close the Floyd Parker United States Army Reserve Center in McAlester, OK and relocate units into a new Armed Forces Reserve Center and Consolidated Field Maintenance Shop on the McAlester Army Ammunition Plant, McAlester, OK. The new AFRC shall have the capability to accommodate Oklahoma Army National Guard units from the following Oklahoma Army National Guard Readiness Centers: The Field Maintenance Shop in Durant, OK; the Oklahoma Army National Guard Readiness Centers in Atoka, Allen, Hartshorne, Madill, McAlester and Tishomingo, OK; the Oklahoma Army National Guard Readiness Center and Field Maintenance Shop in Edmond, OK if the State of Oklahoma decides to relocate those National Guard units.

Close the Ashworth United States Army Reserve Center located in Muskogee, OK and relocate units into a new Armed Forces Reserve Center in Muskogee, OK, if the Army is able to acquire suitable land for the construction of the facility. The new AFRC shall have the capability to accommodate Oklahoma Army National Guard units from the following Oklahoma Army National Guard Readiness Centers: Henryetta, Muskogee, Okemah, Pryor, and Stilwell, OK if the State of Oklahoma decides to relocate those National Guard units.

Close the Farr United States Army Reserve Center, Antlers, OK, the Roush United States Army Reserve Center, Clinton, OK, the Smalley United States Army Reserve Center, Norman, OK and relocate units into a new Armed Forces Reserve Center and Consolidated Maintenance Facility on the Norman Military Complex, Norman, OK. The new AFRC shall have the capability to accommodate Oklahoma Army National Guard units from the following Oklahoma Army National Guard facilities: Oklahoma Army National Guard Readiness Centers in Tonkawa, OK, Konawa, OK, Wewoka, OK, Oklahoma City (23rd Street), OK, the 23d Street Field Maintenance Shop in Oklahoma City, the Consolidated Maintenance Facility on the Norman Military Complex, Norman, OK and C CO, 700th Support Battalion from the Readiness Center, Edmond, OK if the State of Oklahoma decides to relocate those National Guard units.

Close the Manuel Perez and Billy Krowse United States Army Reserve Centers located in Oklahoma City, OK. Relocate units into a new Armed Forces Reserve Center in West Oklahoma City, OK, if the Army is able to acquire suitable land for the construction of the facility. The new AFRC shall have the capability to accommodate Oklahoma Army National Guard units from the following Oklahoma Army National Guard facilities: Readiness Centers located in Southwest Oklahoma City (44th Street), El Reno, Minco, and Pawnee, the Oklahoma Army National Guard 1345 Transportation Company and the 345th Quartermaster Water Support Battalion from Midwest City if the State of Oklahoma decides to relocate those National Guard units.

Close the Robbins United States Army Reserve Center located in Enid, OK and relocate units into a new Armed Forces Reserve Center and Consolidated Field Maintenance Shop on Vance Air Force Base, OK. The new AFRC shall have the capability to accommodate Oklahoma Army National Guard units from the following Oklahoma Army National Guard facilities: Enid, Alva, Woodward, Blackwell, Cherokee, Watonga, and the National Guard Field Maintenance Shop in Enid, OK if the State of Oklahoma decides to relocate those National Guard units.

RC Transformation in Oregon

Recommendation: Close Sears Hall United States Army Reserve Center in Portland, OR, close Sharff Hall United States Army Reserve Center in Portland, OR, and relocate units to a new Armed Forces Reserve Center on Camp Withycombe, OR. The new Armed Forces Reserve Center (AFRC) shall have the capability to accommodate Oregon National Guard units currently on Camp Withycombe and from the following Oregon ARNG Armories: Lake Oswego Armory, Maison Armory, and Jackson Band Armory, OR, if the state decides to relocate those National Guard units.

RC Transformation in Pennsylvania

Recommendation: Close the United States Army Reserve Center in Lewisburg, PA, the United States Army Reserve Center in Bloomsburg, PA, the United States Army Reserve Organizational Maintenance Shop in Bloomsburg, PA, and relocate units to a new Armed Forces Reserve Center with an organizational maintenance facility in the Lewisburg/Bloomsburg, PA area, if the Army is able to acquire suitable land for the construction of the facilities. The new AFRC shall have the capability to accommodate PA National Guard Units from the following Army National Guard Readiness Centers: Lewisburg, PA, Sunbury, PA, and Berwick, PA, if the Commonwealth of PA decides to relocate those units.

Close the United States Army Reserve Center in Williamsport, PA, the United States Army Reserve Organizational Maintenance Shop in Williamsport, PA, and relocate units to a new Armed Forces Reserve Center with an organizational maintenance facility in Williamsport, PA, if the Army is able to acquire suitable land for the construction of the facilities. The new AFRC shall have the capability to accommodate Pennsylvania National Guard Units from the Army National Guard Readiness Center in Williamsport, PA, if the Commonwealth of Pennsylvania decides to relocate those units.

Close the Reese United States Army Reserve Center in Chester, PA, the United States Army Reserve Organizational Maintenance Shop in Chester, PA, the Germantown Veterans Memorial United States Army Reserve Center in Philadelphia, PA, the Horsham Memorial United States Army Reserve Center in Horsham, PA, the 1LT Ray S. Musselman Memorial United States Army Reserve Center in Norristown, PA, and the North Penn memorial United States Army Reserve Center in Norristown, PA, and relocate units to a new Armed Forces Reserve Center with an organizational maintenance facility at Willow Grove Joint Reserve Base, PA. The Army shall establish an enclave at Willow Grove Joint Reserve Base, PA, to retain essential facilities to support activities of the Reserve Components.

Close the Wilson Kramer United States Army Reserve Center in Bethlehem, PA, and the United States Army Reserve Organizational Maintenance Shop in Bethlehem, PA, and relocate units to a new United States Army Reserve Center with an organizational maintenance facility in the Allentown/ Bethlehem, PA area, if the Army is able to acquire suitable land for the construction of the facilities.

Close the Philadelphia Memorial United States Armed Forces Reserve Center in Philadelphia, PA, the Philadelphia Memorial United States Armed Forces Reserve Center Organizational Maintenance Shop in Philadelphia, PA, and relocate Army Reserve and Marine Corps Reserve units to a new Armed Forces Reserve Center with an organizational maintenance facility in Bristol, PA, on the existing Bristol Veterans Memorial Reserve Center site.

Close the Serrenti Memorial United States Army Reserve Center in Scranton, PA, the Serrenti Memorial United States Army Reserve Organizational Maintenance Shop in Scranton, PA, the United States Army Reserve Center in Wilkes-Barre, PA, the United States Army Reserve Organizational Maintenance Shop in Wilkes-Barre, PA, and relocate units to a new Armed Forces Reserve Center with an organizational maintenance facility in Scranton, PA, if the Army is able to acquire suitable land for the construction of the facilities.

RC Transformation in Rhode Island

Recommendation: Close the Bristol Army Reserve Center, Bristol, RI, the Harwood Army Reserve Center, Providence, RI, the Warwick Army Reserve Center and Organizational Maintenance Shop, Warwick, RI. Relocate all units to a new Army Reserve Center on Newport Naval Base, RI.

RC Transformation in Tennessee

Recommendation: Close the Guerry United States Army Reserve Center, Chattanooga, TN, and Bonney Oaks United States Army Reserve Center, Chattanooga, TN, and relocate units into a new Armed Forces Reserve Center (AFRC) on Volunteer Army Ammunition Plant, Chattanooga, TN.

Close the Kingsport Armed Forces Reserve Center (AFRC), the Kingsport Organizational Maintenance Shop (OMS), and the Army Maintenance Support Activity (AMSA), Kingsport, TN, and relocate units into a new Armed Forces Reserve Center and Field Maintenance Shop on Holston Army Ammunition Plant, Kingsport, TN. The new AFRC shall have the capability to accommodate Tennessee National Guard units from the Kingsport Armed Forces Reserve Center, Kingsport, TN, if the state decides to relocate those National Guard units.

Close the United States Army Reserve Center outside of Fort Campbell (located in Clarksville TN), KY, and relocate units, along with units currently in buildings #6912 and #2907 on Fort Campbell into a new Armed Forces Reserve Center (AFRC) and Organizational Maintenance Shop (OMS) on Fort Campbell, KY. The new AFRC shall have the capability to accommodate units from the Clarksville Army National Guard Readiness Center, Clarksville, TN, if the state decides to relocate those National Guard units.

RC Transformation in Texas

Recommendation: Close the Tharp United States Army Reserve Center, Amarillo, TX and relocate units to a new Armed Forces Reserve Center in Amarillo, TX, if the Army is able to acquire land suitable for the construction of the facilities. The new AFRC shall have the capability to accommodate Texas National Guard Units from the following Texas ARNG Readiness Centers: Amarillo, Pampa, and Hale Co, TX, if the state decides to relocate those National Guard units.

Close the United States Army Reserve Center, Brownsville, TX and relocate units to a new Armed Forces Reserve Center in Brownsville, TX, if the Army is able to acquire suitable land for the construction of the facilities. The new AFRC shall have the capability to accommodate Texas National Guard Units from the Texas ARNG Readiness Center in Brownsville, TX, if the state decides to relocate those National Guard units.

Close the United States Army Reserve Center, Boswell, TX and the United States Army Reserve Center, Callaghan, TX and relocate units to a new Armed Forces Reserve Center on existing Federal property on Camp Bullis, TX. The new AFRC shall have the capability to accommodate Texas National Guard Units from the Texas ARNG Readiness Center in Hondo, TX, A Company and Headquarters Company, 1st of the 141st Infantry, the Fifth Army ITAAS, the Regional Training Site-Intelligence, and the Texas Army National Guard Area Support Medical Battalion, if the state decides to relocate those National Guard units.

Close the Grimes United States Army Reserve Center, Abilene, TX and relocate B Company of the 413th Civil Affairs Battalion and the Area Maintenance Support Activity 11 Sub-Shop to a new Armed Forces Reserve Center with a Field Maintenance Shop on Dyess Air Force Base, TX. The new AFRC shall have the capability to accommodate Texas National Guard Units from the following Texas ARNG Readiness Centers: Abilene, Coleman, and Snyder, TX, and the Texas Army National Guard Field Maintenance Shop, Abilene, TX, if the state decides to relocate those National Guard units.

Close the United States Army Reserve Center, Seguera, TX, the United States Army Reserve Center, Benavidez, TX, the United States Army Reserve Center, Fort Bliss, TX, the United States Army Reserve Center, McGregor Range, TX and the United States Army Reserve Equipment Concentration Site, McGregor Range, TX and relocate units to a new Armed Forces Reserve Center with a Consolidated Equipment Concentration Site and Maintenance Facility on Fort Bliss, TX. The new AFRC shall have the capability to accommodate Texas National Guard Units from the following Texas ARNG Readiness Centers: Fort Bliss and Hondo Pass, TX, if the state decides to relocate those National Guard units.

Close the Herzog United States Army Reserve Center, Dallas, TX and relocate units to a new Armed Forces Reserve Center on the existing Grand Prairie Reserve Complex, Grand Prairie, TX. Realign the 490th Civil Affairs Battalion from the Grimes United States Army Reserve Center and relocate the unit into the new AFRC. The new AFRC shall have the capability to accommodate Texas National Guard Units from the following Texas ARNG Readiness Centers: Arlington, TX, and California Crossing, TX, if the state decides to relocate those National Guard units.

Close the United States Army Reserve Center, Pasadena, TX and relocate units to a new Armed Forces Reserve Center with a Field Maintenance Shop in (East) Houston, TX, if the Army is able to acquire land suitable for the construction of the facilities. The new AFRC shall have the capability to accommodate Texas National Guard Units from the following Texas ARNG Readiness Centers: Baytown, Pasadena, and Ellington Field, TX, and the Texas Army National Guard Field Maintenance Shop located on Ellington Field, TX, if the state decides to relocate those National Guard units.

Close United States Army Reserve Center #2, Perimeter Park, TX and United States Army Reserve Center #3, Houston, TX and relocate units to a new Armed Forces Reserve Center with a consolidated Field Maintenance Shop in (Northwest) Houston, TX, if the Army is able to acquire land suitable for the construction of the facilities. The new AFRC shall have the capability to accommodate Texas National Guard Units from the following Texas ARNG Readiness Centers: Beaumont, Port Arthur, Port Neches, and Orange, TX, and the Texas Army National Guard Field Maintenance Shop located in Port Neches, TX if the state decides to relocate those National Guard units.

Close the Miller United States Army Reserve Center, Huntsville, TX and relocate units to a new Armed Forces Reserve Center in Huntsville, TX, if the Army is able to acquire suitable land for the construction of the facilities. The new AFRC shall have the capability to accommodate Texas National Guard Units from the Texas ARNG Readiness Center in Huntsville, TX, if the state decides to relocate those National Guard units.

Close the Muchert United States Army Reserve Center, Dallas, TX and relocate units to a new Armed Forces Reserve Center Lewisville, TX, if the Army is able to acquire land suitable for the construction of the facilities. The new AFRC shall have the capability to accommodate Texas National Guard Units from the following Texas ARNG Readiness Centers: Denton, Irving, and Denison, TX, if the state decides to relocate those National Guard units.

Close the United States Army Reserve Center, Lufkin, TX and relocate units to a new Armed Forces Reserve Center in Lufkin, TX, if the Army is able to acquire suitable land for the construction of the facilities. The new AFRC shall have the capability to accommodate Texas National Guard Units from the following Texas ARNG Readiness Centers: Lufkin and Nacogdoches, TX, if the state decides to relocate those National Guard units.

Close the United States Army Reserve Center, Alice, TX and the United States Army Reserve Center, NAS Kingsville, TX and relocate units to a new Armed Forces Reserve Center on NAS Kingsville, TX, if the Army determines the property is suitable for construction. The new AFRC shall have the capability to accommodate Texas National Guard Units from the following Texas ARNG Readiness Centers: Alice and Kingsville, TX, if the state decides to relocate those National Guard units.

Close the Watts-Guillot United States Army Reserve Center, Texarkana, TX and realign the Hooks Army Reserve Center on Red River Army Depot by relocating units to a new Armed Forces Reserve Center on Red River Army Depot, TX. The new AFRC shall have the capability to accommodate Texas National Guard Units from the following Texas ARNG Readiness Centers: Atlanta, and Texarkana, if the state decides to relocate those National Guard units.

Close Round Rock United States Army Reserve Center (leased) and relocate units to a new Armed Forces Reserve Center with a consolidated Field Maintenance Shop in Round Rock, TX, if the Army is able to acquire land suitable for the construction of the facilities. The new AFRC shall have the capability to accommodate Texas National Guard Units from the Texas ARNG Readiness Centers in Austin and Taylor, TX, and the Texas Army National Guard Field Maintenance Shop in Austin, TX, if the state decides to relocate those National Guard units.

Close the United States Army Reserve Center, San Marcos, TX, and relocate units to a new Armed Forces Reserve Center in San Marcos, TX, if the Army is able to acquire land suitable for the construction of the facilities. The new AFRC shall have the capability to accommodate Texas National Guard Units from the following Texas ARNG Readiness Centers: San Marcos, Sequin, and New Braunfels, TX, if the state decides to relocate those National Guard units. Close the Hanby-Hayden United States Army Reserve Center, Mesquite, TX and relocate units to a new Armed Forces Reserve Center with an Organizational Maintenance Shop on United States Army Reserve property in Seagoville, TX. The new AFRC shall have the capability to accommodate Texas National Guard Units from the following Texas ARNG Readiness Centers: Dallas #2, Kaufman and Terrell (including the Organizational Maintenance Shop), TX, if the state decides to relocate those National Guard units.

Close the United States Army Reserve Center, Tyler, TX and the United States Army Reserve Center, Marshall, TX and relocate units to a new Armed Forces Reserve Center with a Field Maintenance Shop in Tyler, TX, if the Army is able to acquire suitable land for the construction of the facilities. The new AFRC shall have the capability to accommodate Texas National Guard Units from the following Texas ARNG Readiness Centers: Athens, Tyler, Henderson, Kilgore, Marshall, and Corsicana, TX, and the Field Maintenance Shop in Marshall, TX, if the state decides to relocate those National Guard units.

RC Transformation in Vermont

Recommendation: Close Chester Memorial Army Reserve Center and Organizational Maintenance Shop, Chester, VT and Berlin Army Reserve Center, Berlin, VT and relocate all units to a new Armed Forces Reserve Center with an Organizational Maintenance Facility in the vicinity of White River Junction, VT if the Army is able to acquire land suitable for the construction of the facilities. The new AFRC and OMS shall have the capability to accommodate units from the following facilities: Vermont Army National Guard Armories in Ludlow, North Springfield and Windsor, VT, if the state decides to relocate those National Guard units.

Close Army Reserve Center, Courcelle Brothers and associated Organizational Maintenance Shop, Rutland, VT; close Army Reserve Army Maintenance Support Activity, Rutland, VT and relocate all units to a new Armed Forces Reserve Center and Organizational Maintenance Facility in the vicinity of Rutland, VT, if the Army is able to acquire land suitable for the construction of the facilities. The new AFRC and Maintenance Activity shall have the ability to accommodate units from the following facility: Vermont Army National Guard Armory Rutland, VT; if the state decides to relocate those National Guard units.

RC Transformation in Washington

Recommendation: Close Mann Hall Army Reserve Center, Area Maintenance Support Shop #80 and Walker Army Reserve Center in Spokane, WA and relocate units to a new consolidated Armed Forces Reserve Center and Organizational Maintenance Shop on Fairchild Air Force Base. The new AFRC shall have the capability to accommodate units from the following Washington ARNG facilities: Washington ARNG Armory and Organizational Maintenance Shop, Geiger Field, WA, if the state decides to relocate those units.

Close Wagenaar Army Reserve Center Pasco, WA and relocate units to a new consolidated Armed Forces Reserve Center on Yakima Training Center. Realign Pendleton Army Reserve Center on Yakima Training Center by moving all assigned units to the new Armed Forces Reserve Center on Yakima Training Center. The new AFRC shall have the capability to accommodate units from the following Washington ARNG facility: Washington ARNG Ellensburg Readiness Center, if the state decides to relocate those units.

Close the Oswald United States Army Reserve Center, Everett, WA, and relocate units to a new Armed Forces Reserve Center in the Everett, WA area if the Army is able to acquire suitable land for construction of the new facility. The new AFRC shall have the capability to accommodate units from the following Washington ARNG facilities: Washington ARNG Everett Readiness Center and Snohomish Readiness Center, if the state decides to relocate those units.

RC Transformation in West Virginia

Recommendation: Close the Elkins U.S. Army Reserve Center and its supporting Maintenance Shop in Beverly, WV and relocate units into a new Armed Forces Reserve Center in the vicinity of Elkins, WV, if the Army is able to acquire land suitable for the construction of the facilities. The new AFRC shall have the capability to accommodate West Virginia Army National Guard Units from the Readiness Center in Elkins, WV if the State decides to relocate those National Guard units.

Close the 1LT Harry Colburn U.S. Army Reserve Center and its supporting Maintenance Shop in Fairmont, WV and re-locate units into a new Armed Forces Reserve Center in the vicinity of Fairmont, WV, if the Army is able to acquire land suitable for the construction of the facilities. The new AFRC shall have the capability to accommodate West Virginia National Guard Units from the Readiness Center in Fairmont, WV if the State decides to relocate those National Guard units.

Close SSG Roy Kuhl U.S. Army Reserve Center and Maintenance Facility in Ripley and the MAJ Elbert Bias USAR Center, Huntington, WV and re-locate units into a new Armed Forces Reserve Center in the vicinity of Ripley, WV, if the Army is able to acquire land suitable for the construction of the facilities. The new AFRC shall have the capability to accommodate West Virginia National Guard Units from the West Virginia Army National Guard Readiness Center in Spencer, West Virginia if the State of West Virginia decides to relocate those National Guard units.

RC Transformation in Wisconsin

Recommendation: Close the Truman Olson and G.F. O'Connell U.S. Army Reserve Centers in Madison, WI and relocate units to a new Armed Forces Reserve Center (AFRC) in Madison, WI, if the Army can acquire suitable land for the construction of the new facilities. The new AFRC shall have the capability to accommodate Army National Guard units from the following Wisconsin Army National Guard Armories; the Madison Armory (Bowman Street), Madison Armory/OMS 9, and the Madison Armory (2400 Wright Street), if the state decides to relocate those units.

RC Transformation in Wyoming

Recommendation: Close Wyoming Army National Guard (WYARNG) Army Aviation Support Facility (AASF) in Cheyenne, WY (DA leased facility) and relocate Army National Guard units and aviation functions to a new WYARNG AASF, Readiness Center, and Field Maintenance Shop (FMS) on F.E. Warren Air Force Base, WY. The new readiness center/FMS shall have the capability to accommodate Army National Guard units from the Joint Force Headquarters Complex in Cheyenne, WY, if the state decides to relocate those units.

RC Transformation in Puerto Rico

Recommendation: Close the U.S. Army Reserve Center 1st Lieutenant Paul Lavergne, Bayamon, PR and relocate the 973rd Combat Support (CS) Company into a new Armed Forces Reserve Center on United States Army Reserve property in Ceiba, PR, and relocate all other units into a new Armed Forces Reserve Center (AFRC) on Fort Buchanan, PR. Realign the U.S. Army Reserve Center Captain E. Rubio Junior, Puerto Nuevo, PR, by relocating the 807th Signal Company into a new Armed Forces Reserve Center on Fort Buchanan, PR. The new AFRC on Fort Buchanan, PR shall have the capability to accommodate units from the Puerto Rico Army Guard San Juan Readiness Center, San Juan, PR, if Puerto Rico decides to relocate those National Guard units. The new AFRC facility in Ceiba, PR shall have the capability to accommodate Puerto Rico National Guard units from the following PRARNG Readiness Centers: Humacao, Juncos, and Ceiba, PR, if Puerto Rico decides to relocate those National Guard units.

Realign United States Army Reserve Center Captain E. Rubio Junior, Puerto Nuevo, PR, by relocating the 8th Brigade, 108th DIV (IT) to a new Armed Forces Reserve Center on Fort Allen, PR.

Realign United States Army Reserve Center Ramey, Aguadilla, PR by relocating the 249th Quartermaster Company into a new Armed Forces Reserve Center in Mayaguez, PR, if the Army is able to acquire suitable land. The new facility shall have the capability to accommodate Puerto Rico National Guard units from the Puerto Rico Army National Guard Readiness Center Mayaguez, if Puerto Rico decides to relocate those National Guard units.

Department of the Navy Recommendations

Recommendation for Closure

Naval Weapons Station Seal Beach Detachment, Concord, CA

Recommendation: Close the Inland area of Naval Weapons Station Seal Beach Detachment, Concord CA, except retain such property and facilities as are necessary to support operations in the Tidal area of Naval Weapons Station Seal Beach Detachment Concord. The Tidal area of Naval Weapons Station Seal Beach Detachment Concord, along with the retained portion of the Inland area, shall be transferred to the Army.

Recommendation for Closure

Navy Reserve Centers

Recommendation: Close the following Navy Reserve Centers:

Tuscaloosa, AL

St. Petersburg, FL

Pocatello, ID

Forest Park, IL

Evansville, IN

Cedar Rapids, IA

Sioux City, IA

Lexington, KY

Bangor, ME

Adelphi, MD

Duluth, MN

Cape Girardeau, MO

Lincoln, NE

Glens Falls, NY

Horseheads, NY

Watertown, NY

Asheville, NC

Central Point, OR

Lubbock, TX

Orange, TX

Close the following Navy Reserve Facility:

Marquette, MI

Close the following Navy Marine Corps Reserve Centers:

Grissom Air Reserve Base, Peru, IN

Tacoma, WA

Recommendation for Closure

Navy and Marine Corps Reserve Centers

Recommendation: Close Navy Marine Corps Reserve Center Encino, CA and relocate the Marine Corps units to Marine Corps Reserve Center Pasadena, CA.

Close Navy Marine Corps Reserve Center Moundsville, WV and relocate the Marine Corps units to Navy Marine Corps Reserve Center Pittsburgh, PA.

Close Navy Marine Corps Reserve Center Reading, PA and relocate the Navy and Marine Corps units to Navy Marine Corps Reserve Centers Lehigh Valley, PA.

Close Navy Marine Corps Reserve Center Los Angeles, CA and relocate the Navy and Marine Corps units to Armed Forces Reserve Center Bell, CA.

Close Navy Marine Corps Reserve Center Akron, OH and Navy Reserve Center Cleveland, OH and relocate the Navy and Marine Corps units to Armed Forces Reserve Center Akron, OH.

Close Navy Marine Corps Reserve Center Madison, WI, Navy Reserve Center Lacrosse, WI and Navy Reserve Center Dubuque, IA and relocate the Navy and Marine Corps units to Armed Forces Reserve Center Madison, WI.

Close Navy Marine Corps Reserve Center Baton Rouge, LA and relocate the Marine Corps units to Armed Forces Reserve Center Baton Rouge, LA.

Close Navy Marine Corps Reserve Center Tulsa, OK and relocate the Navy and Marine Corps units to Armed Forces Reserve Center Broken Arrow, OK.

Close Navy Marine Corps Reserve Center Mobile, AL and relocate the Marine Corps units to Armed Forces Reserve Center Mobile, AL.

Close Inspector-Instructor West Trenton, NJ and relocate Marine Corps reserve units and support staff to Navy Reserve Center Ft. Dix, NJ.

Close Inspector-Instructor Rome, GA, and relocate Marine Corps reserve units and support staff to Navy Marine Corps Reserve Center Atlanta, GA.

Recommendation for Closure and Realignment

Naval Station Ingleside, TX and Naval Air Station Corpus Christi, TX

Recommendation: Close Naval Station Ingleside, TX. Relocate its ships along with dedicated personnel, equipment and support to Naval Station San Diego, CA. Relocate the ship intermediate repair function to Shore Intermediate Maintenance Activity San Diego, CA. Consolidate Mine Warfare Training Center with Fleet Anti-submarine Warfare Training Center San Diego, CA. Realign Naval Air Station Corpus Christi, TX. Relocate Commander Mine Warfare Command and Commander Mobile Mine Assembly Group to Fleet Anti-Submarine Warfare Center, Point Loma, CA. Relocate Helicopter Mine Countermeasures Squadron 15 (HM-15) and dedicated personnel, equipment and support to Naval Station Norfolk, VA. Disestablish Commander Helicopter Tactical Wing U.S. Atlantic Fleet Aviation Intermediate Maintenance Detachment Truax Field at Naval Air Station Corpus Christi, TX and relocate its intermediate maintenance function for Aircraft Components, Fabrication & Manufacturing, and Support Equipment to Fleet Readiness Center Mid-Atlantic Site Norfolk, VA.

Recommendation for Closure

Submarine Base New London, CT

Recommendation: Close Naval Submarine Base New London, CT. Relocate its assigned submarines, Auxiliary Repair Dock 4 (ARDM-4), and Nuclear Research Submarine 1 (NR-1) along with their dedicated personnel, equipment and support to Submarine Base Kings Bay, GA, and Naval Station Norfolk, VA. Relocate the intermediate submarine repair function to Shore Intermediate Repair Activity Norfolk, at Naval Shipyard Norfolk, VA, and Trident Refit Facility Kings Bay, GA. Relocate the Naval Submarine School and Center for Submarine Learning to Submarine Base Kings Bay, GA. Consolidate the Naval Security Group Activity Groton, CT with Naval Security Group Activity Norfolk, VA at Naval Station Norfolk, VA. Consolidate Naval Submarine Medical Research Laboratory Groton, CT, with Naval Medical Research Center at Walter Reed Army Medical Center Forest Glenn Annex, MD. Relocate Naval Undersea Medical Institute Groton, CT to Naval Air Station Pensacola, FL, and Fort Sam Houston, TX. Consolidate Navy Region Northeast, New London, CT, with Navy Region, Mid-Atlantic, Norfolk, VA.

Recommendation for Closure

Navy Regions

Recommendation: Realign Naval Air Station Pensacola, FL, by consolidating Navy Region Gulf Coast, with Navy Region Southeast at Naval Air Station Jacksonville, FL. Realign Naval Air Station Corpus Christi, TX by consolidating Navy Region South with Navy Region Midwest at Naval Station Great Lakes, IL and Navy Region Southeast at Naval Station Jacksonville, FL.

Recommendation for Closure

Navy Recruiting Districts

Recommendation: Close the following Navy Recruiting Districts:

Montgomery, AL

Indianapolis, IN

Kansas City, MO

Omaha, NE

Buffalo, NY

Recommendation for Closure

Naval Air Station Atlanta, GA

Recommendation: Close Naval Air Station Atlanta, GA. Relocate its aircraft and necessary personnel, equipment and support to Naval Air Station Joint Reserve Base New Orleans, LA; Naval Air Station Joint Reserve Base Fort Worth, TX; and Robins Air Force Base, Robins, GA. Relocate Reserve Intelligence Area 14 to Fort Gillem, Forest Park, GA. Relocate depot maintenance Aircraft Components, Aircraft Engines, Fabrication and Manufacturing, and Support Equipment in support of F/A-18, C-9 and C-12 aircraft to Fleet Readiness Center West Site Fort Worth at Naval Air Station Joint Reserve Base Fort Worth, TX. Relocate intermediate maintenance in support of E-2C aircraft to Fleet Readiness Center Mid-Atlantic Site New Orleans at Naval Air Station Joint Reserve Base New Orleans, LA. Consolidate the Naval Air Reserve Atlanta with Navy Marine Corps Reserve Center Atlanta located at Dobbins Air Reserve Base, Marietta, GA. Retain the Windy Hill Annex.

Recommendation for Closure

Engineering Field Division/Activity

Recommendation: Close Naval Facilities Engineering Field Division South leased space in Charleston, SC. Consolidate Naval Facilities Engineering Field Division South, Charleston, SC, with Naval Facilities Engineering Field Activity Southeast, Jacksonville, FL, at Naval Air Station Jacksonville, FL; Naval Facilities Midwest, Great Lakes, IL, at Naval Station Great Lakes, IL; and Naval Facilities Atlantic, Norfolk, VA at Naval Station Norfolk, VA. Close Naval Facilities Engineering Field Activity Northeast leased space in Lester, PA. Consolidate Naval Facilities Engineering Field Activity Northeast, Philadelphia, PA, with Naval Facilities Atlantic, Norfolk, VA at Naval Station Norfolk, VA and relocate Navy Crane Center Lester, PA, to Norfolk Naval Shipyard, Norfolk, VA.

Recommendation for Realignment

Navy Reserve Readiness Commands

Recommendation: Realign Naval Air Station Joint Reserve Base Fort Worth, TX, by consolidating Navy Reserve Readiness Command South with Naval Reserve Readiness Command Midwest at Naval Station Great Lakes, IL. Realign Naval Station Newport, RI, and the Washington Navy Yard, Washington, DC, by consolidating Naval Reserve Readiness Command Northeast with Naval Reserve Readiness Command Mid-Atlantic and relocating the consolidated commands to Naval Station, Norfolk, VA.

Recommendation for Closure and Realignment

Naval Air Station Joint Reserve Base Willow Grove, PA and Cambria Regional Airport, Johnstown, PA

Recommendation: Close Naval Air Station Joint Reserve Base Willow Grove, PA. Relocate all Navy and Marine Corps squadrons, their aircraft and necessary personnel, equipment and support to McGuire Air Force Base, Cookstown, NJ. Relocate the minimum amount of manpower and equipment to support intermediate maintenance workload and capacity for Tire and Wheel, non-destruction inspections, and Aviation Life Support System equipment to McGuire Air Force Base. Relocate intermediate maintenance workload and capacity for Aircraft Components, Aircraft Engines, Fabrication & Manufacturing, and Support Equipment to Fleet Readiness Center East, Marine Corps Air Station Cherry Point, NC. Deactivate the 111th Fighter Wing (Air National Guard) and relocate assigned A-10 aircraft to the 124th Wing (Air National Guard), Boise Air Terminal Air Guard Station, Boise, ID (three primary aircraft authorized); 175th Wing (Air National Guard), Martin State Airport Air Guard Station, Baltimore, MD, (three primary aircraft authorized); 127th Wing (Air National Guard), Selfridge Air National Guard Base, Mount Clemens, MI (three primary aircraft authorized) and retired (six primary aircraft authorized). Relocate Armed Forces Reserve Center Expeditionary Combat Support manpower to Eglin Air Force Base, FL. Relocate Co A/228th Aviation to Fort Dix, Trenton, NJ. Relocate Reserve Intelligence Area 16 to Fort Dix. Establish an enclave for the Army Reserve units remaining on or relocating to Willow Grove and the Air National Guard 270th Engineering Installation Squadron. Realign Cambria Regional Airport, Johnstown, PA, by relocating Marine Light Attack Helicopter Squadron 775 Detachment A, to include all required personnel, equipment, and support, to McGuire Air Force Base.

Recommendation for Realignment

Officer Training Command, Pensacola, FL

Recommendation: Realign Naval Air Station Pensacola, FL by relocating Officer Training Command Pensacola, FL to Naval Station Newport, RI, and consolidating with Officer Training Command Newport, RI.

Recommendation for Closure

Navy Supply Corps School Athens, GA

Recommendation: Close the naval installation at Athens, GA. Relocate the Navy Supply Corps School and the Center for Service Support to Naval Station Newport, RI. Disestablish the Supply Corps Museum.

Recommendation for Closure

Naval Shipyard Portsmouth, Kittery, ME

Recommendation: Close the Naval Shipyard Portsmouth, Kittery, ME. Relocate the ship depot repair function to Naval Shipyard Norfolk, VA, Naval Shipyard and Intermediate Maintenance Facility Pearl Harbor, HI and Naval Shipyard Puget Sound, WA. Relocate the Submarine Maintenance, Engineering, Planning and Procurement Command to Naval Shipyard Norfolk.

Recommendation for Realignment

Naval Air Station Brunswick, ME

Recommendation: Realign Naval Air Station Brunswick, ME to a Naval Air Facility and relocate its aircraft along with dedicated personnel, equipment and support to Naval Air Station Jacksonville, FL. Consolidate Aviation Intermediate Maintenance with Fleet Readiness Center Southeast Jacksonville, FL.

Recommendation for Closure

Marine Corps Support Activity Kansas City, MO

Recommendation: Close Marine Corps Support Activity, Kansas City, MO. Relocate Marine Corps Reserve Support Command element of Mobilization Command to Naval Air Station Joint Reserve Base New Orleans, LA, and consolidate with Headquarters, Marine Forces Reserve. Retain an enclave for the 9th Marine Corps District and the 24th Marine Regiment.

Recommendation for Closure

Naval Support Activity New Orleans, LA

Recommendation: Close Naval Support Activity New Orleans, LA. Relocate the Navy Reserve Personnel Command and the Enlisted Placement and Management Center to Naval Support Activity Mid-South, Millington, TN and consolidate with the Navy Personnel Command at Naval Support Activity Mid-South, Millington, TN. Relocate the Naval Reserve Recruiting Command to Naval Support Activity Mid-South, Millington, TN and consolidate with the Navy Recruiting Command at Naval Support Activity Mid-South, Millington, TN. Relocate the Navy Reserve Command to Naval Support Activity Norfolk, VA, except for the installation management function, which consolidates with Navy Region Southwest, Naval Station San Diego, CA, Navy Region Northwest, Submarine Base Bangor, WA, and Navy Region Midwest, Naval Station Great Lakes, IL. Relocate Headquarters, Marine Forces Reserve to Naval Air Station Joint Reserve Base New Orleans, LA, and consolidate with Marine Corps Reserve Support Command element of Mobilization Command, which is relocating from Marine Corps Support Activity, Kansas City, MO. Relocate Naval Air Systems Command Support Equipment Facility New Orleans, LA, Navy Recruiting District New Orleans, LA, and the Navy Reserve Center New Orleans, LA, to Naval Air Station Joint Reserve Base New Orleans, LA. Relocate 8th Marine Corps District to Naval Air Station Joint Reserve Base Fort Worth, TX. Consolidate Naval Support Activity New Orleans, LA installation management function with Naval Air Station Joint Reserve Base New Orleans, LA.

Recommendation for Closure

Naval Support Activity Corona, CA

Recommendation: Close Naval Support Activity Corona, CA. Relocate Naval Surface Warfare Center Division Corona, CA to Naval Base Ventura County (Naval Air Station Point Mugu), CA.

Recommendation for Realignment

Marine Corps Logistics Base, Barstow, CA

Recommendation: Realign Marine Corps Logistics Base Barstow, CA. Disestablish the depot maintenance of Aircraft Other Components, Aircraft Rotary, and Strategic Missiles. Consolidate depot maintenance of Engines/Transmissions, Other Components, and Small Arms/Personal Weapons at Anniston Army Depot, AL. Consolidate the depot maintenance of Conventional Weapons, Engines/Transmissions, Material Handling, Powertrain Components, Starters/ Alternators/Generators, Test Measurement Diagnostic Equipment, and Wire at Marine Corps Logistics Base Albany, GA. Consolidate depot maintenance of Electronic Components (Non-Airborne), Electro-Optics/Night Vision/Forward-Looking-Infrared, Generators, Ground Support Equipment, Radar, and Radio at Tobyhanna Army Depot, PA. Consolidate depot maintenance of Tactical Missiles at Letterkenny Army Depot, PA. Realign Fleet Support Division Maintenance Center Barstow and Marine Corps Logistics Base Barstow operations to increase efficiencies and reduce infrastructure.

Recommendation for Realignment

Naval Station Newport, RI

Recommendation: Realign Naval Station Newport, RI by relocating the Navy Warfare Development Command to Naval Station Norfolk, VA.

Recommendation for Closure

Naval Station Pascagoula, MS

Recommendation: Close Naval Station Pascagoula, MS. Relocate its ships along with dedicated personnel, equipment, and support to Naval Station Mayport, FL. Relocate the ship intermediate repair function to Shore Intermediate Maintenance Activity Mayport, FL.

Department of the Air Force Recommendations

Birmingham International Airport Air Guard Station, AL

Recommendation: Realign Birmingham International Airport Air Guard Station (AGS), AL. Distribute the 117th Air Refueling Wing's (ANG) KC-135R aircraft to the 101st Air Refueling Wing (ANG), Bangor International Airport AGS, ME (two aircraft); the 134th Air Refueling Wing (ANG), McGhee-Tyson Airport AGS, TN (four aircraft); and the 161st Air Refueling Wing (ANG), Phoenix Sky Harbor International Airport AGS, AZ (two aircraft). The 117th Air Refueling Wing's firefighter positions will move to Dannelly Field AGS, AL, and the remaining expeditionary combat support (ECS) will remain in place.

Eielson Air Force Base, AK, Moody Air Force Base, GA, and Shaw Air Force Base, SC

Recommendation: Realign Eielson Air Force Base, AK. The 354th Fighter Wing's assigned A-10 aircraft will be distributed to the 917th Wing Barksdale Air Force Base, LA (three aircraft); to a new active duty unit at Moody Air Force Base, GA (12 aircraft); and to backup inventory (three aircraft). The 354th Fighter Wing's F-16 aircraft will be distributed to the 57th Wing, Nellis Air Force Base, NV (18 aircraft). The Air National Guard Tanker unit and rescue alert detachment will remain as tenant on Eielson. Realign Moody Air Force Base, by relocating base-level ALQ-184 intermediate maintenance to Shaw Air Force Base, SC, establishing a Centralized Intermediate Repair Facility (CIRF) at Shaw Air Force Base, SC for ALQ-184 pods. Realign Shaw Air Force Base, relocating base-level TF-34 engine intermediate maintenance to Moody Air Force Base, establishing a CIRF at Moody Air Force Base for TF-34 engines.

Kulis Air Guard Station, AK, and Elmendorf Air Force Base, AK

Recommendation: Close Kulis Air Guard Station (AGS), AK. Relocate the 176th Wing (ANG) and associated aircraft (eight C-130Hs, three HC-130Ns, and five HH-60s) and Expeditionary Combat Support (ECS) to Elmendorf Air Force Base, AK. Realign Elmendorf Air Force Base. With the addition of four aircraft from another installation (see Air Force recommendation for Ellsworth Air Force Base and Dyess Air Force Base), the 176th Wing at Elmendorf will form an ANG/active duty association with 12 C-130H aircraft. The 3d Wing at Elmendorf Air Force Base will distribute 24 of 42 assigned F-15C/D aircraft to the 1st Fighter Wing, Langley Air Force Base, VA.

Fort Smith Air Guard Station, AR, and Luke Air Force Base, AZ

Recommendation: Realign Fort Smith Municipal Airport (MAP) Air Guard Station (AGS), AR. Distribute the 188th Fighter Wing's (ANG) F-16s to the 144th Fighter Wing (ANG) Fresno Air Terminal AGS, CA (seven aircraft) and retirement (eight aircraft). The 144th Fighter Wing's F-16s (15 aircraft) retire. The wing's expeditionary combat support (ECS) elements remain in place. Fire fighter positions realign to Tulsa, OK, and the Home Station Training Site moves to Savannah, GA. Realign Luke Air Force Base, AZ. The 56th Fighter Wing, Luke Air Force Base, AZ, distributes its F-16 Block 25s (13 aircraft) and F-16 Block 42s (24 aircraft) to retirement. The 944th Fighter Wing distributes its F-16s to the 144th Fighter Wing at Fresno (11 aircraft).

Beale Air Force Base, CA, and Selfridge Air National Guard Base, MI

Recommendation: Realign Beale Air Force Base, CA. The 940th Air Refueling Wing (AFR) will realign its KC-135R tanker aircraft while its expeditionary combat support (ECS) elements will remain in place. Beale's KC-135R aircraft will be distributed to the Air National Guard at Selfridge ANGB, MI (four aircraft) and 134th Air Refueling Wing (ANG), McGhee-Tyson Airport Air Guard Station, TN (four aircraft). Realign Selfridge Air Reserve Base, MI. The 927th Air Refueling Wing (AFR) at Selfridge will distribute its eight KC-135 aircraft to the 127th Wing (ANG) at Selfridge. The 127th Wing will retire its 15 F-16 aircraft and eight C-130E aircraft, and will convert to A-10 and KC-135R aircraft.

March Air Reserve Base, CA

Recommendation: Realign March Air Reserve Base, CA. The 163d Air Refueling Wing (ANG) will distribute its nine KC-135R aircraft to the 452d Air Mobility Wing (AFR), March Air Reserve Base (four aircraft); the 157th Air Refueling Wing (ANG), Pease International Tradeport Air Guard Station, NH (three aircraft); the 134th Air Refueling Wing (ANG), McGhee-Tyson Airport Air Guard Station, TN (one aircraft); and the 22d Air Refueling Wing, McConnell Air Force Base, KS (one aircraft). The 163d Air Refueling Wing's expeditionary combat support (ECS) will remain in place.

Onizuka Air Force Station, CA

Recommendation: Close Onizuka Air Force Station, CA. Relocate the Air Force Satellite Control Network (AFSCN) mission and tenant Defense Information Systems Agency (DISA) Defense Satellite Communication System (DSCS) mission and equipment to Vandenberg Air Force Base, CA.

Bradley International Airport Air Guard Station, CT, Barnes Air Guard Station, MA, Selfridge Air National Guard Base, MI, Shaw Air Force Base, SC, and Martin State Air Guard Station, MD

Recommendation: Realign Bradley International Airport Air Guard Station, CT. The A-10s assigned to the 103d Fighter Wing will be distributed to the 104th Fighter Wing, Barnes Municipal Airport Air Guard Station, MA (nine aircraft) and retirement (six aircraft). The wing's expeditionary combat support (ECS) elements will remain in place at Bradley and Bradley will retain capability to support a Homeland Defense mission. Realign Barnes Air Guard Station, MA; Selfridge ANGB, MI; Shaw Air Force Base, SC; and Martin State Airport Air Guard Station, MD, by relocating base-level TF-34 engine intermediate maintenance to Bradley, establishing a Centralized Intermediate Repair Facility (CIRF) at Bradley for TF-34 engines.

New Castle Airport Air Guard Station, DE

Recommendation: Realign New Castle County Airport Air Guard Station (AGS), DE. Distribute the wing's eight C-130H aircraft to the 145th Airlift Wing (ANG), Charlotte/Douglas International Airport (IAP) AGS, NC (four aircraft), and 165th Airlift Wing (ANG), Savannah IAP AGS, GA (four aircraft). Move flying related Expeditionary Combat Support (ECS) to McGuire Air Force Base, NJ (Aeromedical Squadron), and Dover Air Force Base, DE (aerial port and fire fighters). Other ECS remains in place at New Castle.

Robins Air Force Base, GA

Recommendation: Realign Robins Air Force Base, GA. The 19th Air Refueling Group's KC-135R aircraft will be distributed to the 22nd Air Refueling Wing, McConnell Air Force Base, KS (nine aircraft), and to backup aircraft inventory (three aircraft). The 202d Engineering Installation Squadron (ANG), a geographically separated unit at Middle Georgia Regional Airport, will be relocated into available space at Robins Air Force Base.

Boise Air Terminal Air Guard Station, ID

Recommendation: Realign Boise Air Terminal Air Guard Station (AGS), ID. Distribute the four C-130H aircraft of the 124th Wing (ANG) to the 153rd Airlift Wing (ANG), Cheyenne, WY. The new, larger unit at Cheyenne will create an active duty/ANG association.

Mountain Home Air Force Base, ID, Nellis Air Force Base, NV, and Elmendorf Air Force Base, AK

Recommendation: Realign Mountain Home Air Force Base, ID. Distribute the 366th Fighter Wing assigned F-15Cs (18 aircraft) to the 57th Fighter Wing, Nellis Air Force Base, NV (nine aircraft), to the 125th Fighter Wing, Jacksonville International Airport AGS, FL (six aircraft), and to retirement (three aircraft). The 366th Fighter Wing will distribute assigned F-16 Block 52 aircraft to the 169th Fighter Wing McEntire AGS, SC (nine aircraft), the 57th Wing, Nellis Air Force Base, NV (five aircraft), and to backup inventory (four aircraft). Realign Nellis Air Force Base. The 57th Wing, Nellis Air Force Base, NV, will distribute F-16 Block 42 aircraft to the 138th Fighter Wing Tulsa International Airport AGS, OK (three aircraft), and retire the remaining F-16 Block 42 aircraft (15 aircraft). The 57th Wing also will distribute F-16 Block 32 aircraft (six aircraft) to the 144th Fighter Wing Fresno Air Terminal AGS, CA, and to retirement (one aircraft). Realign Elmendorf Air Force Base. The 366th Fighter Wing, Mountain Home Air Force Base, ID, will receive F-15E aircraft from the 3d Wing, Elmendorf Air Force Base, AK (18 aircraft), and attrition reserve (three aircraft).

Capital Air Guard Station, IL, and Hulman Regional Airport Air Guard Station, IN

Recommendation: Realign Capital Airport Air Guard Station, IL. Distribute the 183d Fighter Wing's F-16s to the 122d Fighter Wing, Fort Wayne International Airport Air Guard Station, IN, (15 aircraft). The 122d Fighter Wing's F-16s (15 aircraft) retire. The wing's expeditionary combat support (ECS) elements, the Illinois ANG State Headquarters, and the 217th Engineering Installation Squadron remain in place. Realign Hulman Regional Airport Air Guard Station, IN. The 181st Fighter Wing's F-16s are distributed to the 122d Fighter Wing, Fort Wayne International Airport Air Guard Station, IN (nine aircraft), and retirement (six aircraft). The 181st Fighter wing's ECS elements remain in place. Realign Dane County Regional Air Guard Station/Truax Field, WI; Joe Foss Field Air Guard Station, SD; Des Moines Air Guard Station, IA; Fort Wayne Air Guard Station, IN; and Lackland Air Force Base, TX; by relocating base-level F-110 intermediate maintenance to Capital, establishing a Centralized Intermediate Repair Facility (CIRF) at Capital for F-110 engines.

New Orleans Air Reserve Station, LA

Recommendation: Realign NAS New Orleans ARS, LA. Distribute the 926th Fighter Wing's A-10 aircraft to the 442d Fighter Wing (AFR), Whiteman Air Force Base, MO (nine aircraft), and the 917th Wing (AFR) at Barksdale Air Force Base, LA (six aircraft). The 442 wing HQ element realigns to Nellis Air Force Base, NV, and the wing Expeditionary Combat Support realigns to Buckley Air Force Base, CO.

Andrews Air Force Base, MD, Will Rogers Air Guard Station, OK, Tinker Air Force Base, OK, and Randolph Air Force Base TX

Recommendation: Realign Andrews Air Force Base, MD, by relocating the Air Force Flight Standards Agency (AFFSA) and its two C-21 aircraft to Will Rogers World Airport Air Guard Station, OK. Realign Randolph Air Force Base, TX, by relocating the USAF Advanced Instrument School (AIS) to Will Rogers Air Guard Station. Realign Tinker Air Force Base, OK, by relocating the Global Air Traffic Operations Program Office (GATOPO) to Will Rogers Air Guard Station. Realign Will Rogers Air Guard Station by relocating the 137th Airlift Wing (ANG) to Tinker Air Force Base and associate with the 507th Air Refueling Wing (AFR). The 137th's C-130H aircraft are distributed to the 136th Airlift Wing (ANG), Naval Air Station Joint Reserve Base Fort Worth, TX (4 aircraft), and 139th Airlift Wing (ANG), Rosecrans Memorial Airport Air Guard Station, MO (4 aircraft). The aerial port squadron at Will Rogers moves to Naval Air Station Joint Reserve Base Fort Worth, the Aeromedical Squadron and fire fighters move to Rosecrans AGB. Other elements of the 137th's Expeditionary Combat Support remain in place at Will Rogers.

Martin State Air Guard Station, MD

Recommendation: Realign Martin State Air Guard Station (AGS), MD. Distribute the eight C-130J aircraft of the 175th Wing (ANG) to the 146th Airlift Wing (ANG), Channel Islands AGS, CA (four aircraft), and 143d Airlift Wing (ANG), Quonset State Airport AGS, RI (four aircraft). The Aerial Port Squadron will move to Andrews Air Force Base, MD. The 143d and 146th Airlift Wings will each retire two C-130E aircraft (total of four).

Otis Air National Guard Base, MA, Lambert St. Louis International Airport Air Guard Station, MO, and Atlantic City Air Guard Station, NJ

Recommendation: Close Otis ANGB, MA. The 102d Fighter Wing's F-15s will be distributed to the 125th Fighter Wing, Jacksonville International Airport Air Guard Station, FL (three aircraft), and 177th Fighter Wing, Atlantic City International Airport Air Guard Station, NJ (12 aircraft). The 253d Combat Communications Group, and 267th Communications Squadron will remain in place at Otis, with 104th Fighter Wing at Barnes providing administrative support as the parent wing. An air sovereignty alert (ASA) facility will be constructed at Bradley International Airport Air Guard Station, CT. Firefighter positions from Otis will move to Barnes Municipal Airport Air Guard Station, MA.

Realign Lambert-St. Louis International Airport Air Guard Station, St. Louis, MO. The 131st Fighter Wing's F-15s (15 aircraft) will distribute to the 57th Fighter Wing, Nellis Air Force Base, NV (nine aircraft), and 177th Fighter Wing, Atlantic City International Airport Air Guard Station, NJ (six aircraft). Realign Atlantic City International Airport Air Guard Station, NJ. The 177th Fighter Wing's F-16s will be distributed to the 158th Fighter Wing, Burlington International Airport Air Guard Station, VT (three aircraft), and retire (12 aircraft). The wing's expeditionary combat support (ECS) elements will remain in place. Firefighter positions move to Scott Air Force Base, IL. The 157Air Operations Group (AOG) and the 218th Engineering Installation Group (EIG) will relocate from Jefferson Barracks geographically separated unit (GSU) into space at Lambert International. Jefferson Barracks real property accountability will transfer to the Army.

W.K. Kellogg Airport Air Guard Station, MI

Recommendation: Close W.K. Kellogg Airport Air Guard Station, MI. Distribute the 110th Fighter Wing's A-10s (15 aircraft) to the 127th Wing (ANG), Selfridge ANGB, MI.

Duluth International Airport Air Guard Station, MN

Recommendation: Realign Duluth International Airport Air Guard Station, MN, by retiring the 148th Fighter Wing's F-16s (15 aircraft).

Key Field Air Guard Station, MS

Recommendation: Realign Key Field Air Guard Station, MS. Distribute the 186th Air Refueling Wing's KC-135R aircraft to the 128th Air Refueling Wing (ANG), General Mitchell Air Guard Station, WI (three aircraft); the 134th Air Refueling Wing (ANG), McGhee-Tyson Airport Air Guard Station, TN (three aircraft); and 101st Air Refueling Wing (ANG), Bangor International Airport Air Guard Station, ME (two aircraft). One aircraft will revert to backup aircraft inventory. The 186th Air Refueling Wing's fire fighter positions move to the 172d Air Wing at Jackson International Airport, MS, and the expeditionary combat support (ECS) will remain in place.

Great Falls International Airport Air Guard Station, MT

Recommendation: Realign Great Falls International Airport Air Guard Station, MT. Distribute the 120th Fighter Wing's F-16s to the 187th Fighter Wing, Dannelly Field Air Guard Station, AL (three aircraft); the 132d Fighter Wing, Des Moines International Airport Air Guard Station, IA (three aircraft); and retire (nine aircraft). The wing's expeditionary combat support (ECS) elements remain in place.

Reno-Tahoe International Airport Air Guard Station, NV

Recommendation: Realign Reno-Tahoe International Airport Air Guard Station, NV. Distribute the eight C-130H aircraft of the 152d Airlift Wing (ANG) to the 189th Airlift Wing (ANG), Little Rock Air Force Base, AR. Flying related Expeditionary Combat Support (ECS) moves to Channel Islands Air Guard Station, CA (aerial port), and Fresno Air Guard Station, CA (fire fighters). The remaining ECS elements and the Distributed Common Ground System (DCGS) remain in place.

Cannon Air Force Base, NM

Recommendation: Close Cannon Air Force Base, NM. Distribute the 27th Fighter Wing's F-16s to the 115th Fighter Wing, Dane County Regional Airport, Truax Field Air Guard Station, WI (three aircraft); 114th Fighter Wing, Joe Foss Field Air Guard Station, SD (three aircraft); 150th Fighter Wing, Kirtland Air Force Base, NM (three aircraft); 113th Wing, Andrews Air Force Base, MD (nine aircraft); 57th Fighter Wing, Nellis Air Force Base, NV (seven aircraft), the 388th Wing at Hill Air Force Base, UT (six aircraft), and backup inventory (29 aircraft).

Niagara Falls Air Reserve Station, NY

Recommendation: Close Niagara Falls Air Reserve Station (ARS), NY. Distribute the eight C-130H aircraft of the 914th Airlift Wing (AFR) to the 314th Airlift Wing, Little Rock Air Force Base, AR. The 914th's headquarters moves to Langley Air Force Base, VA, the Expeditionary Combat Support (ECS) realigns to the 310th Space Group (AFR) at Schriever Air Force Base, CO, and the Civil Engineering Squadron moves to Lackland Air Force Base, TX. Also at Niagara, distribute the eight KC-135R aircraft of the 107th Air Refueling Wing (ANG) to the 101st Air Refueling Wing (ANG), Bangor International Airport Air Guard Station, ME. The 101st will subsequently retire its eight KC-135E aircraft and no Air Force aircraft remain at Niagara.

Schenectady County Airport Air Guard Station, NY

Recommendation: Realign Schenectady County Airport Air Guard Station (Air Guard Station), NY. The 109th Airlift Wing (ANG) will transfer four C-130H aircraft to the 189th Airlift Wing (ANG), Little Rock Air Force Base, AR.

Pope Air Force Base, NC, Pittsburgh International Airport Air Reserve Station, PA, and Yeager Air Guard Station, WV

Recommendation: Realign Pope Air Force Base (Air Force Base), NC. Distribute the 43d Airlift Wing's C-130E aircraft (25 aircraft) to the 314th Airlift Wing, Little Rock Air Force Base, AR; realign the 23d Fighter Group's A-10 aircraft (36 aircraft) to Moody Air Force Base, GA; transfer real property accountability to the Army; disestablish the 43rd Medical Group and establish a medical squadron. At Little Rock Air Force Base, AR, realign eight C-130E aircraft to backup inventory; retire 27 C-130Es; realign one C-130J aircraft to the 143d Airlift Wing (ANG), Quonset State Airport Air Guard Station, RI; two C-130Js to the 146th Airlift Wing (ANG), Channel Islands Air Guard Station, CA; and transfer four C-130Js from the 314th Airlift Wing (AD) to the 189th Airlift Wing (ANG), Little Rock Air Force Base. Realign Yeager Airport Air Guard Station (AGS), WV, by realigning eight C-130H aircraft to Pope/Fort Bragg to form a 16 aircraft Air Force Reserve/active duty associate unit, and by relocating flying-related expeditionary combat support (ECS) to Eastern West Virginia Regional Airport/Shepherd Field AGS (aerial port and fire fighters). Close Pittsburgh International Airport (IAP) Air Reserve Station (ARS), PA, and relocate 911th Airlift Wing's (AFRC) eight C-130H aircraft to Pope/Fort Bragg to form a 16 aircraft Air Force Reserve/active duty associate unit. Relocate AFRC operations and maintenance manpower to Pope/Fort Bragg. Relocate flight related ECS (aeromedical squadron) to Youngstown-Warren Regional APT ARS. Relocate all remaining Pittsburgh ECS and headquarters manpower to Offutt Air Force Base, NE. Air National Guard units at Pittsburgh are unaffected.

Grand Forks Air Force Base, ND

Recommendation: Realign Grand Forks Air Force Base (AFB), ND. Distribute the 319th Air Refueling Wing's KC-135R aircraft to the 126th Air Refueling Wing (ANG), Scott AFB, IL (12 aircraft), which retires its eight KC-135E aircraft; the 916th Air Refueling Wing (AFR), Seymour-Johnson AFB, NC (eight aircraft), which will host an active duty associate unit; the 6th Air Mobility Wing, MacDill AFB, FL (four aircraft), which will host a Reserve association with 927th Air Refueling Wing (AFR) manpower realigned from Selfridge ANGB, MI; the 154th Wing (ANG), Hickam AFB, HI (four aircraft), which will host an active duty associate unit; and the 22d Air Refueling Wing, McConnell AFB, KS (eight aircraft), which currently associates with the 931st Air Refueling Group (AFR). Grand Forks will remain an active Air Force installation with a new active duty/Air National Guard association unit created in anticipation of emerging missions at Grand Forks.

Realign McConnell Air National Guard (ANG) Base by relocating the 184th Air Refueling Wing (ANG) nine KC-135R aircraft to the 190th Air Refueling Wing at Forbes Field AGS, KS, which will retire its eight assigned KC-135E aircraft. The 184th Air Refueling Wing's operations and maintenance manpower will transfer with the aircraft to Forbes, while the wing's expeditionary combat support (ECS) elements will remain at McConnell.

Hector International Airport Air Guard Station, ND

Recommendation: Realign Hector International Airport Air Guard Station, ND. The 119th Fighter Wing's F-16s (15 aircraft) retire. The wing's expeditionary combat support elements remain in place.

Mansfield-Lahm Municipal Airport Air Guard Station, OH

Recommendation: Close Mansfield-Lahm Municipal Airport Air Guard Station (AGS), OH. Distribute the eight C-130H aircraft of the 179th Airlift Wing (ANG) to the 908th Airlift Wing (AFR), Maxwell Air Force Base, AL (four aircraft), and the 314th Airlift Wing, Little Rock Air Force Base, AR (four aircraft). Flying related Expeditionary Combat Support (ECS) moves to Louisville International Airport AGS, KY (aerial port) and Toledo Express Airport AGS, OH (fire fighters).

Springfield-Beckley Municipal Airport Air Guard Station, OH

Recommendation: Realign Springfield-Beckley Municipal Airport Air Guard Station, OH. Distribute the 178th Fighter Wing's F-16 aircraft to the 132d Fighter Wing, Des Moines International Airport Air Guard Station, IA (nine aircraft); the 140th Wing (ANG), Buckley Air Force Base, CO (three aircraft) and 149th Fighter Wing (ANG), Lackland Air Force Base, TX (six aircraft), but retain The wing's expeditionary combat support (ECS) elements, the 251st Combat Communications Group (ANG) and 269th Combat Communications Squadron (ANG) in place, and relocate the wing's firefighter positions will move to Rickenbacker Air Guard Station, OH.

Portland International Airport Air Guard Station, OR

Recommendation: Realign Portland International Airport Air Guard Station, OR. Realign the 939th Air Refueling Wing (AFR) by distributing the wing's KC-135R aircraft to the 507th Air Refueling Wing (AFR), Tinker Air Force Base, OK (four aircraft); the 190th Air Refueling Wing (ANG), Forbes Field Air Guard Station, KS (three aircraft); and by reverting one aircraft to backup inventory. Operations and maintenance manpower for four aircraft from the 939th Air Refueling Wing is realigned with the aircraft to Tinker Air Force Base. The 939th Air Refueling Wing's remaining manpower, to include expeditionary combat support, is realigned to Vandenberg Air Force Base, CA. Realign the 142d Fighter Wing (ANG) by distributing the wing's F-15 aircraft to the 177th Fighter Wing (ANG), Atlantic City, NJ (six aircraft) and the 159th Fighter Wing (ANG), New Orleans ARS, LA (nine aircraft). The 142d Fighter Wing's expeditionary combat support elements, along with the 244th and 272d Combat Communications Squadrons (ANG), will remain at Portland and Portland will continue to support a Homeland Defense alert commitment. The 304th Rescue Squadron (AFR) at Portland is realigned to McChord Air Force Base, WA, with no aircraft involved. The 214th Engineering Installation Squadron (ANG), a geographically separated unit at Jackson Barracks, LA, is relocated onto available facilities at New Orleans.

Ellsworth Air Force Base, SD, and Dyess Air Force Base, TX

Recommendation: Close Ellsworth Air Force Base, SD. The 24 B-1 aircraft assigned to the 28th Bomb Wing will be distributed to the 7th Bomb Wing, Dyess Air Force Base, TX. Realign Dyess Air Force Base, TX. The C-130 aircraft assigned to the 317th Airlift Group will be distributed to the active duty 314th Airlift Wing (22 aircraft) and Air National Guard 189th Airlift Wing (two aircraft), Little Rock Air Force Base, AR; the 176th Wing (ANG), Elmendorf Air Force Base, AK (four aircraft); and the 302d Airlift Wing (AFR), Peterson Air Force Base, CO (four aircraft). Peterson Air Force Base will have an active duty/Air Force Reserve association in the C-130 mission. Elmendorf Air Force Base will have an active duty/Air National Guard association in the C-130 mission.

Nashville International Airport Air Guard Station, TN

Recommendation: Realign Nashville International Airport (IAP) Air Guard Station (AGS), TN. This recommendation distributes the C-130H aircraft of the 118th Airlift Wing (ANG) to the 182d Airlift Wing (ANG), Greater Peoria Airport AGS, IL (four aircraft), and the 123d Airlift Wing (ANG), Louisville IAP AGS, KY (four aircraft). Flying related ECS (aerial port and fire fighters) moves to Memphis IAP AGS. The Aeromedical Squadron from Nashville moves to Naval Air Station Joint Reserve Base Fort Worth. Other ECS remains in place at Nashville.

Ellington Air Guard Station, TX

Recommendation: Realign Ellington Field Air Guard Station, TX. The 147th Fighter Wing's F-16s (15 aircraft) will retire. The wing's expeditionary combat support (ECS) elements will remain in place. Ellington retains the capability to support the Homeland Defense mission. The 272d Engineering Installation Squadron, an ANG geographically separated unit moves into available space on Ellington.

Lackland Air Force Base, TX

Recommendation: Realign Lackland Air Force Base, TX. Relocate the Standard Air Munitions Package (STAMP)/Standard Tank, Rack, Adaptor, and Pylon Packages (STRAPP) function from Lackland Air Force Base, Medina Annex to McConnell Air Force Base, KS, and transfer the mission to the Air National Guard.

Hill Air Force Base, UT Edwards Air Force Base, CA, Mountain Home Air Force Base, ID, Luke Air Force Base, AZ, and Nellis Air Force Base, NV

Recommendation: Realign Hill Air Force Base, UT. Distribute the 419th Fighter Wing F-16s to the 482d Fighter Wing, Homestead Air Reserve Base, FL (six aircraft) and the 301st Fighter Wing, Naval Air Station Joint Reserve Base Fort Worth, TX (nine aircraft). The AFMC F-16s at Hill will remain in place. Realign Edwards Air Force Base, CA; Mountain Home Air Force Base, ID; and Luke Air Force Base, AZ, by relocating base-level LANTIRN intermediate maintenance to Hill, establishing a Centralized Intermediate Repair Facility (CIRF) for Low Altitude Navigation and Targeting Infrared for Night (LANTIRN) pods at Hill. Realign Naval Air Station Joint Reserve Base Fort Worth, TX, and Nellis Air Force Base, NV, by relocating base-level F110 engine intermediate maintenance to Hill, establishing a CIRF for F110 engines at Hill.

Langley Air Force Base, VA

Recommendation: Realign Langley Air Force Base, VA. Realign base-level F-15 avionics intermediate maintenance from Langley Air Force Base to Tyndall Air Force Base, FL, by establishing a Centralized Intermediate Repair Facility (CIRF) at Tyndall Air Force Base, FL, for F-15 avionics.

Richmond Air Guard Station, VA, and Des Moines International Airport Air Guard Station, IA

Recommendation: Realign Richmond International Airport Air Guard Station, VA. Distribute the 192d Fighter Wing's F-16s to the 132d Fighter Wing, Des Moines International Airport Air Guard Station, IA (six aircraft); 482d Fighter Wing Homestead Air Reserve Base, FL (three aircraft) and to backup inventory (six aircraft). Richmond International Airport Air Guard Station real property accountability will transfer to the Department of the Army. The 192d Fighter Wing's manpower will associate with the 1st Fighter Wing. Realign Des Moines International Airport Air Guard Station, IA. The F-16 aircraft currently assigned to the 132d Fighter Wing at Des Moines are redistributed to the 180th Fighter Wing, Toledo Express Airport Air Guard Station, OH (nine aircraft) and 138th Fighter Wing, Tulsa International Airport Air Guard Station, OK (six aircraft).

Fairchild Air Force Base, WA

Recommendation: Realign Fairchild Air Force Base, WA. The 141st Air Refueling Wing (ANG) will associate with the 92d Air Refueling Wing at Fairchild Air Force Base, and the 141st Air Refueling Wing's eight KC-135R aircraft are distributed to the 185th Air Refueling Wing (ANG), Sioux Gateway Airport Air Guard Station, IA. The 256th Combat Communications Squadron and 242d Combat Communications Squadron, which are ANG geographically separated units at Four Lakes and Spokane, are relocated into available facilities at Fairchild Air Force Base.

General Mitchell Air Reserve Station, WI

Recommendation: Close General Mitchell Air Reserve Station (ARS). Distribute the eight C-130H aircraft of the 440th Airlift Wing to the 94th Airlift Wing (AFR), Dobbins Air Reserve Base (ARB), GA (four aircraft) and to the 314th Airlift Wing, Little Rock Air Force Base, AR (four aircraft). Realign the 440th Airlift Wing's operations, maintenance and Expeditionary Combat Support (ECS) manpower to Fort Bragg, NC. Air National Guard units at Mitchell are unaffected by this recommendation.

Air Force Logistics Support Centers

Recommendation: Realign Altus Air Force Base, OK; Hickam Air Force Base, HI; Hurlburt Field, FL; Langley Air Force Base, VA; Little Rock Air Force Base, AR; Luke Air Force Base, AZ; and Scott Air Force Base, IL. Establish Air Force Logistics Support Centers (LSCs) at Langley Air Force Base and Scott Air Force Base by combining five major command (MAJCOM) Regional Supply Squadrons (RSS) into two LSCs.

Combat Air Forces (CAF): Establish a CAF LSC at Langley Air Force Base by realigning RSS positions from Hickam Air Force Base and Sembach, Germany (non-BRAC programmatic) as well as base-level Logistics Readiness Squadron (LRS) positions from Luke Air Force Base.

Mobility Air Forces (MAF): Establish a MAF LSC at Scott Air Force Base by realigning RSS positions from Hurlburt Field and Sembach (non-BRAC programmatic) and LRS positions from Little Rock Air Force Base and Altus Air Force Base.

F100 Engine Centralized Intermediate Repair Facilities

Recommendation: Realign Langley Air Force Base, VA; Tyndall Air Force Base, FL; and Jacksonville International Airport Air Guard Station, FL. Establish a Centralized Intermediate Repair Facility (CIRF) for F100 engines at Seymour Johnson Air Force Base, NC by realigning base-level F100 engine intermediate maintenance from Langley Air Force Base. Establish a CIRF for F100 engines at New Orleans Air Reserve Station, LA (Air National Guard unit) by realigning base-level F100 engine intermediate maintenance from Tyndall Air Force Base and Jacksonville Air Guard Station.

Education and Training Joint Cross-Service Group Recommendations

Joint Center of Excellence for Religious Training & Education

Recommendation: Realign Maxwell Air Force Base, AL; Naval Air Station Meridian, MS; and Naval Station Newport, RI, by relocating religious training and education to Fort Jackson, SC, establishing a Joint Center of Excellence for religious training and education.

Joint Center of Excellence for Culinary Training

Recommendation: Realign Lackland Air Force Base, TX, by relocating Culinary Training to Fort Lee, VA, establishing it as a Joint Center of Excellence for Culinary Training.

Prime Power to Fort Leonard Wood, MO

Recommendation: Realign Fort Belvoir, VA, by relocating Army Prime Power School training to Fort Leonard Wood, MO.

Undergraduate Pilot and Navigator Training

Recommendation: Realign Moody Air Force Base, GA, as follows: relocate the Primary Phase of Fixed-wing Pilot Training to Columbus Air Force Base, MS, Laughlin Air Force Base, TX, and Vance Air Force Base, OK; relocate Introduction to Fighter Fundamentals Training for Pilots to Columbus Air Force Base, MS, Laughlin Air Force Base, TX, Randolph Air Force Base, TX, Sheppard Air Force Base, TX, and Vance Air Force Base, OK; relocate Introduction to Fighter Fundamentals Training for Weapons Systems Officers to Columbus Air Force Base, MS, Laughlin Air Force Base, TX, Sheppard Air Force Base, TX, and Vance Air Force Base, OK; and relocate Introduction to Fighter Fundaments Training for Instructor Pilots to Randolph Air Force Base, TX.

Realign Randolph Air Force Base, TX, by relocating Undergraduate Navigator Training to Naval Air Station, Pensacola, FL.

Joint Strike Fighter Initial Joint Training Site

Recommendation: Realign Luke Air Force Base, AZ, by relocating to Eglin Air Force Base, FL, a sufficient number of instructor pilots and operations support personnel to stand up the Air Force's portion of the Joint Strike Fighter (JSF) Initial Joint Training Site, hereby established at Eglin Air Force Base, FL. Realign Marine Corps Air Station Miramar, CA, by relocating to Eglin Air Force Base, FL, a sufficient number of instructor pilots and operations support personnel to stand up the Marine Corps' portion of the JSF Initial Joint Training Site, hereby established at Eglin Air Force Base, FL. Realign Naval Air Station Oceana, VA, by relocating to Eglin Air Force Base, FL, a sufficient number of instructor pilots, operations, and maintenance support personnel to stand up the Navy's portion of the JSF Initial Joint Training Site, hereby established at Eglin Air Force Base, FL. Realign Sheppard Air Force Base, TX, by relocating to Eglin Air Force Base, FL, a sufficient number of front-line and instructor-qualified maintenance technicians and logistics support personnel to stand up the Air Force's portion of the JSF Initial Joint Training Site, hereby established at Eglin Air Force Base, FL. Realign Naval Air Station Pensacola, FL, by relocating to Eglin Air Force Base, FL, a sufficient number of front-line and instructor-qualified maintenance technicians and logistics support personnel to stand up the Department of the Navy's portion of the JSF Initial Joint Training Site hereby established at Eglin Air Force Base, FL.

Joint Center for Consolidated Transportation Management Training

Recommendation: Realign Lackland Air Force Base, TX, by relocating the Transportation Management training to Fort Lee, VA.

Net Fires Center

Recommendation: Realign Fort Bliss, TX, by relocating the Air Defense Artillery (ADA) Center & School to Fort Sill, OK. Consolidate the Air Defense Artillery Center & School with the Field Artillery Center & School to establish a Net Fires Center.

Aviation Logistics School

Recommendation: Realign Fort Eustis by relocating the Aviation Logistics School and consolidating it with the Aviation Center and School at Fort Rucker.

Combat Service Support Center

Recommendation: Realign Fort Eustis, VA, by relocating the Transportation Center and School to Fort Lee, VA. Realign Aberdeen Proving Ground, MD by relocating the Ordnance Center and School to Fort Lee, VA. Realign Redstone Arsenal, AL, by relocating the Missile and Munitions Center to Fort Lee, VA. Consolidate the Transportation Center and School and the Ordnance Center and School with the Quartermaster Center & School, the Army Logistic Management College, and Combined Arms Support Command, to establish a Combat Service Support Center at Fort Lee, VA.

Headquarters and Support Activities Recommendations

Joint Basing

Recommendation: Realign McChord Air Force Base (AFB), WA, by relocating the installation management functions to Fort Lewis, WA, establishing Joint Base Lewis-McChord.

Realign Fort Dix, NJ, and Naval Air Engineering Station Lakehurst, NJ, by relocating the installation management functions to McGuire AFB, NJ, establishing Joint Base McGuire-Dix-Lakehurst.

Realign Naval Air Facility Washington, MD, by relocating the installation management functions to Andrews AFB, MD, establishing Joint Base Andrews-Naval Air Facility Washington, MD.

Realign Bolling AFB, DC, by relocating the installation management functions to Naval District Washington at the Washington Navy Yard, DC, establishing Joint Base Anacostia-Bolling-Naval Research Laboratory (NRL), DC.

Realign Henderson Hall, VA, by relocating the installation management functions to Fort Myer, VA, establishing Joint Base Myer-Henderson Hall, VA.

Realign Fort Richardson, AK, by relocating the installation management functions to Elmendorf AFB, AK, establishing Joint Base Elmendorf-Richardson, AK.

Realign Hickam AFB, HI, by relocating the installation management functions to Naval Station Pearl Harbor, HI, establishing Joint Base Pearl Harbor-Hickam, HI.

Realign Fort Sam Houston, TX, and Randolph AFB, TX, by relocating the installation management functions to Lackland AFB, TX.

Realign Naval Weapons Station Charleston, SC, by relocating the installation management functions to Charleston AFB, SC.

Realign Fort Eustis, VA, by relocating the installation management functions to Langley AFB, VA.

Realign Fort Story, VA, by relocating the installation management functions to Commander Naval Mid-Atlantic Region at Naval Station Norfolk, VA.

Realign Andersen AFB, Guam, by relocating the installation management functions to Commander, U.S. Naval Forces, Marianas Islands, Guam.

Defense Finance and Accounting Service

Recommendation: Close the Defense Finance and Accounting Service (DFAS) sites at Rock Island IL; Pensacola Saufley Field, FL; Norfolk Naval Station, VA; Lawton, OK; Pensacola Naval Air Station, FL; Omaha, NE; Dayton, OH; St. Louis, MO; San Antonio, TX; San Diego, CA; Pacific Ford Island, HI; Patuxent River, MD; Limestone, ME; Charleston, SC; Orlando, FL; Rome, NY; Lexington, KY; Kansas City, MO; Seaside, CA; San Bernardino, CA; and Oakland, CA. Relocate and consolidate business, corporate and administrative functions to the Defense Supply Center-Columbus, OH, the Buckley Air Force Base Annex, Denver, CO, or the MG Emmett J. Bean Federal Center, Indianapolis, IN.

Realign DFAS Arlington, VA, by relocating and consolidating business, corporate, and administrative functions to the Defense Supply Center-Columbus, OH, the Buckley Air Force Base Annex, Denver, CO, or the MG Emmett J. Bean Federal Center, Indianapolis, IN. Retain a minimum essential DFAS liaison staff to support the Under Secretary of Defense (Comptroller)/Chief Financial Officer, Military Service Chief Financial Officers, and Congressional requirements.

Realign DFAS Cleveland, OH, by relocating and consolidating business, corporate, and administrative functions to the Defense Supply Center-Columbus, OH, the Buckley Air Force Base Annex, Denver, CO, or the MG Emmett J. Bean Federal Center, Indianapolis, IN. Retain an enclave for the Military Retired and Annuitant Pay Services contract function and government oversight.

Realign DFAS Columbus, OH, by relocating up to 55 percent of the Accounting Operation functions and associated corporate and administrative functions to DFAS Denver, CO, or DFAS Indianapolis, IN, and up to 30 percent of the Commercial Pay function and associated corporate and administrative functions to DFAS Indianapolis, IN, for strategic redundancy.

Realign DFAS Denver, CO, by relocating up to 25 percent of the Accounting Operation functions and associated corporate and administrative functions to DFAS Columbus, OH, or DFAS Indianapolis, IN, and up to 35 percent of the Military Pay function and associated corporate and administrative functions to DFAS Indianapolis, IN, for strategic redundancy.

Realign DFAS Indianapolis, IN, by relocating up to 10 percent of the Accounting Operation functions and associated corporate and administrative functions to DFAS Columbus, OH or DFAS Denver, CO, and up to 20 percent of the Commercial Pay function and associated corporate and administrative functions to DFAS Columbus, OH, for strategic redundancy.

Consolidate Civilian Personnel Offices (CPOs) Within Each Military Department and the Defense Agencies

Recommendation: Realign Fort Richardson, AK, by relocating the Civilian Personnel Operations Center to Fort Huachuca, AZ, and consolidating it with the Civilian Personnel Operations Center at Fort Huachuca, AZ. Realign Rock Island Arsenal, IL, by relocating the Civilian Personnel Operations Center to Fort Riley, KS, and Aberdeen Proving Ground, MD, and consolidating with the Civilian Personnel Operations Center at Fort Riley, KS, and Aberdeen Proving Ground, MD.

Realign Human Resource Service Center-Northeast, 111 S. Independence Mall, East, Bourse Bldg, a leased installation in Philadelphia, PA, by relocating the Civilian Personnel Office to the Naval Support Activity Philadelphia, PA. Realign Human Resource Service Center-Southeast, 9110 Leonard Kimble Road, a leased installation at Stennis Space Center, MS, by relocating the Civilian Personnel Office to the Naval Support Activity Philadelphia, PA, and consolidating it with the relocated Human Resource Service Center-Northeast at the Naval Support Activity, Philadelphia, PA. Realign Human Resource Service Center-Southwest, 525 B Street, Suite 600, a leased installation in San Diego, CA, by relocating the Civilian Personnel Office to Naval Air Station North Island or Marine Corps Air Station Miramar, CA. Realign Human Resource Service Center-Pacific, 178 Main Street, Bldg 499, Honolulu, HI, by relocating the Civilian Personnel Office to the Human Resource Service Center-Northwest, 3230 NW Randall Way, Silverdale, WA, and Naval Air Station North Island or Marine Corps Air Station Miramar, CA and consolidating with the Human Resource Service Centers at Silverdale, WA and Naval Air Station North Island or Marine Corps Air Station Miramar, CA.

Realign Wright-Patterson Air Force Base, OH, by relocating the Civilian Personnel Office to Randolph Air Force Base, TX. Realign Robins Air Force Base, GA, by relocating the Civilian Personnel Office to Randolph Air Force Base, TX. Realign Hill Air Force Base, UT, by relocating the Civilian Personnel Office to Randolph Air Force Base, TX. Realign Tinker Air Force Base, OK, by relocating the Civilian Personnel Office to Randolph Air Force Base, TX. Realign Bolling Air Force Base, DC, by relocating the Civilian Personnel Office to Randolph Air Force Base, TX. Consolidate the relocated civilian personnel offices with the Civilian Personnel Office at Randolph Air Force Base, TX.

Realign 2521 Jefferson Davis Hwy, a leased installation in Arlington, VA, by relocating the transactional functions of the Defense Commissary Agency Human Resource Division and the Washington Headquarters Services Civilian Personnel Office to the Defense Logistics Agency, 3990 East Broad Street, Columbus, OH, and consolidating them with the Customer Support Office of the Defense Logistics Agency. Realign the Department of Defense Education Activity, 4040 North Fairfax Drive, a leased installation in Arlington, VA, by relocating the transactional functions of the Civilian Personnel Office to the Defense Logistics Agency 3990 East Broad Street, Columbus, OH, and consolidating them with the Customer Support Office of the Defense Logistics Agency. Realign the Defense Information Systems Agency, 701 S. Courthouse Road, Arlington, VA, by relocating the transactional functions of the Civilian Personnel Office to the Defense Finance and Accounting Service, 8899 E. 56th Street, Indianapolis, IN, and consolidating them with the Civilian Personnel Office of the Defense Finance and Accounting Service at Indianapolis, IN.

Consolidate Defense Information Systems Agency and Establish Joint C4ISR D&A Capability

Recommendation: Close 5600 Columbia Pike and Skyline Place (Skyline VII), leased installations in Falls Church, VA, and 1010 Gause Boulevard, a leased installation in Slidell, LA. Relocate all components of the Defense Information Systems Agency (DISA) to Fort Meade, MD.

Close the Logicon Building, a leased installation in Arlington, Virginia. Relocate the Joint Task Force-Global Network Operation (JTF-GNO) to Fort Meade, MD.

Realign Skyline IV and Skyline V, leased installations in Falls Church, VA, and GSA Franconia Warehouse Depot, a leased installation in Springfield, VA, by relocating all components of DISA to Fort Meade, MD.

Realign Arlington Service Center, VA, by relocating all components of DISA and the JTF-GNO to Fort Meade, MD.

Realign Naval Support Activity Panama City, Florida by relocating the Deployable Joint Command and Control (DJC2) Program Office of the Naval Surface Warfare Center to Fort Meade, MD.

Realign Rosslyn Plaza North, a leased location in Arlington, VA, by relocating the Joint Tactical Radio System (JTRS) Program Office to Fort Meade, MD.

Collocate Missile and Space Defense Agencies

Recommendation: Close the Suffolk Building, a leased installation in Falls Church, VA. Relocate all Missile Defense Agency (MDA) functions, except the Ballistic Missile Defense System Sensors Directorate, to Redstone Arsenal, AL.

Close the Space and Missile Defense Command (SMDC) Building, a leased installation in Huntsville, AL. Relocate all functions of the Missile Defense Agency to Redstone Arsenal, AL.

Realign Federal Office Building 2, Arlington, VA, by relocating a Headquarters Command Center for the Missile Defense Agency to Fort Belvoir, VA, and by relocating all other functions of the Missile Defense Agency, except the Command and Control Battle Management and Communications Directorate, to Redstone Arsenal, AL.

Realign Crystal Square 2, a leased installation in Arlington, VA, by relocating all functions of the Missile Defense Agency and the Headquarters component of the USA Space and Missile Defense Command to Redstone Arsenal, AL.

Realign Crystal Mall 4, a leased installation in Arlington, VA, by relocating the Headquarters component of the USA Space and Missile Defense Command to Redstone Arsenal, AL.

Collocate Miscellaneous OSD, Defense Agency, and Field Activity Leased Locations

Recommendation: Close 1010 North Glebe Road, 1515 Wilson Boulevard, 4850 Mark Center Drive, the Crown Ridge Building at 4035 Ridgetop, and 1901 N. Beauregard, leased installations in Northern VA, by relocating the Office of the Secretary of Defense to Fort Belvoir, VA.

Close North Tower at 2800 Crystal Drive, a leased installation in Arlington, VA, by relocating the DoD Inspector General to Fort Belvoir, VA.

Close 1600 Wilson Boulevard, a leased installation in Arlington, VA, by relocating the Defense Human Resources Activity to Fort Belvoir, VA.

Close 1500 Wilson Boulevard and Presidential Towers, leased installations in Arlington, VA, by relocating offices accommodating Pentagon Renovation temporary space to Fort Belvoir, VA.

Close Metro Park III and IV (6350 and 6359 Walker Lane), a leased installation in Alexandria, VA, by relocating the Defense Contract Management Agency Headquarters to Fort Lee, VA.

Realign 400 Army Navy Drive, a leased installation in Arlington, VA, by relocating the Office of the Secretary of Defense, Washington Headquarters Services, and the DoD Inspector General to Fort Belvoir, VA.

Realign the Webb Building, a leased installation in Arlington, VA, by relocating the Department of Defense Education Activity and the Defense Human Resources Activity to Fort Belvoir, VA.

Realign Rosslyn Plaza North, a leased installation in Arlington, VA, by relocating offices accommodating Pentagon Renovation temporary space, Washington Headquarters Services and the Defense Human Resources Activity to Fort Belvoir, VA.

Realign Crystal Gateway North, a leased installation in Arlington, VA, by relocating the Office of the Secretary of Defense, Washington Headquarters Services, and the DoD Inspector General to Fort Belvoir, VA.

Realign 2001 North Beauregard Street, 621 North Payne Street, Ballston Metro Center, Crystal Square 4, Crystal Square 5, Crystal Plaza 6, 4015 Wilson Boulevard, Skyline 5, and Skyline 6, leased installations in Northern VA, by relocating the Office of the Secretary of Defense to Fort Belvoir, VA.

Realign Crystal Mall 3, a leased installation in Arlington, VA, by relocating the Office of the Secretary of Defense and the Defense Finance and Accounting Service at Fort Belvoir, VA.

Realign Hoffman 1, Crystal Gateway 1, Crystal Gateway 2, Crystal Gateway 3, and the James K. Polk Building, leased installations in Northern VA, by relocating the Office of the Secretary of Defense and Washington Headquarters Services to Fort Belvoir, VA.

Realign the Nash Street Building, a leased installation in Arlington, VA, by relocating the Defense Human Resources Activity to Fort Belvoir, VA.

Realign Alexandria Tech Center IV, a leased installation in Alexandria, VA, by relocating the Defense Technology Security Administration to Fort Belvoir, VA.

Realign 1400-1450 South Eads Street, a leased installation in Arlington, VA, by relocating the DoD Inspector General to Fort Belvoir, VA.

Realign 1401 Wilson Boulevard, a leased installation in Arlington, VA, by relocating the Office of the Secretary of Defense, Washington Headquarters Services, and Defense Human Resources Activity to Fort Belvoir, VA.

Realign 1555 Wilson Boulevard, a leased installation in Arlington, VA, by relocating offices of the Office of the Secretary of Defense and Defense Human Resources Activity to Fort Belvoir, VA.

Realign Crystal Mall 2-3-4 and Skyline 4, leased installations in Northern VA, by relocating Washington Headquarters Services to Fort Belvoir, VA.

Consolidate Army Test and Evaluation Command (ATEC) Headquarters

Recommendation: Realign Park Center Four, a leased installation in Alexandria, VA, by relocating and consolidating Army Test and Evaluation Command (ATEC) with its sub-components at Aberdeen Proving Ground (APG), MD.

Collocate Miscellaneous Army Leased Locations

Recommendation: Realign Ballston Metro Center, a leased installation in Arlington, VA, by relocating the U.S. Army Legal Agency to Fort Belvoir, VA.

Realign Park Center Office 1, a leased installation in Alexandria, VA, by relocating the U.S. Army Audit Agency to Fort Belvoir, VA.

Realign Skyline VI, a leased installation in Falls Church, VA, by relocating the Administrative Assistant to the Secretary of the Army (SAAA) to Fort Belvoir, VA.

Realign the Zachary Taylor Building, a leased installation in Arlington, VA, by relocating the U.S. Army G6/DISC4, the G8/Force Development, the G1/Army Research Institute, the U.S. Army Network Enterprise Technology Command, and the Administrative Assistant to the Secretary of the Army (SAAA) to Fort Belvoir, VA.

Realign Crystal Square 2, a leased installation in Arlington, VA, by relocating U.S. Army NISA-P, the U.S. Army Environmental Policy Institute, and Senior Executive Public Affairs Training to Fort Belvoir, VA.

Realign Crystal Gateway 2, a leased installation in Arlington, VA, by relocating the Deputy Under Secretary of the Army—Operations Research to Fort Belvoir, VA.

Realign the Hoffman 1 and 2 Buildings, leased installations in Alexandria, VA, by relocating U.S. Army G1/Civilian Personnel Office, G1/Personnel Transformation, the Administrative Assistant to the Secretary of the Army(SAAA), and the Communication and Electronics Command to Fort Belvoir, VA.

Realign Rosslyn Metro Center, a leased installation in Arlington, VA, by relocating the Administrative Assistant to the Secretary of the Army (SAAA) to Fort Belvoir, VA.

Realign Jefferson Plaza 1 and 2, leased installations in Arlington, VA, by relocating the U.S. Army Office of the Chief Army Reserve, Assistant Secretary of the Army Financial Management and Comptroller/CEAC, the Administrative Assistant to the Secretary of the Army (SAAA), and Chief of Chaplains to Fort Belvoir, VA.

Realign Crystal Gateway North, a leased installation in Arlington, VA, by relocating the U.S. Army G3/Army Simulation to Fort Belvoir, VA.

Realign Crystal Plaza 5, a leased installation in Arlington, VA, by relocating the U.S. Army Safety Office and OSAA to the Fort Belvoir, VA.

Realign Crystal Mall 4, a leased installation in Arlington, VA, by relocating the Assistant Secretary of the Army Manpower and Reserve Affairs/Amy Review Board/Equal Opportunity Office to the Fort Belvoir, VA.

Realign Crystal Gateway 1, a leased installation in Arlington, VA, by relocating U.S. Army Office of Environmental Technology to Fort Belvoir, VA.

Consolidate Media Organizations Into a New Agency for Media and Publications

Recommendation: Realign Fort Belvoir, VA, by relocating Soldier Magazine to Fort Meade, MD. Realign Anacostia Annex, District of Columbia, by relocating the Naval Media Center to Fort Meade, MD. Realign 2320 Mill Road, a leased installation in Alexandria, VA, by relocating Army Broadcasting-Soldier Radio/TV to Fort Meade, MD. Realign 103 Norton Street, a leased installation in San Antonio, TX, by relocating Air Force News Agency-Army/Air Force Hometown News Service (a combined entity) to Fort Meade, MD. Close 601 North Fairfax Street, a leased installation in Alexandria, VA, by relocating the American Forces Information Service and the Army Broadcasting-Soldier Radio/TV to Fort Meade, MD. Consolidate Soldier Magazine, Naval Media Center, Army Broadcasting-Soldier Radio/TV, and the Air Force News Agency-Army/Air Force Hometown News Service into a single DoD Media Activity at Fort Meade, MD.

Relocate Miscellaneous Department of Navy Leased Locations

Recommendation: Close Crystal Park 3 and Crystal Square 3, leased installations in Arlington, VA, and 214191 Great Mills Road and 21535 Pacific Drive, leased installations in Lexington Park, MD. Relocate all Department of the Navy organizations to DoD owned space in the National Capital Region. Realign Crystal Gateway 3, Crystal Gateway 4, Crystal Mall 2, Crystal Mall 3, Crystal Park 1, Crystal Park 5, Crystal Square 2, 1400-1450 S. Eads Street, and 2300 Clarendon Blvd, all leased installations in Arlington, VA, and any other Department of the Navy occupied leased space in the National Capital Region, by relocating all Department of the Navy organizations to DoD owned space in the National Capital Region. Realign Federal Office Building 2, Arlington, VA, by relocating all Department of the Navy organizations to DoD owned space in the National Capital Region.

Relocate Army Headquarters and Field Operating Agencies

Recommendation: Realign the Zachary Taylor Building, a leased installation in Arlington, VA, by relocating the Army Installation Management Agency headquarters to Fort Sam Houston, TX.

Realign Rock Island Arsenal, Illinois, as follows: Relocate the Army Installation Management Agency Northwest Region headquarters to Fort Sam Houston, TX, and consolidate it with the Army Installation Management Agency Southwest Region headquarters to form the Army Installation Management Agency Western Region; and relocate the Army Network Enterprise Technology Command Northwest Region headquarters to Fort Sam Houston, TX, and consolidate it with the Army Network Enterprise Technology Command Southwest Region headquarters to form the Army Network Enterprise Technology Command Western Region.

Realign Crystal Square 2, a leased installation in Arlington, VA, by relocating the Army HR XXI office to Fort Knox, KY.

Realign the Park Center IV Building, a leased installation in Falls Church, VA, by relocating the Army Center for Substance Abuse to Fort Knox, KY.

Realign Seven Corners Corporate Center, a leased installation in Falls Church, VA, and 4700 King Street, a leased installation in Alexandria, VA, by relocating the Army Community and Family Support Center to Fort Sam Houston, TX.

Realign Rosslyn Metro Center, a leased installation in Arlington, VA, by relocating the Army Family Liaison Office to Fort Sam Houston, TX.

Realign Skyline Six, a leased installation in Falls Church, VA, by relocating the Army Contracting Agency headquarters to Fort Sam Houston, TX.

Realign the Hoffman 1 Building, a leased installation in Alexandria, VA, by relocating the Army Contracting Agency E-Commerce Region headquarters to Fort Sam Houston, TX.

Realign Fort Buchanan, Puerto Rico, by relocating the Army Contracting Agency Southern Hemisphere Region headquarters to Fort Sam Houston, TX.

Realign Aberdeen Proving Ground, MD, by relocating the Army Environmental Center to Fort Sam Houston, TX.

Realign Fort Belvoir, VA by relocating Army Materiel Command (AMC) and the Security Assistance Command (USASAC, an AMC major subordinate command) to Redstone Arsenal, AL.

Collocate Defense/Military Department Adjudication Activities

Recommendation: Close 21820 Burbank Boulevard, a leased installation in Woodland Hills, CA. Relocate all components of the Defense Office of Hearings and Appeals Western Hearing Office to Fort Meade, MD.

Close 800 Elkridge Landing Road, a leased installation in Linthicum, MD. Relocate all components of the National Security Agency Central Adjudication Facility to Fort Meade, MD.

Realign 2780 Airport Drive, a leased installation in Columbus, OH, by relocating all components of the Defense Industrial Security Clearance Office and the Defense Office of Hearings and Appeals Personal Security Division to Fort Meade, MD.

Realign 1777 N. Kent Street, a leased installation in Arlington, VA, by relocating all components of the Washington Headquarters Service Central Adjudication Facility to Fort Meade, MD.

Realign 875 N. Randolph Street, a leased installation in Arlington, VA, by relocating all components of the Defense Office of Hearings and Appeals Headquarters to Fort Meade, MD.

Realign 10050 North 25th Avenue, a leased installation in Phoenix, AZ, by relocating all components of the Defense Office of Hearings and Appeals Arizona office to Fort Meade, MD.

Realign the Washington Navy Yard, DC, by relocating all components of the Navy Central Adjudication Facility to Fort Meade, MD.

Realign Bolling Air Force Base, DC, by relocating all components of the Air Force Central Adjudication Facility and the Defense Intelligence Agency Central Adjudication Facility to Fort Meade, MD.

Realign the Pentagon, Washington, DC, by relocating all components of the Joint Staff Central Adjudication Facility to Fort Meade, MD.

Realign the U.S. Army Soldiers Systems Center Garrison, Natick, MA, by relocating all components of the Defense Office of Hearings and Appeals Boston Hearing office to Fort Meade, MD.

Collocate Military Department Investigation Agencies With DoD Counterintelligence and Security Agency

Recommendation: Close 1919 South Eads Street, and 1801 South Bell Street, leased installations in Arlington, VA; 1340 Braddock Place, a leased installation in Alexandria, VA; and 938 Elridge Landing, a leased installation in Linthicum, MD. Relocate all components of the Counterintelligence Field Activity (CIFA) and Defense Security Service (DSS) to Marine Corps Base Quantico, VA.

Realign Crystal Square 2, Crystal Square 4, and 251 18th Street South, leased installations in Arlington, VA; and 6845 and 6856 Deerpath Road, leased installations in Elkridge, MD; 1 World Trade Center, a leased installation in Long Beach, California; 2300 Lake Park Drive, a leased installation in Smyrna, GA; and 2780 Airport Drive, a leased installation in Columbus, OH, by relocating all components of CIFA and DSS to Marine Corps Base Quantico, VA.

Realign 121 Tejon, a leased installation in Colorado Springs, CO, by relocating all components of CIFA to Peterson Air Force Base, CO.

Disestablish CIFA and DSS, and consolidate their components into the newly created Department of Defense Counterintelligence and Security Agency.

Realign Washington Navy Yard, Washington, DC, by relocating the Naval Criminal Investigation Service (NCIS) to Marine Corp Base Quantico, VA.

Realign Andrews Air Force Base, MD by relocating the Air Force Office of Special Investigations (AFOSI) to Marine Corps Base Quantico, VA.

Realign Fort Belvoir, VA, by relocating the Army Criminal Investigation Command (CID) to Marine Corp Base Quantico, VA.

Consolidate Defense Commissary Agency Eastern, Midwestern Regional, and Hopewell, VA Offices

Recommendation: Close 300 AFCOMS Way, a leased installation in San Antonio, TX; 5258 Oaklawn Boulevard, a leased installation in Hopewell, VA; and 5151 Bonney Road, a leased installation in Virginia Beach, VA. Relocate all components of the Defense Commissary Agency (DeCA) to Fort Lee, VA.

Consolidate Transportation Command Components

Recommendation: Realign Fort Eustis, VA, by relocating the Army Surface Deployment and Distribution Command to Scott Air Force Base, IL, and consolidating it with the Air Force Air Mobility Command Headquarters and Transportation Command (TRANSCOM) Headquarters at Scott Air Force Base, IL.

Realign Hoffman 2, a leased installation in Alexandria, VA, by relocating the U.S. Army Surface Deployment and Distribution Command to Scott Air Force Base, IL, and consolidating it with the Air Force Air Mobility Command Headquarters and Transportation Command Headquarters at Scott Air Force Base, IL.

Realign U.S. Army Surface Deployment and Distribution Command—Transportation Engineering Agency facility in Newport News, VA, by relocating U.S. Army Surface Deployment and Distribution Command—Transportation Engineering Agency to Scott Air Force Base, IL, and consolidating it with the Air Force Air Mobility Command Headquarters and Transportation Command Headquarters at Scott Air Force Base, IL.

Relocate Air Force Real Property Agency (AFRPA)

Recommendation: Realign Rosslyn Center and the Nash Street Building, leased installations in Arlington, VA, by relocating the Air Force Real Property Agency to Lackland Air Force Base, San Antonio, TX.

Collocate Navy Education and Training Command and Navy Education and Training Professional Development & Technology Center

Recommendation: Realign Naval Air Station Pensacola, FL, by relocating Navy Education and Training Command to Naval Support Activity Millington, TN.

Realign Saufley Field, FL, by relocating Navy Education and Training Professional Development & Technology Center to Naval Support Activity Millington, TN.

Collocate Miscellaneous Air Force Leased Locations and National Guard Headquarters Leased Locations

Recommendation: Close 1501 Wilson Blvd, a leased installation in Arlington, VA. Relocate the Air Force-Judge Advocate General to Andrews Air Force Base, MD.

Close 1560 Wilson Blvd, a leased installation in Arlington, VA. Relocate the Secretary of the Air Force-Acquisition to Andrews Air Force Base, MD.

Close Arlington Plaza, a leased installation in Arlington, VA. Relocate the Secretary of the Air Force-Auditor General to Andrews Air Force Base, MD.

Realign 1401 Wilson Blvd, the Nash Street Building, and 1919 Eads Street, leased installations in Arlington, VA, by relocating Air Force-Operations to Andrews Air Force Base, MD.

Realign 1815 N. Fort Myer Drive, a leased installation in Arlington, VA, by relocating Air Force-Operations, the Secretary of the Air Force-Administrative Assistant, and the Secretary of the Air Force-Auditor General to Andrews Air Force Base, MD.

Realign Ballston Metro Center, a leased installation in Arlington, VA, by relocating the Secretary of the Air Force-Public Affairs and the Secretary of the Air Force-Small Business to Andrews Air Force Base, MD.

Realign Crystal Gateway 1, a leased installation in Arlington, VA, by relocating Air Force-Personnel, Air Force-Installation and Logistics, Air Force-Operations, and Air Force-Personnel Operations to Andrews Air Force Base, MD.

Realign Crystal Gateway 2 and Jefferson Plaza 2, leased installations in Arlington, VA, by relocating Air Force-Installation and Logistics to Andrews Air Force Base, MD.

Realign Crystal Gateway North, a leased installation in Arlington, VA, by relocating Air Force-Installation and Logistics and the Secretary of the Air Force-Financial Management to Andrews Air Force Base, MD.

Realign Crystal Park 5 and Crystal Plaza 6, leased installations in Arlington, VA, by relocating the Secretary of the Air Force-Administrative Assistant to Andrews Air Force Base, MD.

Realign Crystal Plaza 5, a leased installation in Arlington, VA, by relocating the Air Force-Chief Information Officer and Air Force-Operations to Andrews Air Force Base, MD.

Realign Crystal Square 2, a leased installation in Arlington, VA, by relocating Air Force-Personnel and Air Force-Personnel Operations to Andrews Air Force Base, MD.

Realign the Webb Building, a leased installation in Arlington, VA, by relocating Air Force-Personnel and the Secretary of the Air Force/General Counsel to Andrews Air Force Base, MD.

Realign Jefferson Plaza-1, Arlington, VA, by relocating the National Guard Bureau Headquarters, the Air National Guard Headquarters, and elements of the Army National Guard Headquarters to the Army National Guard Readiness Center, Arlington, VA, and Andrews Air Force Base, MD.

Create Joint Mobilization Sites

Recommendation: Realign Aberdeen Proving Ground, MD, Washington Navy Yard, DC, and Naval Submarine Base New London, CT, by relocating all mobilization functions to Fort Dix, NJ, designating it as Joint Pre-Deployment/Mobilization Site Dix/McGuire/Lakehurst. Realign Submarine Base Bangor, WA, by relocating all mobilization processing functions to Ft Lewis, WA, designating it as Joint Pre-Deployment/Mobilization Site Lewis/McChord. Realign Ft Huachuca, AZ, by relocating all mobilization processing functions to Ft Bliss, TX, designating it as Joint Pre-Deployment/Mobilization Site Bliss/Holloman. Realign Ft Eustis, VA, Ft Jackson, SC, and Ft Lee, VA, by relocating all mobilization processing functions to Ft Bragg, NC, designating it as Joint Pre-Deployment/Mobilization Site Bragg/Pope.

Consolidate Correctional Facilities Into Joint Regional Correctional Facilities

Recommendation: Realign Edwards Air Force Base, CA, Kirtland Air Force Base, NM, and Marine Corps Base Camp Pendleton, CA, by relocating the correctional function of each to Marine Corps Air Station, Miramar, CA, and consolidating them with the correctional function already at Marine Corps Air Station Miramar, CA, to form a single Level II Southwest Joint Regional Correctional Facility.

Realign Lackland Air Force Base, TX, Fort Knox, KY, and Fort Sill, Oklahoma by relocating the correctional function of each to Fort Leavenworth, KS, and consolidating them with the correctional function already at Fort Leavenworth, KS, to form a single Level II Midwest Joint Regional Correctional Facility.

Realign Naval Air Station Jacksonville, FL, and Naval Air Station Pensacola, FL, by relocating the correctional function of each to Naval Weapons Station Charleston, SC, and consolidating them with the correctional function already at Naval Weapons Station Charleston, SC, to form a single Level II Southeastern Joint Regional Correctional Facility.

Realign Naval Support Activity Norfolk, VA, Marine Corps Base Quantico, VA, and Camp LeJeune, NC, by relocating the correctional function of each and consolidating them at Naval Support Activity, Northwest Annex, Chesapeake, VA, to form a single Level II Mid-Atlantic Joint Regional Correctional Facility.

Realign Fort Lewis, WA, by relocating the management of correctional functions to Submarine Base Bangor, WA. The correctional facilities at Submarine Base Bangor, WA, and Fort Lewis, WA, will together form the Level II Northwestern Joint Regional Correctional Facility.

Consolidate/Collocate Active and Reserve Personnel & Recruiting Centers for Army and Air Force

Recommendation: Realign Army Human Resources Command leased facilities in Alexandria, VA, Indianapolis, IN, and St. Louis, MO. Relocate and consolidate all functions at Fort Knox, KY.

Realign the Air Reserve Personnel Center (Buckley Annex), CO, by relocating the Air Reserve Personnel Center processing functions to Randolph Air Force Base, TX, and consolidating them with the Air Force Personnel Center at Randolph Air Force Base, TX, and by relocating the Individual Mobilization Augmentee operational management functions to Robins Air Force Base, GA, and consolidating them with the Air Force Reserve Command at Robins Air Force Base, GA.

Realign Robins Air Force Base, GA, by relocating Air Force Reserve Recruiting Service to Randolph Air Force Base, TX.

Industrial Joint Cross-Service Group Recommendations

Fleet Readiness Centers

Recommendation: Realign Naval Air Station Oceana, VA, by disestablishing the Aircraft Intermediate Maintenance Department Oceana, the Naval Air Depot Cherry Point Detachment, and the Naval Air Depot Jacksonville Detachment; establishing Fleet Readiness Center Mid Atlantic, Naval Air Station Oceana, VA; and transferring all intermediate maintenance workload and capacity to Fleet Readiness Center Mid Atlantic, Naval Air Station Oceana, VA.

Realign Naval Air Station Patuxent River, MD, by disestablishing the Aircraft Intermediate Maintenance Department at Naval Air Warfare Center Aircraft Division; establishing Fleet Readiness Center Mid Atlantic Site Patuxent River, Naval Air Station Patuxent River, MD; and transferring all intermediate maintenance workload and capacity to Fleet Readiness Center Mid Atlantic Site Patuxent River, Naval Air Station Patuxent River, MD.

Realign Naval Air Station Norfolk, VA, by disestablishing the Aircraft Intermediate Maintenance Department Norfolk VA, the Naval Air Depot Jacksonville Detachment, and Naval Air Warfare Center Aircraft Division Lakehurst Detachment; establishing Fleet Readiness Center Mid Atlantic Site Norfolk, Naval Air Station Norfolk, VA; and transferring all intermediate and depot maintenance workload and capacity to Fleet Readiness Center Mid Atlantic Site Norfolk, Naval Air Station Norfolk, VA.

Realign Naval Air Station Joint Reserve Base New Orleans, LA, by disestablishing the Aircraft Intermediate Maintenance Department, establishing Fleet Readiness Center Mid Atlantic Site New Orleans, Naval Air Station Joint Reserve Base New Orleans, LA; and transfer all intermediate maintenance workload and capacity to Fleet Readiness Center Mid Atlantic Site New Orleans, Naval Air Station Joint Reserve Base New Orleans, LA.

Realign Marine Corps Air Station Cherry Point, NC, as follows: disestablish Naval Air Depot Cherry Point; establish Fleet Readiness Center East, Marine Corps Air Station Cherry Point, NC; relocate depot maintenance workload and capacity for Aircraft Avionics/Electronics Components (approximately 39 K DLHs), Aircraft Hydraulic Components (approximately 69 K DLHs), Aircraft Landing Gear Components (approximately 8 K DLHs), Aircraft Other Components (approximately 23 K DLHs), and Aircraft Structural Components (approximately 126 K DLHs) to Fleet Readiness Center Mid Atlantic, Naval Air Station Oceana, VA; relocate depot maintenance workload and capacity for Aircraft Avionics/Electronics Components (approximately 11 K DLHs), Aircraft Hydraulic Components (approximately 19 K DLHs), Aircraft Landing Gear Components (approximately 2 K DLHs), Aircraft Structural Components (approximately 35 K DLHs), and Aircraft Other Components (approximately 6 K DLHs) to Fleet Readiness Center Mid Atlantic Site Norfolk, Naval Air Station Norfolk, VA; relocate depot maintenance workload and capacity for Aircraft Avionics/Electronics Components (approximately 6 K DLHs), Aircraft Hydraulic Components (approximately 10 K DLHs), Aircraft Landing Gear Components (approximately 1 K DLHs), Aircraft Other Components (approximately 3 K DLHs), and Aircraft Structural Components (approximately 18 K DLHs) to Fleet Readiness Center Mid Atlantic Site Patuxent River, Naval Air Station Patuxent River, MD; relocate depot maintenance workload and capacity for Aircraft Avionics/Electronics Components (approximately 2 K DLHs), Aircraft Hydraulic Components (approximately 3 K DLHs), Aircraft Landing Gear Components (approximately 0.4K DLHs), Aircraft Other Components (approximately 1 K DLHs), and Aircraft Structural Components (approximately 6 K DLHs) to FRC Mid Atlantic Site New Orleans, Naval Air Station JRB New Orleans, LA.; relocate depot maintenance workload and capacity for Aircraft Avionics/Electronics Components (approximately 9 K DLHs), Aircraft Hydraulic Components (approximately 16 K DLHs), Aircraft Landing Gear Components (approximately 2 K DLHs), Aircraft Other Components (approximately 6 K DLHs) and Aircraft Structural Components (approximately 30 K DLHs) to the Fleet Readiness Center East Site Beaufort, hereby established at Marine Corps Air Station Beaufort, SC; relocate depot maintenance workload and capacity for Aircraft Avionics/Electronics Components (approximately 11 K DLHs), Aircraft Hydraulic Components (approximately 20 K DLHs), Aircraft Landing Gear Components (approximately 2 K DLHs), Aircraft Other Components (approximately 6 K DLHs), Aircraft Structural Components (approximately 36 K DLHs), Aircraft Rotary (approximately 1 K DLHs), Aircraft VSTOL (approximately 2 K DLHs), Aircraft Cargo/Tanker (approximately 0.02 K DLHs,), Aircraft Other (approximately 18 K DLHs), Aircraft Structural Components (approximately 0.001K DLHs), Calibration (approximately 0.15 K DLHs) and “Other” Commodity (approximately 0.3 K DLHs) to Fleet Readiness Center East Site New River, hereby established at Marine Corps Air Station New River, Camp Lejeune, NC; and transfer all remaining depot maintenance workload and capacity to Fleet Readiness Center East, Marine Corps Air Station Cherry Point, NC.

Realign Marine Corps Air Station Beaufort, SC, by disestablishing Naval Air Depot Jacksonville Detachment Beaufort and transferring all depot maintenance workload and capacity to Fleet Readiness Center East Site Beaufort, Marine Corps Air Station Beaufort, SC.

Realign Naval Air Station Jacksonville, FL, as follows: disestablish Naval Air Depot Jacksonville, Naval Air Depot Jacksonville Detachment Jacksonville, and Aircraft Intermediate Maintenance Department Jacksonville; establish Fleet Readiness Center Southeast, Naval Air Station, Jacksonville, FL; relocate depot maintenance workload and capacity for Aircraft Avionics/Electronics Components (approximately 8 K DLHs), Aircraft Hydraulic Components (approximately 6 K DLHs), Aircraft Landing Gear Components (approximately 3 K DLHs), Aircraft Other Components (approximately 27 K DLHs), and Aircraft Structural Components (approximately 9 K DLHs) to Fleet Readiness Center Southeast Site Mayport, hereby established at Naval Air Station, Mayport, FL; transfer all remaining intermediate and depot maintenance workload and capacity to Fleet Readiness Center Southeast, Naval Air Station Jacksonville, FL.

Realign Naval Air Station Mayport, FL, by disestablishing Aircraft Intermediate Maintenance Department, Naval Air Depot Jacksonville Detachment Mayport, and Naval Air Warfare Center Aircraft Division Lakehurst Voyage Repair Team Detachment Mayport and transferring all intermediate maintenance workload and capacity to Fleet Readiness Center Southeast Site Mayport, Naval Air Station Mayport, FL.

Realign Naval Air Station Lemoore, CA, by disestablishing Aircraft Intermediate Maintenance Department Lemoore and Naval Air Depot North Island Detachment; establishing Fleet Readiness Center West, Naval Air Station Lemoore, CA; and transferring all intermediate and depot maintenance workload and capacity to Fleet Readiness Center West, Naval Air Station Lemoore, CA.

Realign Naval Air Station Fallon, NV, by disestablishing the Aircraft Intermediate Maintenance Department Fallon and the Naval Air Depot North Island Detachment Fallon; establishing Fleet Readiness Center West Site Fallon, Naval Air Station Fallon, NV; and transferring all intermediate and depot maintenance workload and capacity to Fleet Readiness Center West Site Fallon, Naval Air Station Fallon, NV.

Realign Naval Air Warfare Center Weapons Division China Lake, CA, by disestablishing the Aircraft Intermediate Maintenance Department and relocating its maintenance workload and capacity for Aircraft (approximately 3 K DLHs), Aircraft Components (approximately 45 K DLHs), Fabrication & Manufacturing (approximately 6 K DLHs) and Support Equipment (approximately 16 K DLHs) to Fleet Readiness Center West, Naval Air Station Lemoore, CA.

Realign Naval Air Station Joint Reserve Base Fort Worth, TX, by disestablishing the Aircraft Intermediate Maintenance Department, establishing Fleet Readiness Center West Site Fort Worth, Naval Air Station Fort Worth, TX, and transferring all intermediate maintenance workload and capacity to Fleet Readiness Center West Site Fort Worth, Naval Air Station Joint Reserve Base Fort Worth, TX.

Realign Naval Air Station Whidbey Island, WA, by disestablishing the Aircraft Intermediate Maintenance Department, establishing Fleet Readiness Center Northwest, Naval Air Station Whidbey Island, WA, and transferring all intermediate maintenance workload and capacity to Fleet Readiness Center Northwest, Naval Air Station Whidbey Island, WA.

Realign Naval Support Activity Crane, IN, by relocating the depot maintenance workload and capacity for ALQ-99 Electronic Warfare to Fleet Readiness Center Northwest, Naval Air Station Whidbey Island, WA.

Realign Naval Air Station North Island, Naval Base Coronado, CA, as follows: disestablish Naval Air Depot North Island, COMSEACONWINGPAC (AIMD), and NADEP North Island Detachment North Island; establish Fleet Readiness Center Southwest, Naval Air Station North Island, Naval Base Coronado, CA; relocate depot maintenance workload and capacity for Aircraft Avionics/Electronics Components (approximately 6 K DLHs), Aircraft Hydraulic Components (approximately 2 K DLHs), Aircraft Landing Gear Components (approximately 3 K DLHs), Aircraft Other Components (approximately 13 K DLHs), and Aircraft Structural Components (approximately 4 K DLHs) from Naval Air Depot North Island to Fleet Readiness Center Southwest Site Point Mugu, hereby established at Naval Air Station Point Mugu, Naval Base Ventura, CA; relocate depot maintenance workload and capacity for Aircraft Avionics/Electronics Components (approximately 26 K DLHs), Aircraft Hydraulic Component (approximately 8 K DLHs), Aircraft Landing Gear Components (approximately 13 K DLHs), Aircraft Other Components (approximately 55 K DLHs), Aircraft Structural Components (approximately 16 K DLHs) from Naval Air Depot North Island to Fleet Readiness Center Southwest Site Miramar, hereby established at Marine Corps Air Station Miramar, CA; relocate depot maintenance workload and capacity for Aircraft Avionics/Electronics Components (approximately 8 K DLHs), Aircraft Hydraulic Components (approximately 2 K DLHs), Aircraft Landing Gear Components (approximately 4 K DLHs), Aircraft Other Components (approximately 17 K DLHs), and Aircraft Structural Components (approximately 5 K DLHs) from Naval Air Depot North Island to Fleet Readiness Center Southwest Site Pendleton, hereby established at Marine Corps Air Station Camp Pendleton, CA; relocate depot maintenance workload and capacity for Aircraft Avionics/Electronics Components (approximately 6 K DLHs), Aircraft Hydraulic Components (approximately 2 K DLHs), Aircraft Landing Gear Components (approximately 3 K DLHs), Aircraft Other Components (approximately 12 K DLHs), Aircraft Structural Components (approximately 3 K DLHs) from Naval Air Depot North Island to Fleet Readiness Southwest Site Yuma, hereby established at Marine Corps Air Station Yuma, AZ; relocate depot maintenance workload and capacity for Aircraft Avionics/Electronics Components (approximately 6 K DLHs), Aircraft Hydraulic Components ( approximately 2 K DLHs), Aircraft Landing Gear Components (approximately 3 K DLHs), Aircraft Other Components (approximately 12 K DLHs), and Aircraft Structural Components (approximately 3 K DLHs) from Naval Air Depot North Island to Fleet Readiness Center West Site Fort Worth, Fort Worth TX; relocate depot maintenance workload and capacity for Aircraft Avionics/Electronics Components (approximately 25 K DLHs), Aircraft Hydraulic Components (approximately 8 K DLHs), Aircraft Landing Gear Components (approximately 13 K DLHs), Aircraft Other Components (approximately 53 K DLHs), and Aircraft Structural Components (approximately 15 K DLHs), from Naval Air Depot North Island to Fleet Readiness Center Northwest, Naval Air Station Whidbey Island, WA; and transfer all remaining intermediate and depot maintenance workload and capacity to Fleet Readiness Center Southwest, Naval Air Station North Island, Naval Base Coronado, CA.

Realign Naval Air Station Point Mugu, Naval Base Ventura, CA, by disestablishing the Aircraft Intermediate Maintenance Department and transferring all intermediate maintenance workload and capacity to Fleet Readiness Center Southwest Site Point Mugu, Naval Base Ventura, CA.

Realign Marine Corps Air Station Miramar, CA, by transferring depot maintenance workload and capacity for Aircraft Other (approximately 28 K DLHs) and Aircraft Fighter/Attack (approximately 39 K DLHs) and intermediate maintenance workload and capacity for Aircraft Components, Aircraft Engines, Fabrication & Manufacturing and Support Equipment from Marine Aviation Logistics Squadron (MALS)-11 and 16 to Fleet Readiness Center Southwest Site Miramar, Marine Corps Air Station Miramar, CA.

Realign Marine Corps Air Station Camp Pendleton, CA, by transferring depot maintenance workload and capacity for Aircraft Other (approximately 22 K DLHs) and Aircraft Rotary (approximately 102 K DLHs) and intermediate maintenance workload and capacity for Aircraft Components, Aircraft Engines, Fabrication & Manufacturing and Support Equipment from MALS-39 to Fleet Readiness Center Southwest Site Camp Pendleton, Marine Corps Air Station Camp Pendleton, CA.

Realign Marine Corps Air Station Yuma, AZ, by transferring depot maintenance workload and capacity for Aircraft Fighter/Attack, Aircraft Other and Aircraft Rotary and intermediate maintenance workload and capacity for Aircraft Components, Aircraft Engines, Communication/Electronics Equipment, Ordnance Weapons & Missiles, Software and Support Equipment from MALS-13 to Fleet Readiness Center Southwest Site Yuma, Marine Corps Air Station Yuma, AZ.

Lackland Air Force Base, TX

Recommendation: Realign Lackland Air Force Base, TX, by relocating the depot maintenance of Computers, Crypto, Electronic Components (Non-Airborne), and Radio to Tobyhanna Army Depot, PA; and disestablishing all depot maintenance capabilities.

Rock Island Arsenal, IL

Recommendation: Realign Rock Island Arsenal, IL, by relocating the depot maintenance of Combat Vehicles and Other to Anniston Army Depot, AL, and the depot maintenance of Other Equipment and Tactical Vehicles to Letterkenny Army Depot, PA.

Naval Weapons Station Seal Beach, CA

Recommendation: Realign Naval Weapons Station Seal Beach, CA, as follows: relocate the depot maintenance of Electronic Components (Non-Airborne), Fire Control Systems and Components, Radar, and Radio to Tobyhanna Army Depot, PA; relocate the depot maintenance of Material Handling to Marine Corps Logistics Base Albany, GA; relocate the depot maintenance of Other Components to Anniston Army Depot, AL; and relocate the depot maintenance of Tactical Missiles to Letterkenny Army Depot, PA.

Kansas Army Ammunition Plant, KS

Recommendation: Close Kansas Army Ammunition Plant (AAP), KS. Relocate Sensor Fuzed Weapon/Cluster Bomb function and Missile warhead production to McAlester AAP, OK; 155MM ICM Artillery and 60MM, 81MM, and 120MM Mortar functions to Milan, TN; 105MM HE, 155MM HE, and Missile Warhead functions to Iowa AAP, IA; and Detonators/relays/delays to Crane Army Ammunition Activity, IN.

Hawthorne Army Depot, NV

Recommendation: Close Hawthorne Army Depot, NV. Relocate Storage and Demilitarization functions to Tooele Army Depot, UT.

Mississippi Army Ammunition Plant, MS

Recommendation: Close Mississippi Army Ammunition Plant, MS. Relocate the 155MM ICM artillery metal parts functions to Rock Island Arsenal, IL.

Riverbank Army Ammunition Plant, CA

Recommendation: Close Riverbank Army Ammunition Plant, CA. Relocate the artillery cartridge case metal parts functions to Rock Island Arsenal, IL.

Sierra Army Depot, CA

Recommendation: Realign Sierra Army Depot, CA. Relocate Storage to Tooele Army Depot, NV and Demilitarization to Crane Army Ammunition Activity, IN, and McAlester Army Ammunition Plant, OK.

Watervliet Arsenal, NY

Recommendation: Realign Watervliet Arsenal, NY, by disestablishing all capabilities for Other Field Artillery Components.

Lima Tank Plant, OH

Recommendation: Realign Lima Tank Plant, OH. Retain the portion required to support the manufacturing of armored combat vehicles to include Army Future Combat System (FCS) program, Marine Corps Expeditionary Force Vehicle (EFV) chassis, and M1 Tank recapitalization program.

Deseret Chemical Depot, UT

Recommendation: Close Deseret Chemical Depot, UT. Transfer the storage igloos and magazines to Tooele Army Depot, UT.

Newport Chemical Depot, IN

Recommendation: Close Newport Chemical Depot, IN.

Umatilla Chemical Depot, OR

Recommendation: Close Umatilla Chemical Depot, OR.

Lone Star Army Ammunition Plant, TX

Recommendation: Close Lone Star Army Ammunition Plant (AAP), TX. Relocate the Storage and Demilitarization functions to McAlester AAP, IL. Relocate the 105MM and 155MM ICM Artillery, MLRS Artillery, Hand Grenades, 60MM and 81MM Mortars functions to Milan AAP, TN. Relocate Mines and Detonators/Relays/Delays functions to Iowa AAP, IA. Relocate Demolition Charges functions to Crane Army Ammunition Activity (AAA), IN.

Naval Shipyard Detachments

Recommendation: Realign Puget Sound Naval Shipyard Detachment Boston, MA, by relocating the ship repair function to Puget Sound Naval Shipyard, WA.

Realign Naval Station Annapolis, MD, by relocating the Norfolk Naval Shipyard Detachment, Naval Sea Systems Command Plant Equipment Support Office ship repair function to Norfolk Naval Shipyard, VA.

Realign the Navy Philadelphia Business Center, PA, by relocating the Norfolk Naval Shipyard Detachment, Naval Sea Systems Command Shipbuilding Support Office ship repair function to Norfolk Naval Shipyard, VA.

Ship Intermediate Maintenance Activity Norfolk, VA

Recommendation: Realign Ship Intermediate Maintenance Activity (SIMA) Norfolk, VA, by relocating intermediate ship maintenance function to Naval Shipyard Norfolk, VA.

Intelligence Joint Cross-Service Group Recommendations

Defense Intelligence Agency (A Classified Version of This Recommendation Identifies Specific Functions To Be Moved)

Recommendation: Realign Defense Intelligence Analysis Center, Bolling Air Force Base, DC, by relocating select Defense Intelligence Agency intelligence analysis functions to a new facility at Rivanna Station, VA. Realign Crystal Park 5, a leased facility in Arlington, VA, by relocating the Defense Intelligence Agency analysis function to the Defense Intelligence Analysis Center, Bolling Air Force Base, DC.

National Geospatial-Intelligence Agency Activities

Recommendation: Close National Geospatial-Intelligence Agency (NGA) Dalecarlia and Sumner sites, Bethesda, MD; Reston 1, 2 and 3, leased installations in Reston, VA; Newington buildings 8510, 8520, and 8530, Newington, VA; and Building 213 a leased installation at the South East Federal Center, Washington, DC. Relocate all functions to a new facility at Fort Belvoir, VA. Realign the National Reconnaissance Office facility, Westfields, VA, by relocating all NGA functions to a new facility at the Fort Belvoir, VA. Consolidate all NGA National Geospatial-Intelligence College functions on Fort Belvoir into the new facility at Fort Belvoir, VA.

Medical Joint Cross-Service Group Recommendations

Walter Reed National Military Medical Center, Bethesda, MD

Recommendation: Realign Walter Reed Army Medical Center, Washington, DC, as follows: relocate all tertiary (sub-specialty and complex care) medical services to National Naval Medical Center, Bethesda, MD, establishing it as the Walter Reed National Military Medical Center Bethesda, MD; relocate Legal Medicine to the new Walter Reed National Military Medical Center Bethesda, MD; relocate sufficient personnel to the new Walter Reed National Military Medical Center Bethesda, MD, to establish a Program Management Office that will coordinate pathology results, contract administration, and quality assurance and control of DoD second opinion consults worldwide; relocate all non-tertiary (primary and specialty) patient care functions to a new community hospital at Ft Belvoir, VA; relocate the Office of the Secretary of Defense supporting unit to Fort Belvoir, VA; disestablish all elements of the Armed Forces Institute of Pathology except the National Medical Museum and the Tissue Repository; relocate the Armed Forces Medical Examiner, DNA Registry, and Accident Investigation to Dover Air Force Base, DE; relocate enlisted histology technician training to Fort Sam Houston, TX; relocate the Combat Casualty Care Research sub-function (with the exception of those organizational elements performing neuroprotection research) of the Walter Reed Army Institute of Research (Forest Glen Annex) and the Combat Casualty Care Research sub-function of the Naval Medical Research Center (Forest Glen Annex) to the Army Institute of Surgical Research, Fort Sam Houston, TX; relocate Medical Biological Defense Research of the Walter Reed Army Institute of Research (Forest Glen Annex) and Naval Medical Research Center (Forest Glen Annex) to Fort Detrick, MD, and consolidate it with U.S. Army Medical Research Institute of Infectious Diseases; relocate Medical Chemical Defense Research of the Walter Reed Army Institute of Research (Forest Glen Annex) to Aberdeen Proving Ground, MD, and consolidate it with the U.S. Army Medical Research Institute of Chemical Defense; and close the main post.

San Antonio Regional Medical Center, TX

Recommendation: Realign Lackland Air Force Base, TX, by relocating the inpatient medical function of the 59th Medical Wing (Wilford Hall Medical Center) to the Brooke Army Medical Center, Ft Sam Houston, TX, establishing it as the San Antonio Regional Military Medical Center, and converting Wilford Hall Medical Center into an ambulatory care center.

Realign Naval Air Station Great Lakes, IL, Sheppard Air Force Base, TX, Naval Medical Center Portsmouth, Naval Medical Center San Diego, CA, by relocating basic and specialty enlisted medical training to Fort Sam Houston, TX.

McChord Air Force Base, WA

Recommendation: Realign McChord Air Force Base, WA, by relocating all medical functions to Fort Lewis, WA.

Joint Centers of Excellence for Chemical, Biological, and Medical Research and Development and Acquisition

Recommendation: Realign Building 42, 8901 Wisconsin Ave, Bethesda, MD, by relocating the Combat Casualty Care Research sub-function of the Naval Medical Research Center to the Army Institute of Surgical Research, Fort Sam Houston, TX.

Realign Naval Station Great Lakes, IL, by relocating the Army Dental Research Detachment, the Air Force Dental Investigative Service, and the Naval Institute for Dental and Biomedical Research to the Army Institute of Surgical Research, Fort Sam Houston, TX.

Realign 13 Taft Court and 1600 E. Gude Drive, Rockville, MD, by relocating the Walter Reed Army Institute of Research, Division of Retrovirology to the Walter Reed Army Institute of Research, Walter Reed Army Medical Center—Forest Glen Annex, MD, establishing it as a Center of Excellence for Infectious Disease.

Realign Naval Air Station Pensacola, FL, by relocating the Naval Aeromedical Research Laboratory to Wright-Patterson AFB, OH.

Realign 12300 Washington Ave, Rockville, MD, by relocating the Medical Biological Defense Research sub-function to the U. S. Army Medical Research Institute of Infectious Diseases, Ft. Detrick, MD.

Realign Potomac Annex-Washington, DC, by relocating Naval Bureau of Medicine, Code M2, headquarters-level planning, investment portfolio management and program and regulatory oversight of DoD Biomedical Science and Technology programs and FDA-regulated medical product development within the biomedical RDA function to a new Joint Biomedical Research, Development and Acquisition Management Center at Fort Detrick, MD.

Realign 64 Thomas Jefferson Drive, Frederick, MD, by relocating the Joint Program Executive Office for Chemical Biological Defense, Joint Project Manager for Chemical Biological Medical Systems headquarters-level planning, investment portfolio management and program and regulatory oversight of DoD Biomedical Science and Technology programs and FDA-regulated medical product development within the RDA function to a new Joint Biomedical Research, Development and Acquisition Management Center at Fort Detrick, MD.

Realign Fort Belvoir, VA, by relocating the Chemical Biological Defense Research component of the Defense Threat Reduction Agency to Edgewood Chemical Biological Center, Aberdeen Proving Ground, MD.

Realign Tyndall AFB, FL, by relocating Non-medical Chemical Biological Defense Research to Edgewood Chemical Biological Center, Aberdeen Proving Ground, MD, and consolidating it with Air Force Research Laboratory.

Realign Naval Surface Warfare Center, Dahlgren Division, VA, by relocating Non-medical Chemical Biological Defense Research and Development & Acquisition to Edgewood Chemical Biological Center, Aberdeen Proving Ground, MD.

Realign Naval Surface Warfare Center, Crane Division, IN, by relocating the Non-medical Chemical Biological Defense Development and Acquisition to Edgewood Chemical Biological Center, Aberdeen Proving Ground, MD.

Realign Skyline 2 and 6, Falls Church, VA, by relocating the Joint Program Executive Office for Chemical Biological Defense to Edgewood Chemical Biological Center, Aberdeen Proving Ground, MD.

Convert Inpatient Services to Clinics

Recommendation: Realign Marine Corps Air Station Cherry Point, NC by disestablishing the inpatient mission at Naval Hospital Cherry Point; converting the hospital to a clinic with an ambulatory surgery center.

Realign Fort Eustis, VA, by disestablishing the inpatient mission at the Fort Eustis Medical Facility; converting the hospital to a clinic with an ambulatory surgery center.

Realign the United States Air Force Academy, CO, by relocating the inpatient mission of the 10th Medical Group to Fort Carson Medical Facility, CO; converting the 10th Medical Group into a clinic with an ambulatory surgery center.

Realign Andrews Air Force Base, MD, by disestablishing the inpatient mission at the 89th Medical Group; converting the hospital to a clinic with an ambulatory surgery center.

Realign MacDill Air Force Base, FL, by disestablishing the inpatient mission at the 6th Medical Group; converting the hospital to a clinic with an ambulatory surgery center.

Realign Keesler Air Force Base, MS, by disestablishing the inpatient mission at the 81st Medical Group; converting the medical center to a clinic with an ambulatory surgery center.

Realign Scott Air Force Base, IL, by disestablishing the inpatient mission at the 375th Medical Group; converting the hospital to a clinic with an ambulatory surgery center.

Realign Naval Station Great Lakes, IL, by disestablishing the inpatient mission at Naval Hospital Great Lakes; converting the hospital to a clinic with an ambulatory surgery center.

Realign Fort Knox, KY, by disestablishing the inpatient mission at Fort Knox's Medical Facility; converting the hospital to a clinic with an ambulatory surgery center.

Brooks City Base, TX

Recommendation: Close Brooks City Base, San Antonio, TX. Relocate the Air Force Audit Agency and 341st Recruiting Squadron to Randolph AFB. Relocate the United States Air Force School of Aerospace Medicine, the Air Force Institute of Occupational Health, the Naval Health Research Center Electro-Magnetic Energy Detachment, the Human Systems Development and Acquisition function, and the Human Effectiveness Directorate of the Air Force Research Laboratory to Wright Patterson Air Force Base, OH. Consolidate the Human Effectiveness Directorate with the Air Force Research Laboratory, Human Effectiveness Directorate at Wright Patterson Air Force Base, OH. Relocate the Air Force Center for Environmental Excellence, the Air Force Medical Support Agency, Air Force Medical Operations Agency, Air Force Element Medical Defense Agency, Air Force Element Medical-DoD, Air Force-Wide Support Element, 710th Information Operations Flight and the 68th Information Operations Squadron to Lackland Air Force Base, TX. Relocate the Army Medical Research Detachment to the Army Institute of Surgical Research, Fort Sam Houston, TX. Relocate the Non-Medical Chemical Biological Defense Development and Acquisition to Edgewood Chemical Biological Center, Aberdeen Proving Ground, MD. Disestablish any remaining organizations.

Realign Holloman AFB by disestablishing the high-onset gravitational force centrifuge and relocating the physiological training unit (49 ADOS/SGGT) to Wright-Patterson AFB.

Supply and Storage Joint Cross-Service Group Recommendations

Supply, Storage, and Distribution Management Reconfiguration

Recommendation: Realign Defense Supply Center Columbus, OH, by disestablishing the Defense Distribution Depot Columbus, OH. Relocate the storage and distribution functions and associated inventories to the Defense Distribution Depot Susquehanna, PA, hereby designated the Susquehanna Strategic Distribution Platform.

Realign Tobyhanna Army Depot, PA, by consolidating the supply, storage, and distribution functions and associated inventories of the Defense Distribution Depot Tobyhanna, PA, with all other supply, storage, and distribution functions and inventories that exist at Tobyhanna Army Depot to support depot operations, maintenance, and production. Retain the minimum necessary supply, storage, and distribution functions and inventories required to support Tobyhanna Army Depot, and to serve as a wholesale Forward Distribution Point. Relocate all other wholesale storage and distribution functions and associated inventories to the Susquehanna Strategic Distribution Platform.

Realign Naval Station Norfolk, VA, by consolidating the supply, storage, and distribution functions and associated inventories of the Defense Distribution Depot Norfolk, VA, with all other supply, storage, and distribution functions and inventories that exist at Norfolk Naval Base and at Norfolk Naval Shipyard to support shipyard operations, maintenance, and production. Retain the minimum necessary supply, storage, and distribution functions and inventories required to support Norfolk Naval Shipyard operations, maintenance and production, and to serve as a wholesale Forward Distribution Point. Relocate all other wholesale storage and distribution functions and associated inventories to the Susquehanna Strategic Distribution Platform.

Realign Defense Supply Center Richmond, VA, by relocating the storage and distribution functions and associated inventories of the Defense Distribution Depot Richmond, VA, to the Susquehanna Strategic Distribution Platform. Retain the minimum necessary storage and distribution functions and associated inventories at Defense Distribution Depot Richmond, VA, to serve as a wholesale Forward Distribution Point.

Realign Marine Corps Air Station, Cherry Point, NC by consolidating the supply, storage, and distribution functions and associated inventories of the Defense Distribution Depot, Cherry Point, NC, with all other supply, storage, and distribution functions and inventories that exist at Naval Aviation Depot Cherry Point, NC, to support depot operations, maintenance and production. Retain the minimum necessary supply, storage, and distribution functions and inventories required to support Naval Air Depot Cherry Point, and to serve as a wholesale Forward Distribution Point. Relocate all other wholesale storage and distribution functions and associated inventories to the Defense Distribution Depot Warner Robins, GA, hereby designated the Warner Robins Strategic Distribution Platform.

Realign Robins Air Force Base, GA, by consolidating the supply, storage, and distribution functions and associated inventories supporting depot operations, maintenance, and production at the Warner Robins Air Logistics Center with the supply, storage, and distribution functions at the Warner Robins Strategic Distribution Platform.

Realign Marine Corps Logistics Base, Albany, GA, by consolidating the supply, storage, and distribution functions and associated inventories of the Defense Distribution Depot Albany, GA, with all other supply, storage, and distribution functions and inventories that exist at the Maintenance Center Albany, GA, to support depot operations, maintenance, and production. Retain the minimum necessary supply, storage, and distribution functions and inventories required to support the Maintenance Center Albany, GA, and to serve as a wholesale Forward Distribution Point. Relocate all other wholesale storage and distribution functions and associated inventories to the Warner Robins Strategic Distribution Platform.

Realign Naval Air Station Jacksonville, FL, by consolidating the supply, storage, and distribution functions and associated inventories of the Defense Distribution Depot, Jacksonville, FL, with all other supply, storage, and distribution functions and inventories that exist at the Naval Aviation Depot, Jacksonville, FL, to support depot operations, maintenance, and production. Retain the minimum necessary supply, storage, and distribution functions and inventories required to support the Naval Aviation Depot, Jacksonville, FL, and to serve as a wholesale Forward Distribution Point. Relocate all other wholesale storage and distribution functions and associated inventories to the Warner Robins Strategic Distribution Platform.

Realign Anniston Army Depot, AL, by consolidating the supply, storage, and distribution functions and associated inventories of the Defense Distribution Depot Anniston, AL, with all other supply, storage, and distribution functions and inventories that exist at Anniston Army Depot, AL, to support depot operations, maintenance, and production. Retain the minimum necessary supply, storage, and distribution functions and inventories required to support Anniston Army Depot, AL, and to serve as a wholesale Forward Distribution Point. Relocate all other wholesale storage and distribution functions and associated inventories to the Warner Robins Strategic Distribution Platform.

Realign Corpus Christi Army Depot, TX, by consolidating the supply, storage, and distribution functions and associated inventories of the Defense Distribution Depot, Corpus Christi, TX, with all other supply, storage, and distribution functions and inventories that exist at Corpus Christi Army Depot, TX, to support depot operations, maintenance, and production. Retain the minimum necessary supply, storage, and distribution functions and inventories required to support Corpus Christi Army Depot, TX, and to serve as a wholesale Forward Distribution Point. Relocate all other wholesale storage and distribution functions and associated inventories to the Defense Distribution Depot Oklahoma City, hereby designated the Oklahoma City Strategic Distribution Platform.

Realign Tinker AFB, OK, by consolidating the supply, storage, and distribution functions and associated inventories supporting depot operations, maintenance, and production at the Air Logistics Center, Oklahoma City, OK, with the supply, storage, and distribution functions and inventories at the Oklahoma City Strategic Distribution Platform.

Realign Hill AFB, UT, by consolidating the supply, storage, and distribution functions and associated inventories of the Defense Distribution Depot, Hill, UT, with all other supply, storage, and distribution functions and inventories that exist at the Ogden Air Logistics Center, UT, to support depot operations, maintenance, and production. Retain the necessary supply, storage, and distribution functions and inventories required to support the Ogden Air Logistics Center, UT, and to serve as a wholesale Forward Distribution Point. Relocate all other wholesale storage and distribution functions and associated inventories to the Defense Distribution Depot, San Joaquin, CA, hereby designated the San Joaquin Strategic Distribution Platform.

Realign Naval Station Bremerton, WA, by consolidating the supply, storage, and distribution functions and associated inventories of the Defense Distribution Depot, Puget Sound, WA, with all other supply, storage and distribution functions and inventories that exist at Puget Sound Naval Shipyard, WA, to support shipyard operations, maintenance, and production. Retain the minimum necessary supply, storage, and distribution functions and inventories required to support Puget Sound Naval Shipyard, WA, and to serve as a wholesale Forward Distribution Point. Relocate all other wholesale storage and distribution functions and associated inventories to the San Joaquin Strategic Distribution Platform.

Realign Naval Station, San Diego, CA, by consolidating the supply, storage, and distribution functions and associated inventories of the Defense Distribution Depot, San Diego, CA, with all other supply, storage and distribution functions and inventories that exist at Naval Aviation Depot, North Island, CA, to support depot operations, maintenance, and production. Retain the minimum necessary supply, storage, and distribution functions and inventories required to support Naval Aviation Depot, North Island, CA, and to serve as a wholesale Forward Distribution Point. Relocate all other wholesale storage and distribution functions and associated inventories to the San Joaquin Strategic Distribution Platform.

Realign Marine Corps Logistics Base, Barstow, CA, by consolidating the supply, storage, and distribution functions and associated inventories of the Defense Distribution Depot Barstow CA, with all other supply, storage, and distribution functions and inventories that exist at the Maintenance Center Barstow, CA, to support depot operations, maintenance, and production. Retain the minimum necessary supply, storage, and distribution functions and inventories at Defense Distribution Depot Barstow, CA, that are required to support the Maintenance Center Barstow, CA, and to serve as a wholesale Forward Distribution Point. Relocate all other wholesale storage and distribution functions and associated inventories to the San Joaquin Strategic Distribution Platform.

Commodity Management Privatization

Recommendation: Realign Detroit Arsenal, MI, by relocating the supply contracting function for tires to the Inventory Control Point at Defense Supply Center Columbus, OH, and disestablishing all other supply functions for tires.

Realign Hill Air Force Base, UT, as follows: Relocate the supply contracting function for tires to the Inventory Control Point at Defense Supply Center Columbus, OH; disestablish all other supply functions for tires; and disestablish the storage, and distribution functions for tires, packaged petroleum, oils, and lubricants, and compressed gases.

Realign Naval Support Activity, Mechanicsburg, PA, by relocating the supply contracting function for packaged petroleum, oils, and lubricants to the Inventory Control Point at Defense Supply Center, Richmond, VA, and disestablishing all other supply functions for packaged petroleum, oils, and lubricants.

Realign Defense Supply Center, Richmond, VA by disestablishing storage and distribution functions for tires, and the supply, storage, and distribution functions for packaged petroleum, oils, and lubricants, and compressed gases. Retain the supply contracting function for packaged petroleum, oils, and lubricants, and compressed gases.

Realign Defense Supply Center Columbus, OH, Tobyhanna Army Depot, PA, Defense Distribution Depot Susquehanna, PA, Naval Station Norfolk, VA, Marine Corps Air Station Cherry Point, NC, Marine Corps Logistics Base, Albany, GA, Robins Air Force Base, GA, Anniston Army Depot, AL, Naval Air Station Jacksonville, FL, Tinker Air Force Base, OK, Corpus Christi Army Depot, TX, Naval Station Bremerton, WA, Naval Station San Diego, CA, Defense Distribution Depot Barstow, CA, Defense Distribution Depot San Joaquin, CA, and Naval Station Pearl Harbor, HI, by disestablishing storage and distribution functions for tires, packaged petroleum, oils, and lubricants, and compressed gases at each location.

Depot Level Reparable Procurement Management Consolidation

Recommendation: Realign Lackland Air Force Base, TX, as follows: relocate the Budget/Funding, Contracting, Cataloging, Requisition Processing, Customer Services, Item Management, Stock Control, Weapon System Secondary Item Support, Requirements Determination, Integrated Materiel Management Technical Support Inventory Control Point functions for Consumable Items to Defense Supply Center Columbus, OH, and reestablish them as Defense Logistics Agency Inventory Control Point functions; relocate the procurement management and related support functions for Depot Level Reparables to Robins Air Force Base, GA, and designate them as Defense Supply Center Columbus, OH, Inventory Control Point functions; relocate the remaining integrated materiel management, user, and related support functions to Robins Air Force Base, GA.

Realign Soldier Systems Center, Natick, MA, by relocating the Budget/Funding, Contracting, Cataloging, Requisition Processing, Customer Services, Item Management, Stock Control, Weapon System Secondary Item Support, Requirements Determination, Integrated Materiel Management Technical Support Inventory Control Point functions for Consumable Items to Defense Supply Center Philadelphia, PA, and reestablishing them as Defense Logistics Agency Inventory Control Point functions and by disestablishing the procurement management and related support functions for Depot Level Reparables and designating them as Defense Supply Center Philadelphia, PA, Inventory Control Point functions.

Realign Detroit Arsenal, MI, by relocating the Budget/Funding, Contracting, Cataloging, Requisition Processing, Customer Services, Item Management, Stock Control, Weapon System Secondary Item Support, Requirements Determination, Integrated Materiel Management Technical Support Inventory Control Point functions for Consumable Items to Defense Supply Center Columbus, OH, and reestablishing them as Defense Logistics Agency Inventory Control Point functions, and by disestablishing the procurement management and related support functions for Depot Level Reparables and designating them as Defense Supply Center Columbus, OH, Inventory Control Point functions.

Realign Rock Island Arsenal, IL, as follows: Relocate the Budget/Funding, Contracting, Cataloging, Requisition Processing, Customer Services, Item Management, Stock Control, Weapon System Secondary Item Support, Requirements Determination, Integrated Materiel Management Technical Support Inventory Control Point functions for Consumable Items to Defense Supply Center Columbus, OH, and reestablish them as Defense Logistics Agency Inventory Control Point functions; relocate the procurement management and related support functions for Depot Level Reparables to Detroit Arsenal, MI, and designate them as Defense Supply Center Columbus, OH, Inventory Control Point functions; and relocate the remaining integrated materiel management, user, and related support functions to Detroit Arsenal, MI.

Realign Ft. Huachuca, AZ, as follows: Relocate the Budget/Funding, Contracting, Cataloging, Requisition Processing, Customer Services, Item Management, Stock Control, Weapon System Secondary Item Support, Requirements Determination, Integrated Materiel Management Technical Support Inventory Control Point functions for Consumable Items to Defense Supply Center Columbus, OH, and designate them as Defense Logistics Agency Inventory Control Point functions; relocate the procurement management and related support functions for Depot Level Reparables to Aberdeen Proving Ground, MD, and designate them as Defense Supply Center Columbus, OH, Inventory Control Point functions; and relocate the remaining integrated materiel management, user, and related support functions to Aberdeen Proving Ground, MD.

Realign Naval Support Activity Mechanicsburg, PA, as follows: Relocate the Budget/Funding, Contracting, Cataloging, Requisition Processing, Customer Services, Item Management, Stock Control, Weapon System Secondary Item Support, Requirements Determination, Integrated Materiel Management Technical Support Inventory Control Point functions for Consumable Items, except those Navy items associated with Nuclear Propulsion Support, Level 1/Subsafe and Deep Submergence System Program (DSSP) Management, Strategic Weapon Systems Management, Design Unstable/Preproduction Test, Special Waivers, Major End Items and Fabricated or Reclaimed items to Defense Supply Center Columbus, OH, and reestablish them as Defense Logistics Agency Inventory Control Point functions; disestablish the procurement management and related support functions for Depot Level Reparables and designate them as Defense Supply Center Columbus, OH, Inventory Control Point functions; and relocate the oversight of Budget/Funding, Contracting, Cataloging, Requisition Processing, Customer Services, Item Management, Stock Control, Weapon System Secondary Item Support, Requirements Determination, Integrated Materiel Management Technical Support Inventory Control Point functions for Consumable Items and the oversight of procurement management and related support functions for Depot Level Reparables to the Defense Logistics Agency, Fort Belvoir, VA.

Realign Marine Corps Base, Albany, GA, as follows: Relocate the Budget/Funding, Contracting, Cataloging, Requisition Processing, Customer Services, Item Management, Stock Control, Weapon System Secondary Item Support, Requirements Determination, Integrated Materiel Management Technical Support Inventory Control Point functions for any residual Consumable Items to Defense Supply Center Columbus, OH, and reestablish them as Defense Logistics Agency Inventory Control Point functions; disestablish the procurement management and related support functions for Depot Level Reparables and designate them as Defense Supply Center Columbus, OH, Inventory Control Point functions; and relocate the oversight of Budget/Funding, Contracting, Cataloging, Requisition Processing, Customer Services, Item Management, Stock Control, Weapon System Secondary Item Support, Requirements Determination, Integrated Materiel Management Technical Support Inventory Control Point functions for Consumable Items and the oversight of procurement management and related support functions for Depot Level Reparables to the Defense Logistics Agency, Fort Belvoir, VA.

Realign Naval Support Activity Philadelphia, PA, Tinker Air Force Base, OK, Hill Air Force Base, UT, and Robins Air Force Base, GA, by relocating the Budget/Funding, Contracting, Cataloging, Requisition Processing, Customer Services, Item Management, Stock Control, Weapon System Secondary Item Support, Requirements Determination, Integrated Materiel Management Technical Support Inventory Control Point functions for Consumable Items, except those Navy items associated with Design Unstable/Preproduction Test, Special Waivers and Major End Items to Defense Supply Center Richmond, VA, and reestablishing them as Defense Logistics Agency Inventory Control Point functions, and by disestablishing the procurement management and related support functions for Depot Level Reparables and designating them as Defense Supply Center Richmond, VA, Inventory Control Point functions.

Realign Redstone Arsenal, AL, as follows: Relocate the Budget/Funding, Contracting, Cataloging, Requisition Processing, Customer Services, Item Management, Stock Control, Weapon System Secondary Item Support, Requirements Determination, Integrated Materiel Management Technical Support Inventory Control Point functions for Aviation Consumable Items to Defense Supply Center Richmond, VA, and reestablish them as Defense Logistics Agency Aviation Inventory Control Point functions; disestablish the procurement management and related support functions for Aviation Depot Level Reparables and designate them as Defense Supply Center Richmond, VA, Aviation Inventory Control Point functions; relocate the Budget/Funding, Contracting, Cataloging, Requisition Processing, Customer Services, Item Management, Stock Control, Weapon System Secondary Item Support, Requirements Determination, Integrated Materiel Management Technical Support Inventory Control Point functions for Missile Consumable Items to Defense Supply Center Columbus, OH; reestablish them as Defense Logistics Agency Missile Inventory Control Point functions; disestablish the procurement management and related support functions for Missile Depot Level Reparables and designate them as Defense Supply Center Columbus, OH, Missile Inventory Control Point functions; and realign a portion of the remaining integrated materiel management, user, and related support functions necessary to oversee the Inventory Control Point activities at Aberdeen Proving Ground, MD, Detroit Arsenal, MI, Soldier System Center, Natick, MA, and Redstone Arsenal, AL, to Headquarters Army Materiel Command (AMC).

Realign Wright-Patterson Air Force Base, OH, by relocating the oversight of Budget/Funding, Contracting, Cataloging, Requisition Processing, Customer Services, Item Management, Stock Control, Weapon System Secondary Item Support, Requirements Determination, Integrated Materiel Management Technical Support Inventory Control Point functions for Consumable Items and the oversight of procurement management and related support functions for Depot Level Reparables to the Defense Logistics Agency, Fort Belvoir, VA.

Realign Fort Belvoir, VA, by assigning the oversight of Budget/Funding, Contracting, Cataloging, Requisition Processing, Customer Services, Item Management, Stock Control, Weapon System Secondary Item Support, Requirements Determination, Integrated Materiel Management Technical Support Inventory Control Point functions for Consumable Items and the oversight of procurement management and related support functions for Depot Level Reparables to the Defense Logistics Agency, Fort Belvoir, VA.

Technical Joint Cross-Service Group Recommendations

Defense Research Service Led Laboratories

Recommendation: Close the Air Force Research Laboratory, Mesa City, AZ. Relocate all functions to Wright Patterson Air Force Base, OH.

Realign Air Force Research Laboratory, Hanscom, MA, by relocating the Sensors Directorate to Wright Patterson Air Force Base, OH, and the Space Vehicles Directorate to Kirtland Air Force Base, NM.

Realign Rome Laboratory, NY, by relocating the Sensor Directorate to Wright Patterson Air Force Base, OH, and consolidating it with the Air Force Research Laboratory, Sensor Directorate at Wright Patterson Air Force Base, OH.

Realign Air Force Research Laboratory, Wright Patterson Air Force Base, OH, by relocating the Information Systems Directorate to Hanscom Air Force Base, MA.

Realign Army Research Laboratory Langley, VA, and Army Research Laboratory Glenn, OH, by relocating the Vehicle Technology Directorates to Aberdeen Proving Ground, MD.

Realign the Army Research Laboratory White Sands Missile Range, NM, by relocating all Army Research Laboratory activities except the minimum detachment required to maintain the Test and Evaluation functions at White Sands Missile Range, NM, to Aberdeen Proving Ground, MD.

Co-Locate Extramural Research Program Managers

Recommendation: Close the Office of Naval Research facility, Arlington, VA; the Air Force Office of Scientific Research facility, Arlington, VA; the Army Research Office facilities, Durham, NC, and Arlington, VA; and the Defense Advanced Research Project Agency facility, Arlington, VA. Relocate all functions to the National Naval Medical Center, Bethesda, MD. Realign Fort Belvoir, VA, by relocating the Army Research Office to the National Naval Medical Center, Bethesda, MD. Realign the Defense Threat Reduction Agency Telegraph Road facility, Alexandria, VA, by relocating the Extramural Research Program Management function (except conventional armaments and chemical biological defense research) to the National Naval Medical Center, Bethesda, MD.

Consolidate Ground Vehicle Development & Acquisition in a Joint Center

Recommendation: Realign Redstone Arsenal, Huntsville, AL, by relocating the joint robotics program development and acquisition activities to Detroit Arsenal, Warren, MI, and consolidating them with the Program Executive Office Ground Combat Systems, Program Executive Office Combat Support and Combat Service Support and Tank Automotive Research Development Engineering Center. Realign the USMC Direct Reporting Program Manager Advanced Amphibious Assault (DRPM AAA) facilities in Woodbridge, VA, by relocating the Ground Forces initiative D&A activities to Detroit Arsenal, Warren, MI.

Consolidate Navy Strategic Test & Evaluation

Recommendation: Realign Patrick Air Force Base, Cape Canaveral, FL, by relocating Nuclear Test and Evaluation at the Naval Ordnance Test Unit to Strategic Weapons Facility Atlantic, Kings Bay, GA.

Consolidate Sea Vehicle Development & Acquisition

Recommendation: Realign Detroit Arsenal, MI, by relocating Sea Vehicle Development and Acquisition to Naval Surface Warfare Center Carderock Division, Bethesda, MD, and Program Management and Direction of Sea Vehicle Development and Acquisition to Naval Sea Systems Command, Washington Navy Yard, DC.

Establish Centers for Rotary Wing Air Platform Development & Acquisition, Test & Evaluation

Recommendation: Realign Wright Patterson Air Force Base, OH, by relocating Air Force Materiel Command V-22 activities in rotary wing air platform development and acquisition to Patuxent River, MD. Realign the Naval Air Engineering Station Lakehurst, NJ, by relocating activities in rotary wing air platform development, acquisition, test and evaluation to Patuxent River, MD. Realign Ft. Rucker, AL, by relocating the Aviation Technical Test Center to Redstone Arsenal, AL, and consolidating it with the Technical Test Center at Redstone Arsenal, AL. Realign Warner-Robins Air Force Base, GA, by relocating activities in rotary wing air platform development and acquisition to Redstone Arsenal, AL.

Establish Centers for Fixed Wing Air Platform Research, Development & Acquisition, Test & Evaluation

Recommendation: Realign Tinker Air Force Base, OK, Robins, Air Force Base, GA, and Hill Air Force Base, UT, by relocating fixed wing related Air Platform Development and Acquisition to Wright Patterson Air Force Base, OH.

Realign Wright Patterson Air Force Base, OH, by relocating fixed wing related Live Fire Test and Evaluation to Naval Air Weapons Station China Lake, CA.

Create an Air Integrated Weapons & Armaments Research, Development & Acquisition, Test & Evaluation Center

Recommendation: Realign Hill Air Force Base, UT, by relocating Weapons and Armaments In-Service Engineering Research, Development & Acquisition, and Test and Evaluation to Eglin Air Force Base, FL. Realign Fort Belvoir, VA, by relocating Defense Threat Reduction Agency National Command Region conventional armament Research to Eglin Air Force Base, FL.

Create a Naval Integrated Weapons & Armaments Research, Development & Acquisition, Test & Evaluation Center

Recommendation: Realign Naval Surface Warfare Center Crane, IN, by relocating all Weapons and Armaments Research, Development & Acquisition, and Test & Evaluation, except gun/ammo, combat system security, and energetic materials to Naval Air Weapons Station China Lake, CA.

Realign Naval Surface Warfare Center Indian Head, MD, by relocating all Weapons and Armaments Research, Development & Acquisition, and Test & Evaluation, except gun/ammo, underwater weapons, and energetic materials, to Naval Air Weapons Station China Lake, CA.

Realign Naval Air Station Patuxent River, MD, by relocating all Weapons and Armaments Research, Development & Acquisition, and Test & Evaluation, except the Program Executive Office and Program Management Offices in Naval Air Systems Command, to Naval Air Weapons Station China Lake, CA.

Realign Naval Base Ventura County, Point Mugu, CA, by relocating all Weapons and Armaments Research, Development & Acquisition, and Test & Evaluation to Naval Air Weapons Station China Lake, CA.

Realign Naval Weapons Station Seal Beach, CA, by relocating all Weapons and Armaments Research, Development & Acquisition, and Test & Evaluation, except underwater weapons and energetic materials, to Naval Air Weapons Station China Lake, CA.

Realign Naval Surface Warfare Center, Yorktown, VA, by relocating all Weapons and Armaments Research, Development & Acquisition, and Test & Evaluation to Naval Surface Warfare Center Indian Head, MD.

Realign Naval Base Ventura County, Port Hueneme, CA, by relocating all Weapons and Armaments Research, Development & Acquisition, and Test & Evaluation, except weapon system integration, to Naval Air Weapons Station China Lake, CA.

Realign Fleet Combat Training Center, CA (Port Hueneme Detachment, San Diego, CA), by relocating all Weapons and Armaments weapon system integration Research, Development & Acquisition, and Test & Evaluation to Naval Surface Warfare Center Dahlgren, VA.

Realign Naval Surface Warfare Center Dahlgren, VA, by relocating all Weapons & Armaments Research, Development & Acquisition, and Test & Evaluation, except guns/ammo and weapon systems integration to Naval Air Weapons Station China Lake, CA.

Create an Integrated Weapons & Armaments Specialty Site for Guns and Ammunition

Recommendation: Realign the Adelphi Laboratory Center, MD, by relocating gun and ammunition Research and Development & Acquisition to Picatinny Arsenal, NJ.

Realign Naval Surface Warfare Center Division Crane, IN, by relocating gun and ammunition Research and Development & Acquisition to Picatinny Arsenal, NJ.

Realign the Fallbrook, CA, detachment of Naval Surface Warfare Center Division Crane, IN, by relocating gun and ammunition Research and Development & Acquisition to Picatinny Arsenal, NJ.

Realign Naval Surface Warfare Center Division Dahlgren, VA, by relocating gun and Ammunition Research and Development & Acquisition to Picatinny Arsenal, NJ.

Realign the Louisville, KY, detachment of Naval Surface Warfare Center Division Port Hueneme, CA, by relocating gun and ammunition Research and Development & Acquisition to Picatinny Arsenal, NJ.

Realign Naval Air Warfare Center Weapons Division China Lake, CA, by relocating gun and ammunition Research and Development & Acquisition to Picatinny Arsenal, NJ.

Realign Naval Surface Warfare Center Division Indian Head, MD, by relocating gun and ammunition Research and Development & Acquisition to Picatinny Arsenal, NJ.

Realign Naval Surface Warfare Center Division Earle, NJ, by relocating weapon and armament packaging Research and Development & Acquisition to Picatinny Arsenal, NJ.

Consolidate Maritime C4ISR Research, Development & Acquisition, Test & Evaluation

Recommendation: Realign Washington Navy Yard, DC, by disestablishing the Space Warfare Systems Center Charleston, SC, detachment Washington Navy Yard and assign functions to the new Space Warfare Systems Command Atlantic Naval Amphibious Base, Little Creek, VA.

Realign Naval Station, Norfolk, VA, by disestablishing the Space Warfare Systems Center Norfolk, VA, and the Space Warfare Systems Center Charleston, SC, detachment Norfolk, VA, and assign functions to the new Space Warfare Systems Command Atlantic Naval Amphibious Base, Little Creek, VA.

Realign Naval Weapons Station Charleston, SC, as follows: Relocate Surface Maritime Sensors, Electronic Warfare, and Electronics Research, Development & Acquisition, and Test & Evaluation of the Space Warfare Center to Naval Surface Warfare Center Division, Dahlgren, VA; relocate Subsurface Maritime Sensors, Electronic Warfare, and Electronics Research, Development & Acquisition, and Test & Evaluation of the Space Warfare Center to Naval Station Newport, RI; and relocate the Command Structure of the Space Warfare Center to Naval Amphibious Base, Little Creek, VA, and consolidate it with billets from Space Warfare Systems Command San Diego to create the Space Warfare Systems Command Atlantic, Naval Amphibious Base, Little Creek, VA. The remaining Maritime Information Systems Research, Development & Acquisition, and Test & Evaluation functions at Naval Weapons Station Charleston, SC, are assigned to Space Warfare Systems Command Atlantic, Naval Amphibious Base, Little Creek, VA.

Realign Naval Base Ventura County, CA, Naval Surface Warfare Center Division, Dahlgren, VA, and Naval Station Newport, RI, by relocating Maritime Information Systems Research, Development & Acquisition, and Test & Evaluation to Naval Submarine Base Point Loma, San Diego, CA, and consolidating with the Space Warfare Center to create the new Space Warfare Systems Command Pacific, Naval Submarine Base Point Loma, San Diego, CA.

Realign Naval Submarine Base Point Loma, San Diego, CA, as follows: Relocate Surface Maritime Sensors, Electronic Warfare, and Electronics Research, Development & Acquisition, and Test & Evaluation of the Space Warfare Center to Naval Surface Warfare Center Division, Dahlgren, VA; relocate Subsurface Maritime Sensors, Electronic Warfare, and Electronics Research, Development & Acquisition, and Test & Evaluation of the Space Warfare Center to Naval Station Newport, RI; disestablish Space Warfare Systems Center Norfolk, VA, detachment San Diego, CA, and assign functions to the new Space Warfare Systems Command Pacific, Naval Submarine Base Point Loma, San Diego, CA; disestablish Naval Center for Tactical Systems Interoperability, San Diego, CA, and assign functions to the new Space Warfare Systems Command Pacific, Naval Submarine Base Point Loma, San Diego, CA; and disestablish Space Warfare Systems Command San Diego, CA, detachment Norfolk, VA, and assign functions to the new Space Warfare Systems Command Atlantic, Naval Amphibious Base, Little Creek, VA.

Realign Naval Air Station Patuxent River, MD, by relocating Subsurface Maritime Sensors, Electronic Warfare, and Electronics Research, Development & Acquisition, and Test & Evaluation of the Naval Air Warfare Center, Aircraft Division to Naval Station Newport, RI.

Realign Naval Air Station Jacksonville, FL, by disestablishing the Space Warfare Systems Center Charleston, SC, detachment Jacksonville, FL.

Realign Naval Air Station Pensacola, FL, by relocating the Space Warfare Systems Center Charleston, SC, detachment Pensacola, FL, to Naval Weapons Station Charleston, SC.

Realign Naval Weapons Station Yorktown, VA, by relocating the Space Warfare Systems Center Charleston, SC, detachment Yorktown, VA, to Naval Station Norfolk, VA, and consolidating it into the new Space Warfare Systems Command Atlantic detachment, Naval Station Norfolk, VA.

Navy Sensors, Electronic Warfare, and Electronics Research, Development & Acquisition, Test & Evaluation

Recommendation: Realign Naval Air Warfare Center, Weapons Division, Point Mugu, CA. Relocate the Sensors, Electronic Warfare (EW), and Electronics Research, Development, Acquisition, Test & Evaluation (RDAT&E) functions to Naval Air Warfare Center, Weapons Division, China Lake, CA.

Consolidate Air and Space C4ISR Research, Development & Acquisition, Test & Evaluation

Recommendation: Realign Wright-Patterson Air Force Base, OH, Maxwell Air Force Base, AL, and Lackland Air Force Base, TX, by relocating Air & Space Information Systems Research and Development & Acquisition to Hanscom Air Force Base, MA. Realign Eglin Air Force Base, FL, by relocating Air & Space Sensors, Electronic Warfare & Electronics and Information Systems Test & Evaluation to Edwards Air Force Base, CA.

B. Previous Federal Register References

1. 56 FR 15184, April 15, 1991: Recommended Base Closures and Realignments.

2. 58 FR 14002, March 15, 1993: Recommended Base Closures and Realignments.

3. 60 FR 11414, March 1, 1995: Notice of recommended Base Closures and Realignments.

4. 59 FR 63769, December 9, 1994: Final selection criteria.

5. 68 FR 74221, December 23, 2003: Draft selection criteria and request for comments.

6. 69 FR 3335, January 23, 2004: Extend comment period on draft selection criteria.

7. 69 FR 6948, February 12, 2004: Final Selection Criteria.

Dated: May 12, 2005.
L.M. Bynum,
Alternate OSD Federal Register Liaison Officer, Department of Defense.

[FR Doc. 05-9749 Filed 5-13-05; 12:00 pm]

BILLING CODE 5001-06-P